DEPARTMENT OF STATE

DEPARTMENT OF COMMERCE

National Oceanic and Atmospheric Administration

RIN 0648-XM35

New and Revised Conservation and Management Measures and Resolutions for Antarctic Marine Living Resources Under the Auspices of CCAMLR

AGENCIES: Office of Ocean Affairs, Department of State and National Marine Fisheries Service (NMFS), National Oceanic and Atmospheric Administration (NOAA), Commerce.

ACTION: Notice.

SUMMARY: At its Twenty-Seventh Meeting in Hobart, Tasmania, from October 27 to November 7, 2008, the Commission for the Conservation of Antarctic Marine Living Resources (CCAMLR), of which the United States is a member, adopted conservation and management measures and resolutions, pending countries' approval, pertaining to fishing in the CCAMLR Convention Area. All the measures were agreed upon in accordance with Article IX of the Convention for the Conservation of Antarctic Marine Living Resources (Convention). Measures adopted restrict overall catches of certain species of finfish, squid, krill and crabs, restrict fishing in certain areas, restrict use of certain fishing gear, specify implementation and inspection obligations supporting the Catch Documentation Scheme of Contracting Parties, promote compliance with CCAMLR measures by non-Contracting Party vessels, and require vessels engaged in bottom fishing to report data on benthic organisms recovered by their gear. This notice includes the full text of the new and revised conservation measures adopted at the Twenty-Seventh meeting of CCAMLR. This notice also includes a listing of conservation measures that carry over from last year without change. The full text of these measures was published in the Federal Register on January 29, 2007, except for Conservation Measures 10-04, 23-06, and 31-02 for which full text was published in the Federal Register on December 21, 2007. NMFS suggests that the public view these measures along with the measures contained in this Federal Register notice for a complete listing of all the measures adopted by CCAMLR at its recent meeting. The full text of all measures adopted by CCAMLR can be found on CCAMLR's Web site— http://www.ccamlr.org. This notice, therefore, together with the U.S. regulations referenced under the Supplementary Information, provides a comprehensive register of all current U.S. obligations under CCAMLR.

DATES: Persons wishing to comment on the measures or desiring more information should submit written comments by March 16, 2009.

FOR FURTHER INFORMATION CONTACT: Robert Gorrell, Office of Sustainable Fisheries, Room 13463, 1315 East-West Highway, SSMC3, NMFS, Silver Spring, MD 20910; tel: 301-713-2341; fax: 301-713-1193; e-mail Robert.Gorrell@noaa.gov.

SUPPLEMENTARY INFORMATION: Individuals interested in CCAMLR should also see 15 CFR Chapter III—International Fishing and Related Activities, Part 300—International Fishing Regulations, Subpart A—General; Subpart B—High Seas Fisheries; and Subpart G—Antarctic Marine Living Resources, for other regulatory measures related to conservation and management in the CCAMLR Convention area. Subpart B notes the requirements for high seas fishing vessel licensing. Subparts A and G describe the process for regulating U.S. fishing in the CCAMLR Convention area, which NMFS uses to implement CCAMLR Conservation Measures that are not expected to change from year to year. The regulations in Subpart G include sections on: Purpose and scope; Definitions; Relationship to other treaties, conventions, laws, and regulations; Procedure for according protection to CCAMLR Ecosystem Monitoring Program Sites; Scientific Research; Initiating a new fishery; Exploratory fisheries; Reporting and recordkeeping requirements; Vessel and gear identification; Gear disposal; Mesh size; Harvesting permits; Scientific observers; Dealer permits and preapproval; Appointment of a designated representative; Requirements for a vessel monitoring system; Prohibitions; Facilitation of enforcement and inspection; and Penalties.

Review of existing conservation measures and resolutions (the date in parenthesis indicates the last year in which the measure was amended by CCAMLR):

The Commission noted that the following conservation measures would lapse on November 30, 2008: 32-09 (2007), 33-02 (2007), 33-03 (2007), 41-01 (2007), 41-03 (2006), 41-04 (2007), 41-05 (2007), 41-06 (2007), 41-07 (2007), 41-09 (2007), 41-10 (2007), 41-11 (2007), 42-02 (2007), 52-01 (2007), 52-02 (2007) and 61-01 (2007). Conservation Measure 42-01 (2007) lapsed on November 14, 2008. All of these conservation measures dealt with fishery-related matters for the 2007/08 season and are replaced by new measures mentioned below.

The following unchanged conservation measures and resolutions will remain in force in 2008/09:

Compliance: 10-01 (1998), 10-04 (2007) and 10-08 (2006).

General fishery matters: 21-02 (2006), 22-01 (1986), 22-02 (1984), 22-03 (1990), 22-04 (2006), 23-01 (2005), 23-02 (1993), 23-03 (1991), 23-04 (2000), 23-05 (2000), 23-06 (2007) and 25-03 (2003).

Fishery regulations: 31-01 (1986), 31-02 (2007), 32-01 (2001), 32-02 (1998), 32-03 (1998), 32-04 (1986), 32-05 (1986), 32-06 (1985), 32-07 (1999), 32-08 (1997), 32-10 (2002), 32-11 (2002), 32-12 (1998), 32-13 (2003), 32-14 (2003), 32-15 (2003), 32-16 (2003), 32-17 (2003), 32-18 (2006) and 33-01 (1995).

Protected areas: 91-01 (2004) and 91-02 (2004).

Resolutions: 7/IX, 10/XII, 14/XIX, 15/XXII, 16/XIX, 17/XX, 18/XXI, 19/XXI, 20/XXII, 21/XXIII, 22/XXV, 23/XXIII, 25/XXV and 26/XXVI.

The full text of all but three of these unchanged conservation measures and all but one of the resolutions was published in the January 29, 2007 Federal Register (72 FR 4068). The full text of Conservation Measures 10-04, 23-06, and 31-02 was published in the December 21, 2007 Federal Register (72 FR 72826). The full text of Resolution 26/XXVI was also published in the December 21, 2007 Federal Register (72 FR 72826).

The Commission revised the following conservation measures:

Compliance:

CM 10-02 (2007) was revised as 10-02 (2008) 1 2

Licensing and inspection obligations of Contracting Parties with regard to their flag vessels operating in the Convention Area

CM 10-03 (2005) was revised as 10-03 (2008) 1 2

Port inspection of vessels carrying toothfish

CM 10-05 (2006) was revised as 10-05 (2008)

Catch Documentation Scheme for Dissostichus spp.

CM 10-06 (2006) was revised as 10-06 (2008)

Scheme to promote compliance by Contracting Party vessels with CCAMLR conservation measures

CM 10-07 (2006) was revised as 10-07 (2008)

Scheme to promote compliance by non-Contracting Party vessels with CCAMLR conservation measures

General fisheries matters:

CM 21-01 (2006) was revised as 21-01 (2008) 1 2

Notification that Members are considering initiating a new fishery

CM 21-03 (2007) was revised as 21-03 (2008)

Notifications of intent to participate in a fishery for Euphausia superba

CM 22-05 (2006) was revised as 22-05 (2008)

Restrictions on the use of bottom trawling gear in high-seas areas of the Convention Area

CM 22-06 (2007) was revised as 22-06 (2008) 1 2

Bottom fishing in the Convention Area

CM 24-01 (2005) was revised as 24-01 (2008) 1 2

The application of conservation measures to scientific research

CM 24-02 (2005) was revised as 24-02 (2008)

Longline weighting for seabird conservation

CM 25-02 (2007) was revised as 25-02 (2008) 1 2

Minimisation of the incidental mortality of seabirds in the course of longline fishing or longline fishing research in the Convention Area

CM 26-01 (2006) was revised as 26-01 (2008) 1 2

General environmental protection during fishing

Fishery regulations:

Toothfish: CM 41-02 (2007) was revised as 41-02 (2008)

Limits on the fishery for Dissostichus eleginoides in Statistical Subarea 48.3 in the 2007/08 and 2008/09 seasons

Toothfish: CM 41-08 (2007) was revised as 41-08 (2008)

Limits on the fishery for Dissostichus eleginoides in Statistical Division 58.5.2 in the 2007/08 and 2008/09 seasons

Krill: CM 51-01 (2007) was revised as 51-01 (2008)

Precautionary catch limitations on Euphausia superba in Statistical Subareas 48.1, 48.2, 48.3 and 48.4

Krill: CM 51-02 (2006) was revised as 51-02 (2008)

Precautionary catch limitation on Euphausia superba in Statistical Division 58.4.1

Krill: CM 51-03 (2007) was revised as 51-03 (2008)

Precautionary catch limitation on Euphausia superba in Statistical Division 58.4.2

In addition, the Commission adopted 22 new conservation measures and two new resolutions:

Compliance:

CM 10-09 (2008)

Notification system for transhipments within the Convention Area

General fisheries matters:

Gear Regulations: CM 22-07 (2008) 1 2

Interim measure for bottom fishing activities subject to Conservation Measure 22-06 encountering potential vulnerable marine ecosystems in the Convention Area

Fishery regulations:

Fishing Seasons, Closed Areas and Prohibition of Fishing: CM 32-09 (2008)

Prohibition of directed fishing for Dissostichus spp. except in accordance with specific conservation measures in the 2008/09 season

By-catch Limits: CM 33-02 (2008)

Limitation of by-catch in Statistical Division 58.5.2 in the 2008/09 season

By-catch Limits: CM 33-03 (2008) 1 2

Limitation of by-catch in new and exploratory fisheries in the 2008/09 season

Finfish Fisheries—Toothfish: CM 41-01 (2008) 1 2

General measures for exploratory fisheries for Dissostichus spp. in the Convention Area in the 2008/09 season

Finfish Fisheries—Toothfish: CM 41-03 (2008)

Limits on the fishery for Dissostichus spp. in Statistical Subarea 48.4 in the 2008/09 season

Finfish Fisheries—Toothfish: CM 41-04 (2008)

Limits on the exploratory fishery for Dissostichus spp. in Statistical Subarea 48.6 in the 2008/09 season

Finfish Fisheries—Toothfish: CM 41-05 (2008)

Limits on the exploratory fishery for Dissostichus spp. in Statistical Division 58.4.2 in the 2008/09 season

Finfish Fisheries—Toothfish: CM 41-06 (2008)

Limits on the exploratory fishery for Dissostichus spp. on Elan Bank (Statistical Division 58.4.3a) outside areas of national jurisdiction in the 2008/09 season

Finfish Fisheries—Toothfish: CM 41-07 (2008)

Limits on the exploratory fishery for Dissostichus spp. on BANZARE Bank (Statistical Division 58.4.3b) outside areas of national jurisdiction in the 2008/09 season

Finfish Fisheries—Toothfish: CM 41-09 (2008)

Limits on the exploratory fishery for Dissostichus spp. in Statistical Subarea 88.1 in the 2008/09 season

Finfish Fisheries—Toothfish: CM 41-10 (2008)

Limits on the exploratory fishery for Dissostichus spp. in Statistical Subarea 88.2 in the 2008/09 season

Finfish Fisheries—Toothfish: CM 41-11 (2008)

Limits on the exploratory fishery for Dissostichus spp. in Statistical Division 58.4.1 in the 2008/09 season

Finfish Fisheries—Icefish: CM 42-01 (2008)

Limits on the fishery for Champsocephalus gunnari in Statistical Subarea 48.3 in the 2008/09 season

Finfish Fisheries—Icefish: CM 42-02 (2008)

Limits on the fishery for Champsocephalus gunnari in Statistical Division 58.5.2 in the 2008/09 season

Krill: CM 51-04 (2008)

General measure for exploratory fisheries for Euphausia superba in the Convention Area in the 2008/09 season

Krill: CM 51-05 (2008)

Limits on the exploratory fisheries for Euphausia superba in Statistical Subarea 48.6 in the 2008/09 season

Crustacean Fisheries—Crab: CM 52-01 (2008)

Limits on the fishery for crab in Statistical Subarea 48.3 in the 2008/09 season

Crustacean Fisheries—Crab: CM 52-02 (2008)

Limits on the exploratory fishery for crab in Statistical Subarea 48.2 in the 2008/09 season

Crustacean Fisheries—Crab: CM 52-03 (2008)

Limits on the exploratory fishery for crab in Statistical Subarea 48.4 in the 2008/09 season

Mollusc Fisheries—Squid: CM 61-01 (2008)

Limits on the exploratory fishery for Martialia hyadesi in Statistical Subarea 48.3 in the 2008/09 season

¹ Except for waters adjacent to the Kerguelen Islands and Crozet Islands.

² Except for waters adjacent to the Prince Edward Islands.

Under Article IX(6)(c) of the Convention, the United States has 90 days after the November 12, 2008, notification by the Commission to consider the Conservation Measures agreed to at the Twenty-Seventh Meeting of CCAMLR and respond to the Secretariat of CCAMLR that we are unable to accept a Conservation Measure(s).

Resolutions:

Resolution 27/XXVII (Use of a specific tariff classification for Antarctic krill)

Resolution 28/XXVIII (Ballast water exchange in the Convention Area)

Other:

CCAMLR Members also adopted substantive amendments to CCAMLR's Scheme of International Scientific Observation (note: the CCAMLR Scheme of observation is not a Conservation Measure so the text of the modified Scheme is not published here). The CCAMLR Scheme of observation will be incorporated into the “Scientific Observers Manual” (Manual) which details proper implementation of the program. Each approved observer receives the current Manual from NMFS. Scientific observers must meet all sampling protocols and other requirements of the Manual. The complete text of the CCAMLR Scheme of observation is included in Section 1 of the Manual.

CCAMLR Members also adopted a policy to enhance cooperation between CCAMLR and Non-Contracting Parties, to ensure effectiveness of CCAMLR Conservation measures, and to eliminate IUU fishing. This policy does not take the form of a Conservation Measure and so it also is not published here.

For further information, see the CCAMLR Web site at http://www.ccamlr.org under Publications for the Schedule of Conservation Measures in Force (2008/2009), or contact the Commission at the CCAMLR Secretariat, P.O. Box 213, North Hobart, Tasmania 7002, Australia. Tel: (61) 3-6210-1111).

Conservation Measures and Resolutions Adopted at CCAMLR-XXVII

Conservation Measure 10-02 (2008) ¹ ²

Licensing and inspection obligations of Contracting Parties with regard to their flag vessels operating in the Convention Area

(Species: all; Area: all; Season: all; Gear: all)

1. Each Contracting Party shall prohibit fishing by its flag vessels in the Convention Area except pursuant to a licence ³ that the Contracting Party has issued setting forth the specific areas, species and time periods for which such fishing is authorised and all other specific conditions to which the fishing is subject to give effect to CCAMLR conservation measures and requirements under the Convention.

2. A Contracting Party may only issue such a licence to fish in the Convention Area to vessels flying its flag, if it is satisfied of its ability to exercise its responsibilities under the Convention and its conservation measures, by requiring from each vessel, inter alia, the following:

(i) Timely notification by the vessel to its Flag State of exit from and entry into any port;

(ii) Notification by the vessel to its Flag State of entry into the Convention Area and movement between areas, subareas/divisions;

(iii) Reporting by the vessel of catch data in accordance with CCAMLR requirements;

(iv) Reporting, where possible as set out in Annex 10-02/A by the vessel of sightings of fishing vessels ⁴ in the Convention Area;

(v) Operation of a VMS system on board the vessel in accordance with Conservation Measure 10-04;

(vi) Noting the International Management Code for the Safe Operation of Ships and for Pollution Prevention (International Safety Management Code), from 1 December 2009:

(a) Adequate communication equipment (including MF/HF radio and carriage of at least one 406MHz EPIRB) and trained operators on board. Wherever possible, vessels should be fitted with Global Maritime Distress and Safety System (GMDSS) equipment;

(b) Sufficient immersion survival suits for all on board;

(c) Adequate arrangements to handle medical emergencies that may arise in the course of the voyage;

(d) Reserves of food, fresh water, fuel and spare parts for critical equipment to provide for unforseen delays and besetment;

(e) An approved ⁵ Shipboard Oil Pollution Emergency Plan (SOPEP) outlining marine pollution mitigation arrangements (including insurance) in the event of a fuel or waste spill.

3. Each Contracting Party shall provide to the Secretariat within seven days of the issuance of each licence the following information about licences issued:

• Name of the vessel

• Time periods authorised for fishing (start and end dates)

• Area(s), subareas or divisions of fishing

• Species targeted

• Gear used.

4. Each Contracting Party shall provide to the Secretariat within seven days of the issuance of each licence the following information about licences issued:

(i) Name of fishing vessel (any previous names if known) ⁶, registration number ⁷, IMO number (if issued), external markings and port of registry;

(ii) The nature of the authorisation to fish granted by the Flag State, specifying time periods authorised for fishing (start and end dates), area(s) of fishing, species targeted and gear used;

(iii) Previous flag (if any) ⁶

(iv) International Radio Call Sign;

(v) Name and address of vessel's owner(s), and any beneficial owner(s) if known;

(vi) Name and address of licence owner (if different from vessel owner(s));

(vii) Type of vessel;

(viii) Where and when built;

(ix) Length (m);

(x) High-resolution colour photographs of the vessel of appropriate brightness and contrast ⁸ which shall consist of:

• One photograph not smaller than 12 × 7 cm showing the starboard side of the vessel displaying its full overall length and complete structural features;

• One photograph not smaller than 12 × 7 cm showing the port side of the vessel displaying its full overall length and complete structural features;

• One photograph not smaller than 12 × 7 cm showing the stern taken directly from astern;

(xi) Where applicable, in accordance with Conservation Measure 10-04, details of the implementation of the tamper-proof requirements of the satellite monitoring device installed on board.

5. Each Contracting Party shall, to the extent practicable, also provide to the Secretariat at the same time as submitting information in accordance with paragraph 4, the following additional information in respect to each fishing vessel licensed:

(i) Name and address of operator, if different from vessel owners;

(ii) Names and nationality of master and, where relevant, of fishing master;

(iii) Type of fishing method or methods;

(iv) Beam (m);

(v) Gross registered tonnage;

(vi) Vessel communication types and numbers (INMARSAT A, B and C numbers);

(vii) Normal crew complement;

(viii) Power of main engine or engines (kW);

(ix) Carrying capacity (tonnes), number of fish holds and their capacity (m³);

(x) Any other information in respect of each licensed vessel they consider appropriate (e.g. ice classification) for the purposes of the implementation of the conservation measures adopted by the Commission.

6. Contracting Parties shall communicate without delay to the Secretariat any change to any of the information submitted in accordance with paragraphs 3, 4 and 5.

7. The Executive Secretary shall place a list of licensed vessels on the public section of the CCAMLR Web site.

8. The licence or an authorised copy of the licence must be carried by the fishing vessel and must be available for inspection at any time by a designated CCAMLR inspector in the Convention Area.

9. Each Contracting Party shall verify, through inspections of all of its fishing vessels at the Party's departure and arrival ports, and where appropriate, in its Exclusive Economic Zone, their compliance with the conditions of the licence as described in paragraph 1 and with the CCAMLR conservation measures. In the event that there is evidence that the vessel has not fished in accordance with the conditions of its licence, the Contracting Party shall investigate the infringement and, if necessary, apply appropriate sanctions in accordance with its national legislation.

10. Each Contracting Party shall include in its annual report pursuant to paragraph 12 of the CCAMLR System of Inspection, steps it has taken to implement and apply this conservation measure; and may include additional measures it may have taken in relation to its flag vessels to promote the effectiveness of CCAMLR conservation measures.

¹ Except for waters adjacent to the Kerguelen and Crozet Islands.

² Except for waters adjacent to the Prince Edward Islands.

³ Includes permit and authorisation.

⁴ Including support vessels such as reefer vessels.

⁵ Shipboard Oil Pollution Emergency Plan to be approved by the Maritime Safety Authority of the Flag State.

⁶ In respect of any vessel reflagged within the previous 12 months, any information on the details of the process of (reasons for) previous deregistration of the vessel from other registries, if known.

⁷ National registry number.

⁸ All photographs shall be of sufficient quality to enable clear identification of the vessel.

Annex 10-02/A

Reporting of Vessel Sightings

1. In the event that the master of a licensed fishing vessel sights a fishing vessel ⁴ within the Convention Area, the master shall document as much information as possible on each such sighting, including:

(a) Name and description of the vessel.

(b) Vessel call sign.

(c) Registration number and the Lloyds/IMO number of the vessel.

(d) Flag State of the vessel.

(e) Photographs of the vessel to support the report.

(f) Any other relevant information regarding the observed activities of the sighted vessel.

2. The master shall forward a report containing the information referred to in paragraph 1 to their Flag State as soon as possible. The Flag State shall submit to the Secretariat any such reports that meet the criteria of paragraph 3 of Conservation Measure 10-06 or paragraph 8 of Conservation Measure 10-07.

3. The Secretariat shall use such reports for compiling estimates of IUU activities.

Conservation Measure 10-03 (2008) ¹ ² ³

Port inspections of vessels carrying toothfish

(Species: toothfish; Area: all; Season: all; Gear: all)

1. Contracting Parties shall undertake inspections of all fishing vessels ⁴ carrying Dissostichus spp. which enter their ports. The inspection shall be for the purpose of determining that if the vessel carried out harvesting activities in the Convention Area, these activities were carried out in accordance with CCAMLR conservation measures, and that if it intends to land or tranship Dissostichus spp. the catch to be unloaded or transhipped is accompanied by a Dissostichus catch document required by Conservation Measure 10-05 and that the catch agrees with the information recorded on the document.

2. To facilitate these inspections, Contracting Parties shall require vessels to provide advance notice of their entry into port and to convey a written declaration that they have not engaged in or supported illegal, unreported and unregulated (IUU) fishing in the Convention Area. The inspection shall be conducted within 48 hours of port entry and shall be carried out in an expeditious fashion. It shall impose no undue burdens on the vessel or its crew, and shall be guided by the relevant provisions of the CCAMLR System of Inspection. Vessels which either declare that they have been involved in IUU fishing or fail to make a declaration shall be denied port access, other than for emergency purposes.

3. In the event that there is evidence that the vessel has fished in contravention of CCAMLR conservation measures, the catch shall not be landed or transhipped. The Contracting Party will inform the Flag State of the vessel of its inspection findings and will cooperate with the Flag State in taking such appropriate action as is required to investigate the alleged infringement and, if necessary, apply appropriate sanctions in accordance with national legislation.

4. Contracting Parties shall promptly provide the Secretariat with a report on the outcome of each inspection conducted under this conservation measure. In respect of any vessels denied port access or permission to land or tranship Dissostichus spp., the Secretariat shall promptly convey such reports to all Contracting Parties and to all non-Contracting Parties cooperating with the Commission by participating in the Catch Documentation Scheme for Dissostichus spp. (CDS).

¹ Except for waters adjacent to the Kerguelen and Crozet Islands.

² Except for waters adjacent to the Prince Edward Islands.

³ Excluding by-catches of Dissostichus spp. by trawlers fishing on the high seas outside the Convention Area. A by-catch shall be defined as no more than 5% of total catch of all species and no more than 50 tonnes for an entire fishing trip by a vessel.

⁴ For the purposes of this conservation measure, `fishing vessel' means any vessel of any size used for, equipped to be used for, or intended for use for the purposes of fishing or fishing related activities, including support ships, fish processing vessels, vessels engaged in transhipment and carrier vessels equipped for the transportation of fishery products except container vessels and excluding Members' marine science research vessels.

In relation to only carrier vessels equipped for transportation of fishery products, Contracting Parties shall conduct a preliminary assessment of the relevant documentation. If that assessment raises concerns regarding compliance with CCAMLR conservation measures, an inspection according to the provisions of this conservation measure shall be required.

Conservation Measure 10-05 (2008)

Catch Documentation Scheme for Dissostichus spp.

(Species: toothfish; Area: all; Season: all; Gear: all)

The Commission,

Concerned that illegal, unreported and unregulated (IUU) fishing for Dissostichus spp. in the Convention Area threatens serious depletion of populations of Dissostichus spp.,

Aware that IUU fishing involves significant by-catch of some Antarctic species, including endangered albatross,

Noting that IUU fishing is inconsistent with the objective of the Convention and undermines the effectiveness of CCAMLR conservation measures,

Underlining the responsibilities of Flag States to ensure that their vessels conduct their fishing activities in a responsible manner,

Mindful of the rights and obligations of Port States to promote the effectiveness of regional fishery conservation measures,

Aware that IUU fishing reflects the high value of, and resulting expansion in markets for and international trade in, Dissostichus spp.,

Recalling that Contracting Parties have agreed to introduce classification codes for Dissostichus spp. at a national level,

Recognising that the implementation of a Catch Documentation Scheme for Dissostichus spp. (CDS) will provide the Commission with essential information necessary to provide the precautionary management objectives of the Convention,

Committed to take steps, consistent with international law, to identify the origins of Dissostichus spp. entering the markets of Contracting Parties and to determine whether Dissostichus spp. harvested in the Convention Area that is imported into their territories was caught in a manner consistent with CCAMLR conservation measures,

Wishing to reinforce the conservation measures already adopted by the Commission with respect to Dissostichus spp.,

Further recognising the importance of enhancing cooperation with non-Contracting Parties to help prevent, deter and eliminate IUU fishing in the Convention Area,

Acknowledging that the Commission has adopted a policy to enhance cooperation between CCAMLR and non-Contracting Parties,

Inviting non-Contracting Parties whose vessels fish for Dissostichus spp. to participate in the CDS,

hereby adopts the following conservation measure in accordance with Article IX of the Convention:

1. The following definitions are intended only for the purposes of the completion of CDS documents and shall be applied as stated regardless of whether such actions as landings, transhipments, imports, exports or re-exports constitute the same under any CDS participant's customs law or other domestic legislation:

(i) Port State: The State that has control over a particular port area or free trade zone for the purposes of landing, transhipment, importing, exporting and re-exporting and whose authority serves as the authority for landing or transhipment certification.

(ii) Landing: The initial transfer of catch in its harvested or processed form from a vessel to dockside or to another vessel in a port or free trade zone where the catch is certified by an authority of the Port State as landed.

(iii) Export: Any movement of a catch in its harvested or processed form from territory under the control of the State or free trade zone of landing, or, where that State or free trade zone forms part of a customs union, any other member State of that customs union.

(iv) Import: The physical entering or bringing of a catch into any part of the geographical territory under the control of a State, except where the catch is landed or transhipped within the definitions of `landing' or `transhipment' in this conservation measure.

(v) Re-export: Any movement of a catch in its harvested or processed form from territory under the control of a State, free trade zone, or member State of a customs union of import unless that State, free trade zone, or any member State of that customs union of import is the first place of import, in which case the movement is an export within the definition of `export' in this conservation measure.

(vi) Transhipment: The transfer of a catch in its harvested or processed form from a vessel to another vessel or means of transport, and, where such transfer takes place within the territory under the control of a Port State, for the purpose of effecting its removal from that State. For the avoidance of doubt, temporarily placing a catch on land or an artificial structure to facilitate such transfer shall not prevent the transfer from being a transhipment where the catch is not `landed' within the definition of `landing' in this conservation measure.

2. Each Contracting Party shall take steps to identify the origin of Dissostichus spp. imported into or exported from its territories and to determine whether Dissostichus spp. harvested in the Convention Area that is imported into or exported from its territories was caught in a manner consistent with CCAMLR conservation measures.

3. Each Contracting Party shall require that each master or authorised representative of its flag vessels authorised to engage in harvesting of Dissostichus eleginoides and/or Dissostichus mawsoni complete a Dissostichus catch document (DCD) for the catch landed or transhipped on each occasion that it lands or tranships Dissostichus spp.

4. Each Contracting Party shall require that each landing of Dissostichus spp. at its ports and each transhipment of Dissostichus spp. to its vessels be accompanied by a completed DCD. The landing of Dissostichus spp. without a catch document is prohibited.

5. Each Contracting Party shall, in accordance with their laws and regulations, require that their flag vessels which intend to harvest Dissostichus spp., including on the high seas outside the Convention Area, are provided with specific authorisation to do so. Each Contracting Party shall provide DCD forms to each of its flag vessels authorised to harvest Dissostichus spp. and only to those vessels.

6. A non-Contracting Party seeking to cooperate with CCAMLR by participating in this scheme may issue DCD forms, in accordance with the procedures specified in paragraphs 8 and 9, to any of its flag vessels that intend to harvest Dissostichus spp.

7. Non-Contracting Parties which are involved in the trade of Dissostichus spp. are encouraged to approach the CCAMLR Secretariat with requests for assistance. Proposals must demonstrate how any specific assistance requested will help to combat IUU fishing in the Convention Area. Such requests will be considered by the Commission at its annual meeting. The procedure regarding cooperation with CCAMLR in the implementation of the CDS by non-Contracting Parties involved in the trade of Dissostichus spp. is set out in Annex 10-05/C.

8. The DCD shall include the following information:

(i) The name, address, telephone and fax numbers of the issuing authority;

(ii) The name, home port, national registry number and call sign of the vessel and, if issued, its IMO/Lloyd's registration number;

(iii) The reference number of the licence or permit, whichever is applicable, that is issued to the vessel;

(iv) The weight of each Dissostichus species landed or transhipped by product type, and

(a) By CCAMLR statistical subarea or division if caught in the Convention Area; and/or

(b) By FAO statistical area, subarea or division if caught outside the Convention Area;

(v) The dates within which the catch was taken;

(vi) The date and the port at which the catch was landed or the date and the vessel, its flag and national registry number, to which the catch was transhipped;

(vii) The name, address, telephone and fax numbers of the recipient(s) of the catch and the amount of each species and product type received.

9. Procedures for completing DCDs in respect of vessels are set forth in paragraphs A1 to A10 of Annex 10-05/A to this measure.

10. Each Contracting Party shall require that each shipment of Dissostichus spp. imported into or exported or re-exported from its territory be accompanied by the export/re-export document. The import, export or re-export of Dissostichus spp. without an export/re-export document is prohibited.

11. An export/re-export document issued in respect of a vessel is one that:

(i) Includes all relevant information and signatures provided in accordance with paragraphs A1 to A11 of Annex 10-05/A to this measure;

(ii) Includes a signed and stamped certification by a responsible official of the exporting State of the accuracy of the information contained in the document.

12. The standard documents for catch, export and re-export documents are attached to Annex 10-05/A as follows:

(i) Attachment 1 contains the standard catch document (which also includes provision for export) and the standard form for re-export which are to be used until 31 May 2009;

(ii) Attachment 2 contains the standard catch document and the standard form for export/re-export which are to be used from 1 June 2009.

Until 31 May 2009:

(i) All references in this conservation measure and its annex to the export/re-export document, with respect to exporting, shall be read as referring to the export section of the standard catch document in Attachment 1;

(ii) All references in this conservation measure and its annex to the export/re-export document, with respect to re-exporting, shall be read as referring to the standard form for re-export in Attachment 1.

13. Each Contracting Party shall ensure that its customs government authorities or other appropriate government officials request and examine the documentation of each shipment of Dissostichus spp. imported into or exported from its territory to verify that it includes the export document and, where appropriate, validated re-export document(s) that account for all the Dissostichus spp. contained in the shipment. These officials may also examine the content of any shipment to verify the information contained in the catch document or documents.

14. If, as a result of an examination referred to in paragraph 13 above, a question arises regarding the information contained in a DCD or a re-export document, the exporting State whose government authority validated the document(s) and, as appropriate, the Flag State whose vessel completed the document are called on to cooperate with the importing State with a view to resolving such question.

15. Each Contracting Party shall promptly provide by the most rapid electronic means, copies to the CCAMLR Secretariat of all export documents and, where relevant, validated re-export documents that it issued from and received into its territory and shall submit annually to the Secretariat a summary list of documents issued from or received into its territory in respect of transhipments, landings, exports, re-exports and imports. The list shall include: document identification numbers; date of landing, export, re-export, import; weights landed, exported, re-exported or imported.

16. Each Contracting Party, and any non-Contracting Party that issues DCDs in respect of its flag vessels in accordance with paragraph 6, shall inform the CCAMLR Secretariat of the government authority or authorities (including names, addresses, phone and fax numbers and e-mail addresses) responsible for issuing and validating DCDs.

17. Notwithstanding the above, any Contracting Party, or any non-Contracting Party participating in the CDS, may require additional verification of catch documents by Flag States by using, inter alia, VMS, in respect of catches ¹ taken on the high seas outside the Convention Area, when landed at, imported into or exported from its territory.

18. If, following an examination under paragraph 13, questions under paragraph 14 or requests for additional verification of documents under paragraph 17, it is determined, after consultation with the States concerned, that a catch document is invalid, the import, export or re-export of Dissostichus spp. being the subject of the document is prohibited.

19. If a Contracting Party participating in the CDS has cause to sell or dispose of seized or confiscated Dissostichus spp., it may issue a Specially Validated Dissostichus Catch Document (SVDCD) specifying the reasons for that validation. The SVDCD shall include a statement describing the circumstances under which confiscated fish are moving in trade. To the extent practicable, Parties shall ensure that no financial benefit arising from the sale of seized or confiscated catch accrue to the perpetrators of IUU fishing. If a Contracting Party issues a SVDCD, it shall immediately report all such validations to the Secretariat for conveying to all Parties and, as appropriate, recording in trade statistics.

20. A Contracting Party may transfer all or part of the proceeds from the sale of seized or confiscated Dissostichus spp. into the CDS Fund created by the Commission or into a national fund which promotes achievement of the objectives of the Convention. In addition, Contracting Parties may offer voluntary contributions to support the CDS Fund and its related activities. A Contracting Party may, consistent with its domestic legislation, decline to provide a market for toothfish offered for sale with a SVDCD by another State. Provisions concerning the uses of the CDS Fund are found in Annex 10-05/B.

¹ Excluding by-catches of Dissostichus spp. by trawlers fishing on the high seas outside the Convention Area. A by-catch shall be defined as no more than 5% of total catch of all species and no more than 50 tonnes for an entire fishing trip by a vessel.

Annex 10-05/A

A1. Each Flag State shall ensure that each Dissostichus catch document form that it issues includes a specific identification number consisting of:

(i) A four-digit number, consisting of the two-digit International Standards Organization (ISO) country code plus the last two digits of the year for which the form is issued;

(ii) A three-digit sequence number (beginning with 001) to denote the order in which catch document forms are issued.

It shall also enter on each Dissostichus catch document form the number as appropriate of the licence or permit issued to the vessel.

A2. The master of a vessel which has been issued a Dissostichus catch document form or forms shall adhere to the following procedures prior to each landing or transhipment of Dissostichus spp.:

(i) The master shall ensure that the information specified in paragraph 8 of this conservation measure is accurately recorded on the Dissostichus catch document form;

(ii) If a landing or transhipment includes catch of both Dissostichus spp., the master shall record on the Dissostichus catch document form the total amount of the catch landed or transhipped by weight of each species;

(iii) If a landing or transhipment includes catch of Dissostichus spp. taken from different statistical subareas and/or divisions, the master shall record on the Dissostichus catch document form the amount of the catch by weight of each species taken from each statistical subarea and/or division and indicating whether the catch was caught in an EEZ or on the high seas, as appropriate;

(iv) The master shall convey to the Flag State of the vessel by the most rapid electronic means available, the Dissostichus catch document number, the dates within which the catch was taken, the species, processing type or types, the estimated weight to be landed and the area or areas of the catch, the date of landing or transhipment and the port and country of landing or vessel of transhipment and shall request from the Flag State, a Flag State confirmation number.

A3. If, for catches ¹ taken in the Convention Area or on the high seas outside the Convention Area, the Flag State verifies, by the use of a VMS (as described in paragraph 1 of Conservation Measure 10-04), the area fished and that the catch to be landed or transhipped as reported by its vessel is accurately recorded and taken in a manner consistent with its authorisation to fish, it shall convey a unique Flag State confirmation number to the vessel's master by the most rapid electronic means available. The Dissostichus catch document will receive a confirmation number from the Flag State, only when it is convinced that the information submitted by the vessel fully satisfies the provisions of this conservation measure.

A4. The master shall enter the Flag State confirmation number on the Dissostichus catch document form.

A5. The master of a vessel that has been issued a Dissostichus catch document form or forms shall adhere to the following procedures immediately after each landing or transhipment of Dissostichus spp.:

(i) In the case of a transhipment, the master shall confirm the transhipment obtaining the signature on the Dissostichus catch document of the master of the vessel to which the catch is being transferred;

(ii) In the case of a landing, the master or authorised representative shall confirm the landing by obtaining a signed and stamped certification on the Dissostichus catch document by a responsible official of the Port State of landing or free trade zone who is acting under the direction of either the customs or fisheries authority of the Port State and is competent with regard to the validation of Dissostichus catch documents;

(iii) In the case of a landing, the master or authorised representative shall also obtain the signature on the Dissostichus catch document of the individual that receives the catch at the port of landing or free trade zone;

(iv) In the event that the catch is divided upon landing, the master or authorised representative shall present a copy of the Dissostichus catch document to each individual that receives a part of the catch at the port of landing or free trade zone, record on that copy of the catch document the amount and origin of the catch received by that individual and obtain the signature of that individual.

A6. In respect of each landing or transhipment, the master or authorised representative shall immediately sign and convey by the most rapid electronic means available a copy, or, if the catch landed was divided, copies, of the signed Dissostichus catch document to the Flag State of the vessel and shall provide a copy of the relevant document to each recipient of the catch.

A7. The Flag State of the vessel shall immediately convey by the most rapid electronic means available a copy or, if the catch was divided, copies, of the signed Dissostichus catch document to the CCAMLR Secretariat to be made available by the next working day to all Contracting Parties.

A8. The master or authorised representative shall retain the original copies of the signed Dissostichus catch document(s) and return them to the Flag State no later than one month after the end of the fishing season.

A9. The master of a vessel to which catch has been transhipped (receiving vessel) shall adhere to the following procedures immediately after each landing of such catch in order to complete each Dissostichus catch document received from transhipping vessels:

(i) The master of the receiving vessel shall confirm the landing by obtaining a signed and stamped certification on the Dissostichus catch document by a responsible official of the Port State of landing or free trade zone who is acting under the direction of either the customs or fisheries authority of the Port State and is competent with regard to the validation of Dissostichus catch documents;

(ii) The master of the receiving vessel shall also obtain the signature on the Dissostichus catch document of the individual that receives the catch at the port of landing or free trade;

(iii) In the event that the catch is divided upon landing, the master of the receiving vessel shall present a copy of the Dissostichus catch document to each individual that receives a part of the catch at the port of landing or free trade zone, record on that copy of the catch document the amount and origin of the catch received by that individual and obtain the signature of that individual.

A10. In respect of each landing of transhipped catch, the master or authorised representative of the receiving vessel shall immediately sign and convey by the most rapid electronic means available a copy of all the Dissostichus catch documents, or if the catch was divided, copies, of all the Dissostichus catch documents, to the Flag State(s) that issued the Dissostichus catch document, and shall provide a copy of the relevant document to each recipient of the catch. The Flag State of the receiving vessel shall immediately convey by the most rapid electronic means available a copy of the document to the CCAMLR Secretariat to be made available by the next working day to all Contracting Parties.

A11. For each shipment of Dissostichus spp. to be exported or re-exported from the country of landing or import, the exporter shall adhere to the following procedures to obtain the necessary export or re-export document for all the Dissostichus spp. contained in the shipment:

(i) The exporter/re-exporter shall enter on each Dissostichus export/re-export document the reference number of the corresponding Dissostichus catch document, the amount of each Dissostichus spp. reported on the document that is contained in the shipment;

(ii) The exporter/re-exporter shall enter on each Dissostichus catch document the name and address of the importer of the shipment and the point of import;

(iii) The exporter/re-exporter shall enter on each export/re-export document the exporter/re-exporter's name and address, and shall sign the document;

(iv) The exporter/re-exporter shall obtain a signed and stamped validation of the export/re-export document (including the attachments if provided) by a responsible official of the exporting/re-exporting State.

(v) The exporter/re-exporter shall indicate the transport details as appropriate:

If by sea:

Container(s) number(s) if appropriate, or

Vessel name, and

Bill of lading number, date and place of issue;

If by air:

Flight number, airway bill number, place and date of issue;

If by other means (ground transportation):

Truck registration number and nationality,

Railway transport number, date and place of issue.

¹ Excluding by-catches of Dissostichus spp. by trawlers fishing on the high seas outside the Convention Area. A by-catch shall be defined as no more than 5% of total catch of all species and no more than 50 tonnes for an entire fishing trip by a vessel.

BILLING CODE 3510-22-P

BILLING CODE 3510-22-C

Annex 10-05/B

The Use of the CDS Fund

B1. The overall objective of the CDS Fund (“the Fund”) is to provide a mechanism which enables the Commission to enhance its capacity to prevent, deter and eliminate IUU fishing in the Convention Area, by inter alia, improving the effectiveness of the CDS.

B2. The Fund will be operated according to the following provisions:

(i) The Fund shall be used for special projects, or special needs of the Secretariat if the Commission so decides, aimed at enhancing the Commission's capacity to contribute to the prevention, deterrence and elimination of IUU fishing in the Convention Area. The Fund may also be used for assisting the development and improving the effectiveness of the CDS and for other such purposes as the Commission may decide.

(ii) The Fund shall be used primarily for projects conducted by the Secretariat, although the participation of Members in these projects is not precluded. While individual Member projects shall be considered, this shall not replace the normal responsibilities of Members of the Commission. The Fund shall not be used for routine Secretariat activities.

(iii) Proposals for special projects may be made by Members, by the Commission or the Scientific Committee and their subsidiary bodies, or by the Secretariat. Proposals shall be submitted to the annual meeting of the Commission as working papers and be accompanied by an explanation of the proposal and an itemised statement of estimated expenditure.

(iv) The Commission will, at each annual meeting, designate six Members to serve on a Review Panel to review proposals and to make recommendations to the Commission on whether to fund special projects or special needs. The Review Panel will meet during the first week of the Commission's annual meeting.

(v) The Commission shall review all proposals and decide on appropriate projects and funding as a standing agenda item at its annual meeting.

(vi) The Fund may be used to assist Acceding States and non-Contracting Parties that wish to cooperate with CCAMLR by contributing to the prevention, deterrence and elimination of IUU fishing in the Convention Area, so long as this use is consistent with provisions (i) and (ii) above. Such assistance shall be provided within the scope of the CCAMLR Cooperation Enhancement Program contained in the Policy to Enhance Cooperation between CCAMLR and non-Contracting Parties. Acceding States and non-Contracting Parties may submit proposals for consideration by the Commission at its annual meeting, if the proposals are sponsored by, or in cooperation with, a Member or the Secretariat.

(vii) The Financial Regulations of the Commission shall apply to the Fund, except in so far as these provisions provide or the Commission decides otherwise.

(viii) The Secretariat shall report to the annual meeting of the Commission on the activities of the Fund, including its income and expenditure. Annexed to the report shall be reports on the progress of each project being funded by the Fund, including details of the expenditure on each project. The report will be circulated to Members in advance of the annual meeting.

(ix) Where an individual Member project is being funded according to provision (ii), that Member shall provide an annual report on the progress of the project, including details of the expenditure on the project. The report shall be submitted to the Secretariat as a working paper to be circulated to Members in advance of the annual meeting. When the project is completed, that Member shall provide a final statement of account certified by an auditor acceptable to the Commission.

(x) The Commission shall review all ongoing projects at its annual meeting as a standing agenda item and reserves the right, after notice, to cancel a project at any time should it decide that it is necessary. Such a decision shall be exceptional, and shall take into account progress made to date and likely progress in the future, and shall in any case be preceded by an invitation from the Commission to the project coordinator to present a case for continuation of funding.

(xi) The Commission may modify these provisions at any time.

Annex 10-05/C

Procedure Regarding Cooperation With CCAMLR in the Implementation of the CDS by Non-Contracting Parties Involved in the Trade of Dissostichus SPP

C1. Prior to the annual meeting of the Commission, the Executive Secretary shall contact all non-Contracting Parties which are known to be involved in the trade with Dissostichus spp. to urge them to become a Contracting Party to CCAMLR or to attain the status of a non-Contracting Party cooperating with CCAMLR by participating in the Catch Documentation Scheme for Dissostichus spp. (CDS) in accordance with the provisions of Conservation Measure 10-05 and produce a summary paper for consideration by the Commission. The Executive Secretary shall provide copies of this conservation measure and any related resolutions adopted by the Commission.

C2. The Executive Secretary shall also establish contact with any non-Contracting Party during the intersessional period, as soon as possible after it was known the non-Contracting Party was engaged in the trade with Dissostichus spp. The Executive Secretary shall immediately circulate any written responses to the Members of the Commission.

C3. The Executive Secretary shall encourage non-Contracting Parties to approach the CCAMLR Secretariat with requests for assistance. Proposals must demonstrate how any specific assistance requested will help to combat IUU fishing in the Convention Area. Such requests will be considered by the Commission at its annual meeting.

C4. Any non-Contracting Party that seeks to be accorded the status of non-Contracting Party cooperating with CCAMLR by participating in the CDS shall apply to the Executive Secretary requesting such status. Such requests must be received by the Executive Secretary no later than ninety (90) days in advance of an annual meeting of the CAMLR Commission in order to be considered at that meeting.

C5. Any non-Contracting Party requesting the status of a non-Contracting Party cooperating with CCAMLR by participating in the CDS shall fulfil the following requirements in order to have this status considered by the Commission:

(i) Information requirements:

(a) Communicate the data required under the CDS.

(ii) Compliance requirements:

(a) Implement all the provisions of Conservation Measure 10-05;

(b) Inform CCAMLR of all the measures taken to ensure compliance by its vessels used for the transhipments of Dissostichus spp. and its operators, including inter alia, and as appropriate, inspection at sea and in port, CDS implementation;

(c) Respond to alleged violations of CCAMLR measures by its vessels transhipping Dissostichus spp. and its operators, as determined by the appropriate bodies, and communicate to CCAMLR the actions taken against operators.

C6. An applicant for the status of a non-Contracting Party cooperating with CCAMLR by participating in the CDS shall also:

(i) Confirm its commitment to implement Conservation Measure 10-05; and

(ii) Inform the Commission of the measures it takes to ensure compliance by its operators with Conservation Measure 10-05.

C7. The Standing Committee for Implementation and Compliance (SCIC) shall be responsible for reviewing requests for the status of non-Contracting Party cooperating with CCAMLR by participating in the CDS and for recommending to the Commission whether the applicants should be granted such status.

C8. Annually the Commission shall review the status granted to each non-Contracting Party and may revoke this status if the non-Contracting Party concerned has not complied with the criteria for attaining such status established by this measure.

Conservation Measure 10-06 (2008)

Scheme to promote compliance by Contracting Party vessels with CCAMLR conservation measures

(Species: all; Area: all; Season: all; Gear: all)

The Commission,

Convinced that illegal, unreported and unregulated (IUU) fishing compromises the objective of the Convention,

Aware that a number of vessels registered to Parties and non-Parties are engaged in activities which diminish the effectiveness of CCAMLR conservation measures,

Recalling that Contracting Parties are required to cooperate in taking appropriate action to deter any activities which are not consistent with the objective of the Convention,

Resolved to reinforce its integrated administrative and political measures aimed at eliminating IUU fishing in the Convention Area,

Hereby adopts the following conservation measure in accordance with Article IX.2(i) of the Convention:

1. At each annual meeting, the Commission will identify those Contracting Parties whose vessels have engaged in fishing activities in the Convention Area in a manner which has diminished the effectiveness of CCAMLR conservation measures in force, and shall establish a list of such vessels (CP-IUU Vessel List), in accordance with the procedures and criteria set out hereafter.

2. This identification shall be documented, inter alia, on reports relating to the application of Conservation Measure 10-03, trade information obtained on the basis of the implementation of Conservation Measure 10-05 and relevant trade statistics such as Food and Agriculture Organization of the United Nations (FAO) and other national or international verifiable statistics, as well as any other information obtained from Port States and/or gathered from the fishing grounds which is suitably documented.

3. Where a Contracting Party obtains information that vessels flying the flag of another Contracting Party have engaged in activities set out in paragraph 5, it shall submit a report containing this information, within 30 days of having become aware of it, to the Executive Secretary and the Contracting Party concerned. Contracting Parties shall indicate that the information is provided for the purposes of considering whether to include the vessel concerned in the CP-IUU Vessel List under Conservation Measure 10-06. The Executive Secretary shall within one business day circulate the report to the other Contracting Parties and to non-Contracting Parties cooperating with the Commission by participating in the Catch Documentation Scheme for Dissostichus spp. (CDS), and invite them to communicate any information available to them in respect of the vessels referred to above, including their ownership, operators and their trade activities.

4. For the purposes of this conservation measure, the Contracting Parties are considered as having carried out fishing activities that have diminished the effectiveness of the conservation measures adopted by the Commission if:

(i) The Parties do not ensure compliance by their vessels with the conservation measures adopted by the Commission and in force, in respect of the fisheries in which they participate that are placed under the competence of CCAMLR;

(ii) Their vessels are repeatedly included in the CP-IUU Vessel List.

5. In order for a Contracting Party's vessel to be included in the CP-IUU Vessel List there must be evidence, gathered in accordance with paragraphs 2 and 3, that the vessel has:

(i) Engaged in fishing activities in the CCAMLR Convention Area without a licence issued in accordance with Conservation Measure 10-02, or in violation of the conditions under which such licence would have been issued in relation to authorised areas, species and time periods; or

(ii) Not recorded or not declared its catches made in the CCAMLR Convention Area in accordance with the reporting system applicable to the fisheries it engaged in, or made false declarations; or

(iii) Fished during closed fishing periods or in closed areas in contravention of CCAMLR conservation measures; or

(iv) Used prohibited gear in contravention of applicable CCAMLR conservation measures; or

(v) Transhipped or participated in joint fishing operations with, supported or re-supplied other vessels identified by CCAMLR as carrying out IUU fishing activities (i.e. vessels on the CP-IUU Vessel List or the NCP-IUU Vessel List established under Conservation Measure 10-07); or

(vi) Failed to provide, when required under Conservation Measure 10-05, a valid catch document for Dissostichus spp.; or

(vii) Engaged in fishing activities in a manner that undermines the attainment of the objectives of the Convention in waters adjacent to islands within the area to which the Convention applies over which the existence of State sovereignty is recognised by all Contracting Parties, in the terms of the statement made by the Chairman on 19 May 1980; or

(viii) Engaged in fishing activities contrary to any other CCAMLR conservation measures in a manner that undermines the attainment of the objectives of the Convention according to Article XXII of the Convention.

Draft CP-IUU Vessel List

6. The Executive Secretary shall, before 1 July of each year, draw up a draft list of Contracting Party vessels (the Draft CP-IUU Vessel List), listing all Contracting Party vessels that, on the basis of the information gathered in accordance with paragraphs 2 and 3, and any other information that the Executive Secretary might have obtained in relation thereto, and the criteria defined in paragraph 4, might be presumed to have engaged in any of the activities referred to in paragraph 5 during the period beginning 30 days before the start of the previous CCAMLR annual meeting. The Draft CP-IUU Vessel List shall be distributed immediately to the Contracting Parties concerned.

7. Contracting Parties whose vessels are included in the Draft CP-IUU Vessel List shall transmit their comments to the Executive Secretary before 1 September, including verifiable VMS data and other supporting information showing that the vessels listed have not engaged in the activities which led to their inclusion in the Draft CP-IUU Vessel List.

Provisional CP-IUU Vessel List

8. The Executive Secretary shall create a new list (`the Provisional CP-IUU Vessel List') which shall comprise the Draft CP-IUU Vessel List and all information received pursuant to paragraph 7. Before 1 October, the Executive Secretary shall transmit the Provisional CP-IUU Vessel List, the CP-IUU Vessel List agreed at the previous CCAMLR annual meeting, and any evidence or documented information received since that meeting regarding vessels on the Provisional CP-IUU Vessel List and CP-IUU Vessel List to all Contracting Parties and non-Contracting Parties cooperating with the Commission by participating in the CDS. The Executive Secretary shall at the same time:

(i) Request non-Contracting Parties cooperating with the Commission by participating in the CDS that, to the extent possible in accordance with their applicable laws and regulations, they do not register or de-register vessels that have been placed on the Provisional CP-IUU Vessel List until such time as the Commission has had the opportunity to consider the List and has made its determination;

(ii) Invite non-Contracting Parties cooperating with the Commission by participating in the CDS to submit any evidence or documented information regarding vessels on the Provisional CP-IUU Vessel List and CP-IUU Vessel List, at the latest 30 days before the start of the next CCAMLR annual meeting. Where the incident occurs within the month preceding the next CCAMLR annual meeting, evidence or documented information should be provided as soon as possible.

9. Contracting Parties shall take all necessary measures, to the extent possible in accordance with their applicable laws and regulations, in order that:

(i) They do not register or de-register vessels that have been placed on the Provisional CP-IUU List until such time as the Commission has had the opportunity to examine the List and has made its determination;

(ii) If they do de-register a vessel on the Provisional CP-IUU Vessel List they inform, where possible, the Executive Secretary of the proposed new Flag State of the vessel, whereupon the Executive Secretary shall inform that State that the vessel is on the Provisional CP-IUU Vessel List and urge that State not to register the vessel.

Proposed and Final CP-IUU Vessel List

10. Contracting Parties shall submit to the Executive Secretary any additional information which might be relevant for the establishment of the CP-IUU Vessel List within 30 days of having become aware of such information and at the latest 30 days before the start of the CCAMLR annual meeting. A report containing this information shall be submitted in the format set out in paragraph 16, and Contracting Parties shall indicate that the information is provided for the purposes of considering whether to include the vessel concerned in the CP-IUU Vessel List under Conservation Measure 10-06. The Secretariat shall collate all information received and, where this has not been provided in relation to a vessel, attempt to obtain the information in paragraphs 16(i) to (vii).

11. The Executive Secretary shall circulate to Contracting Parties, at the latest 30 days before the start of the CCAMLR annual meeting, all evidence or documented information received under paragraphs 8 and 9, together with any other evidence or documented information received in terms of paragraphs 2 and 3.

12. At each CCAMLR annual meeting, the Standing Committee on Implementation and Compliance (SCIC) shall, by consensus:

(i) Adopt a Proposed CP-IUU Vessel List, following consideration of the Provisional CP-IUU Vessel List and information and evidence circulated under paragraph 10. The Proposed CP-IUU Vessel List shall be submitted to the Commission for approval;

(ii) Recommend to the Commission which, if any, vessels should be removed from the CP-IUU Vessel List adopted at the previous CCAMLR annual meeting, following consideration of that List and information and evidence circulated under paragraph 10.

13. SCIC shall include a vessel on the Proposed CP-IUU Vessel List only if one or more of the criteria in paragraph 5 have been satisfied.

14. SCIC shall recommend that the Commission should remove a vessel from the CP-IUU Vessel List if the Contracting Party proves that:

(i) The vessel did not take part in the activities described in paragraph 1 which led to the inclusion of the vessel in the CP-IUU Vessel List; or

(ii) It has taken effective action in response to the activities in question, including prosecution and imposition of sanctions of adequate severity; or

(iii) The vessel has changed ownership, including beneficial ownership if known to be distinct from the registered ownership, and that the new owner can establish the previous owner no longer has any legal, financial, or real interests in the vessel, or exercises control over it and that the new owner has not participated in IUU fishing; or

(iv) It has taken measures considered sufficient to ensure the granting of the right to the vessel to fly its flag will not result in IUU fishing.

15. In order to facilitate the work of SCIC and the Commission, the Executive Secretary shall prepare a paper for each CCAMLR annual meeting, summarising and annexing all the information, evidence and comments submitted in respect of each vessel to be considered.

16. The Draft CP-IUU Vessel List, Provisional CP-IUU Vessel List, Proposed CP-IUU Vessel List and the CP-IUU Vessel List shall contain the following details:

(i) Name of vessel and previous names, if any;

(ii) Flag of vessel and previous flags, if any;

(iii) Owner of vessel and previous owners, including beneficial owners, if any;

(iv) Operator of vessel and previous operators, if any;

(v) Call sign of vessel and previous call signs, if any;

(vi) Lloyds/IMO number;

(vii) Photographs of the vessel, where available;

(viii) Date vessel was first included on the CP-IUU Vessel List;

(ix) Summary of activities which justify inclusion of the vessel on the List, together with references to all relevant documents informing of and evidencing those activities;

(x) Date and location of subsequent sightings of the vessel in the Convention Area, if any, and of any other related activities performed by the vessel contrary to CCAMLR conservation measures.

17. On approval of the CP-IUU Vessel List, the Commission shall request Contracting Parties whose vessels appear thereon to take all necessary measures to address these activities, including if necessary, the withdrawal of the registration or of the fishing licences of these vessels, the nullification of the relevant catch documents and denial of further access to the CDS, and to inform the Commission of the measures taken in this respect.

18. Contracting Parties shall take all necessary measures, subject to and in accordance with their applicable laws and regulations and international law, in order that:

(i) The issuance of a licence to vessels on the CP-IUU Vessel List to fish in the Convention Area is prohibited;

(ii) The issuance of a licence to vessels on the CP-IUU Vessel List to fish in waters under their fisheries jurisdiction is prohibited;

(iii) Fishing vessels, support vessels, refuel vessels, mother-ships and cargo vessels flying their flag do not in any way, in the Convention Area, assist vessels on the CP-IUU Vessel List by participating in any transhipment or joint fishing operations, supporting or resupplying such vessels;

(iv) Vessels on the CP-IUU Vessel List should be denied access to ports unless for the purpose of enforcement action or for reasons of force majeure or for rendering assistance to vessels, or persons on those vessels, in danger or distress. Vessels allowed entry to port are to be inspected in accordance with relevant conservation measures;

(v) Where port access is granted to such vessels:

(a) Documentation and other information, including DCDs where relevant are examined, with a view to verifying the area in which the catch was taken; and where the origin cannot be adequately verified, the catch is detained or any landing or transhipment of the catch is refused; and

(b) Where possible

i. In the event catch is found to be taken in contravention of CCAMLR conservation measures, catch is confiscated;

ii. All support to such vessels, including non-emergency refuelling, resupplying and repairs is prohibited;

(vi) The chartering of vessels on the CP-IUU Vessel List is prohibited;

(vii) Granting of their flag to vessels on the CP-IUU Vessel List is refused; (viii) Imports, exports and re-exports of Dissostichus spp. from vessels on the CP-IUU Vessel List are prohibited;

(ix) ‘Export or Re-export Government Authority Validation’ is not certified when the shipment (of Dissostichus spp.) is declared to have been caught by any vessel on the CP-IUU Vessel List;

(x) Importers, transporters and other sectors concerned are encouraged to refrain from dealing with and from transhipping of fish caught by vessels on the CP-IUU Vessel List;

(xi) Any appropriate information which is suitably documented is collected and submitted to the Executive Secretary, to be forwarded to Contracting Parties, and non-Contracting Parties, entities or fishing entities cooperating with the Commission by participating in the CDS, with the aim of detecting, controlling and preventing the importation or exportation of, and other trade-related activities relating to, catches from vessels on the CP-IUU Vessel List intended to circumvent this conservation measure.

19. The Executive Secretary shall place the CP-IUU Vessel List approved by the Commission on the public section of the CCAMLR Web site. Furthermore, the Executive Secretary shall communicate the CP-IUU Vessel List to the FAO and appropriate regional fisheries organisations to enhance cooperation between CCAMLR and these organisations for the purposes of preventing, deterring and eliminating IUU fishing.

20. The Executive Secretary shall circulate to non-Contracting Parties cooperating with the Commission by participating in the CDS, the CP-IUU Vessel List, together with the request that, to the extent possible in accordance with their applicable laws and regulations, they do not register vessels that have been placed on the List unless they are removed from the List by the Commission.

21. If Contracting Parties obtain new or changed information for vessels on the CP-IUU Vessel List in relation to the details in paragraphs 16(i) to (vii), they shall notify the Executive Secretary who shall place a notification on the secure section of the CCAMLR Web site and advise all Contracting Parties of the notification. If there are no comments on the information within seven (7) days, the Executive Secretary will revise the CP-IUU Vessel List.

22. Without prejudice to their rights to take proper action consistent with international law, Contracting Parties should not take any trade measures or other sanctions which are inconsistent with their international obligations against vessels using as the basis for the action the fact that the vessel or vessels have been included in the Draft CP-IUU Vessel List drawn up by the Executive Secretary, pursuant to paragraph 6.

23. The Chair of the Commission shall request the Contracting Parties identified pursuant to paragraph 1 to take all necessary measures to avoid diminishing the effectiveness of CCAMLR conservation measures resulting from their vessels' activities, and to advise the Commission of actions taken in that regard.

24. The Commission shall review, at subsequent CCAMLR annual meetings, as appropriate, action taken by those Contracting Parties to which requests have been made pursuant to paragraph 23, and identify those which have not rectified their activities.

25. The Commission shall decide appropriate measures to be taken in respect to Dissostichus spp. so as to address these issues with those identified Contracting Parties. In this respect, Contracting Parties may cooperate to adopt appropriate multilaterally agreed trade-related measures, consistent with their obligations as members of the World Trade Organization, that may be necessary to prevent, deter and eliminate the IUU activities identified by the Commission. Multilateral trade-related measures may be used to support cooperative efforts to ensure that trade in Dissostichus spp. and its products does not in any way encourage IUU fishing or otherwise diminish the effectiveness of CCAMLR's conservation measures which are consistent with the United Nations Convention on the Law of the Sea 1982.

Conservation Measure 10-07 (2008)

Scheme to promote compliance by non-Contracting Party vessels with CCAMLR conservation measures

(Species: all; Area: all; Season: all; Gear: all)

The Commission,

Convinced that illegal, unreported and unregulated (IUU) fishing compromises the objective of the Convention,

Aware that a significant number of vessels registered to non-Contracting Parties are engaged in activities which diminish the effectiveness of CCAMLR conservation measures,

Recalling that Contracting Parties are required to cooperate in taking appropriate action to deter any activities which are not consistent with the objective of the Convention,

Resolved to reinforce its integrated administrative and political measures aimed at eliminating IUU fishing in the Convention Area,

Hereby adopts the following conservation measure in accordance with Article IX.2(i) of the Convention:

1. The Contracting Parties request non-Contracting Parties to cooperate fully with the Commission with a view to ensuring that the effectiveness of CCAMLR conservation measures is not undermined.

2. At each annual meeting the Commission shall identify those non-Contracting Parties whose vessels are engaged in IUU fishing activities in the Convention Area that threaten to undermine the effectiveness of CCAMLR conservation measures, and shall establish a list of such vessels (NCP-IUU Vessel List), in accordance with the procedures and criteria set out hereafter.

3. This identification shall be documented, inter alia, on reports relating to the application of Conservation Measure 10-03, trade information obtained on the basis of the implementation of Conservation Measure 10-05 and relevant trade statistics such as Food and Agriculture Organization of the United Nations (FAO) and other national or international verifiable statistics, as well as any other information obtained from Port States and/or gathered from the fishing grounds which is suitably documented.

4. A non-Contracting Party vessel which has been sighted engaging in fishing activities in the Convention Area or which has been denied port access, landing or transhipment in accordance with Conservation Measure 10-03 is presumed to be undermining the effectiveness of CCAMLR conservation measures. In the case of any transhipment activities involving a sighted non-Contracting Party vessel inside or outside the Convention Area, the presumption of undermining the effectiveness of CCAMLR conservation measures applies to any other non-Contracting Party vessel which has engaged in such activities with that vessel.

5. When a non-Contracting Party vessel referred to in paragraph 4 enters a port of any Contracting Party, it shall be inspected by authorised Contracting Party officials in accordance with Conservation Measure 10-03 and shall not be allowed to land or tranship any fish species subject to CCAMLR conservation measures it might be holding on board unless the vessel establishes that the fish were caught in compliance with all relevant CCAMLR conservation measures and requirements under this Convention.

6. A Contracting Party which sights a non-Contracting Party vessel engaging in fishing activities in the Convention Area or denies a non-Contracting Party port access, landing or transhipment under paragraph 5 shall attempt to inform the vessel that it is presumed to be undermining the effectiveness of CCAMLR conservation measures, and that this information will be distributed to the Executive Secretary, all Contracting Parties and the Flag State of the vessel.

7. Information regarding such sightings or denial of port access, landings or transhipments, and the result of all inspections conducted in the ports of Contracting Parties, and any subsequent action shall be transmitted within one business day to the Commission in accordance with Article XXII of the Convention. The Executive Secretary shall transmit this information to all Contracting Parties, within one business day of receiving it, and to the Flag State of the vessel concerned as soon as possible and to appropriate regional fisheries organisations. At this time, the Executive Secretary shall, in consultation with the Chair of the Commission, request the Flag State concerned that, where appropriate, measures be taken in accordance with its applicable laws and regulations to ensure that the vessel desists from any activities that undermine the effectiveness of CCAMLR conservation measures, and that the Flag State report back to CCAMLR on the results of such enquiries and/or on the measures it has taken in respect of the vessel. The other Contracting Parties and non-Contracting Parties cooperating with the Commission by participating in the Catch Documentation Scheme for Dissostichus spp. (CDS) shall be invited to communicate any information available to them in respect of the vessels referred to above, including their ownership, operators and their trade activities.

8. Where a Contracting Party obtains information that a non-Contracting Party vessel has engaged in activities set out in paragraph 9, it shall submit a report containing this information, within 30 days of having become aware of it, to the Executive Secretary (including where such information has already been transmitted under paragraph 7). Contracting Parties shall indicate that the information is provided for the purposes of considering whether to include the vessel concerned in the NCP-IUU Vessel List under Conservation Measure 10-07. In addition, the Contracting Party may also submit the report directly to the non-Contracting Party concerned. The Executive Secretary shall promptly forward the information to the non-Contracting Party concerned, indicating that it has been provided for the purposes of considering whether to include the vessel concerned in the NCP-IUU Vessel List under Conservation Measure 10-07. The Executive Secretary shall request that the Flag State take action to prevent the vessel undertaking any activities that undermine the effectiveness of CCAMLR conservation measures and that the Flag State report back to CCAMLR on the measures it has taken in respect of the vessel concerned. The Executive Secretary shall circulate the information and any report from the Flag State to all other Contracting Parties as soon as possible.

9. In order for a non-Contracting Party's vessel to be included in the NCP-IUU Vessel List, there must be evidence, gathered in accordance with paragraphs 3 and 8, that the vessel has:

(i) Been sighted engaging in fishing activities in the CCAMLR Convention Area; or

(ii) Been denied port access, landing or transhipment in accordance with Conservation Measure 10-03; or

(iii) Transhipped or participated in joint fishing operations with, supported or resupplied other vessels identified by CCAMLR as carrying out IUU fishing activities (i.e. vessels on the NCP-IUU Vessel List or the CP-IUU Vessel List established under Conservation Measure 10-06); or

(iv) Failed to provide, when required under Conservation Measure 10-05, a valid catch document for Dissostichus spp.; or

(v) Engaged in fishing activities in a manner that undermines the attainment of the objectives of the Convention in waters adjacent to islands within the area to which the Convention applies over which the existence of State sovereignty is recognised by all Contracting Parties, in the terms of the statement made by the Chairman on 19 May 1980; or

(vi) Engaged in fishing activities contrary to any other CCAMLR conservation measures in a manner that undermines the attainment of the objectives of the Convention according to Article XXII of the Convention.

Draft NCP-IUU Vessel List

10. The Executive Secretary shall, before 1 July of each year, draw up a draft list (‘the Draft NCP-IUU Vessel List’), listing all non-Contracting Party vessels that, on the basis of the information gathered in accordance with paragraphs 3 and 8 and any other information that the Executive Secretary might have obtained in relation thereto, might be presumed to have engaged in any of the activities referred to in paragraph 9 during the period beginning 30 days before the start of the previous CCAMLR annual meeting. The Draft NCP-IUU Vessel List shall be distributed immediately to the non-Contracting Parties concerned and to all Contracting Parties.

11. The Executive Secretary shall invite non-Contracting Parties whose vessels are included in the Draft NCP-IUU Vessel List to transmit their comments to the Executive Secretary before 1 September, including verifiable VMS data and other supporting information showing that the vessels listed have not engaged in the activities which led to their inclusion in the Draft NCP-IUU Vessel List.

Provisional NCP-IUU Vessel List

12. The Executive Secretary shall create a new list (‘the Provisional NCP-IUU Vessel List’) which shall comprise the Draft NCP-IUU Vessel List and all information received pursuant to paragraph 11. Before 1 October, the Executive Secretary shall transmit the Provisional NCP-IUU Vessel List, the NCP-IUU Vessel List agreed at the previous CCAMLR annual meeting, and any evidence or documented information received since that meeting regarding vessels on the Provisional NCP-IUU Vessel List or the NCP-IUU Vessel List to all Contracting Parties and non-Contracting Parties cooperating with the Commission by participating in the CDS. The Executive Secretary shall at the same time:

(i) Request non-Contracting Parties cooperating with the Commission by participating in the CDS that, to the extent possible in accordance with their applicable laws and regulations, they do not register or de-register vessels that have been placed on the List until such time as the Commission has had the opportunity to consider the List and has made its determination;

(ii) Invite non-Contracting Parties cooperating with the Commission by participating in the CDS to submit any evidence or documented information regarding vessels on the Provisional NCP-IUU Vessel List and NCP-IUU Vessel List, at the latest 30 days before the start of the next CCAMLR annual meeting. Where the incident occurs within the month preceding the next CCAMLR annual meeting, evidence or documented information should be provided as soon as possible;

(iii) Transmit the Provisional NCP-IUU Vessel List and any evidence or documented information received regarding vessels on that List to all non-Contracting Parties whose vessels are included in the List and who are not non-Contracting Parties cooperating with the Commission by participating in the CDS.

13. Contracting Parties shall take all necessary measures, to the extent possible in accordance with their applicable laws and regulations, in order that:

(i) They do not register vessels that have been placed on the Provisional NCP-IUU Vessel List until such time as the Commission has had the opportunity to examine the List and has made its determination;

(ii) If they do de-register a vessel on the Provisional NCP-IUU Vessel List they inform, where possible, the Executive Secretary of the proposed new Flag State of the vessel, whereupon the Executive Secretary shall inform that State that the vessel is on the Provisional NCP-IUU Vessel List and urge that State not to register the vessel.

Proposed and Final NCP-IUU Vessel List

14. Contracting Parties shall submit to the Executive Secretary any additional information which might be relevant for the establishment of the NCP-IUU Vessel List within 30 days of having become aware of such information and at the latest 30 days before the start of the CCAMLR annual meeting. A report containing this information shall be submitted in the format set out in paragraph 20, and Contracting Parties shall indicate that the information is provided for the purposes of considering whether to include the vessel concerned in the NCP-IUU Vessel List under Conservation Measure 10-07. The Executive Secretary shall collate all information received and, where this has not been provided in relation to a vessel, attempt to obtain the information in paragraphs 20(i) to (vii).

15. The Executive Secretary shall circulate to Contracting Parties, at the latest 30 days before the start of the CCAMLR annual meeting, all evidence or documented information received under paragraphs 12 and 13, together with any other evidence or documented information received in terms of paragraphs 3 and 8.

16. At each CCAMLR annual meeting, the Standing Committee on Implementation and Compliance (SCIC) shall, by consensus:

(i) Adopt a Proposed NCP-IUU Vessel List, following consideration of the Provisional NCP-IUU Vessel List and information and evidence circulated under paragraph 14. The Proposed NCP-IUU Vessel List shall be submitted to the Commission for approval;

(ii) Recommend to the Commission which, if any, vessels should be removed from the NCP-IUU Vessel List adopted at the previous CCAMLR annual meeting, following consideration of that List and information and evidence circulated under paragraph 14.

17. SCIC shall include a vessel on the Proposed NCP-IUU Vessel List only if one or more of the criteria in paragraph 9 have been satisfied.

18. SCIC shall recommend that the Commission should remove a vessel from the NCP-IUU Vessel List if the non-Contracting Party proves that:

(i) The vessel did not take part in the activities described in paragraph 9 which led to the inclusion of the vessel in the NCP-IUU Vessel List; or

(ii) It has taken effective action in response to the activities in question, including prosecution and imposition of sanctions of adequate severity; or

(iii) The vessel has changed ownership including beneficial ownership if known to be distinct from the registered ownership and that the new owner can establish the previous owner no longer has any legal, financial, or real interests in the vessel, or exercises control over it and that the new owner has not participated in IUU fishing; or

(iv) It has taken measures considered sufficient to ensure the granting of the right to the vessel to fly its flag will not result in IUU fishing.

19. In order to facilitate the work of SCIC and the Commission, the Executive Secretary shall prepare a paper for each CCAMLR annual meeting, summarising and annexing all the information, evidence and comments submitted in respect of each vessel to be considered.

20. The Draft NCP-IUU Vessel List, Provisional NCP-IUU Vessel List, Proposed NCP-IUU Vessel List and the NCP-IUU Vessel List shall contain the following details:

(i) Name of vessel and previous names, if any;

(ii) Flag of vessel and previous flags, if any;

(iii) Owner of vessel and previous owners including beneficial owners, if any;

(iv) Operator of vessel and previous operators, if any;

(v) Call sign of vessel and previous call signs, if any;

(vi) Lloyds/IMO number;

(vii) Photographs of the vessel, where available;

(viii) Date vessel was first included on the NCP-IUU Vessel List;

(ix) Summary of activities which justify inclusion of the vessel in the List, together with references to all relevant documents informing of and evidencing those activities;

(x) Date and location of subsequent sightings of the vessel in the Convention Area, if any, and of any other related activities performed by the vessel contrary to CCAMLR conservation measures.

21. On approval of the NCP-IUU Vessel List, the Commission shall request non-Contracting Parties whose vessels appear thereon to take all necessary measures to address these activities, including if necessary, the withdrawal of the registration or of the fishing licences of these vessels, the nullification of the relevant catch documents and denial of further access to the CDS, and to inform the Commission of the measures taken in this respect.

22. Contracting Parties shall take all necessary measures, subject to and in accordance with their applicable laws and regulations and international law, in order that:

(i) The issuance of a licence to vessels on the NCP-IUU Vessel List to fish in waters under their fisheries jurisdiction is prohibited;

(ii) Fishing vessels, support vessels, refuel vessels, mother-ships and cargo vessels flying their flag do not in any way assist vessels on the NCP-IUU Vessel List by participating in any transhipment or joint fishing operations, supporting or resupplying such vessels;

(iii) Vessels on the NCP-IUU Vessel List should be denied access to ports unless for the purpose of enforcement action or for reasons of force majeure or for rendering assistance to vessels, or persons on those vessels, in danger or distress. Vessels allowed entry to port are to be inspected in accordance with relevant conservation measures;

(iv) Where port access is granted to such vessels:

(a) Documentation and other information, including DCDs where relevant are examined, with a view to verifying the area in which the catch was taken; and where the origin cannot be adequately verified, the catch is detained or any landing or transhipment of the catch is refused; and

(b) Where possible

i. In the event catch is found to be taken in contravention of CCAMLR conservation measures, catch is confiscated;

ii. All support to such vessels, including non-emergency refuelling, resupplying and repairs is prohibited;

(v) The chartering of vessels on the NCP-IUU Vessel List is prohibited;

(vi) Granting of their flag to vessels on the NCP-IUU Vessel List is refused;

(vii) Imports, exports and re-exports of Dissostichus spp. from vessels on the NCP-IUU Vessel List are prohibited;

(viii) “Export or Re-export Government Authority Validation” is not certified when the shipment (of Dissostichus spp.) is declared to have been caught by any vessel on the NCP-IUU Vessel List;

(ix) Importers, transporters and other sectors concerned are encouraged to refrain from dealing with and from transhipping of fish caught by vessels on the NCP-IUU Vessel List;

(x) Any appropriate information which is suitably documented is collected and submitted to the Executive Secretary, to be forwarded to Contracting Parties and non-Contracting Parties, entities or fishing entities cooperating with the Commission by participating in the CDS, with the aim of detecting, controlling and preventing the importation or exportation of, and other trade-related activities relating to, catches from vessels on the NCP-IUU Vessel List intended to circumvent this conservation measure.

23. The Executive Secretary shall place the NCP-IUU Vessel List approved by the Commission on the public section of the CCAMLR Web site. Furthermore, the Executive Secretary shall communicate the NCP-IUU Vessel List to the FAO and appropriate regional fisheries organisations to enhance cooperation between CCAMLR and these organisations for the purposes of preventing, deterring and eliminating IUU fishing.

24. The Executive Secretary shall circulate to non-Contracting Parties cooperating with the Commission by participating in the CDS the NCP-IUU Vessel List, together with the request that, to the extent possible in accordance with their applicable laws and regulations, they do not register vessels that have been placed on the List unless they are removed from the List by the Commission.

25. If Contracting Parties obtain new or changed information for vessels on the NCP-IUU Vessel List in relation to the details in paragraphs 20(i) to (vii), they shall notify the Executive Secretary who shall place a notification on the secure section of the CCAMLR Web site and advise all Contracting Parties and the non-Contracting Party concerned of the notification. If there are no comments on the information within seven (7) days, the Executive Secretary will revise the NCP-IUU Vessel List.

26. Without prejudice to their rights to take proper action consistent with international law, Contracting Parties should not take any trade measures or other sanctions which are inconsistent with their international obligations against vessels using as the basis for the action the fact that the vessel or vessels have been included in the Draft NCP-IUU Vessel List drawn up by the Executive Secretary, pursuant to paragraph 10.

27. The Chair of the Commission shall request the non-Contracting Parties identified pursuant to paragraph 1 to take all necessary measures to avoid diminishing the effectiveness of CCAMLR conservation measures resulting from their vessels' activities, including if necessary withdrawal of a vessel's registration or fishing licence, nullification of the relevant CDS documents and denial of further access to the CDS, and to advise the Commission of actions taken in that regard.

28. Contracting Parties shall jointly and/or individually request non-Contracting Parties identified pursuant to paragraph 2 to cooperate fully with the Commission in order to avoid diminishing the effectiveness of conservation measures adopted by the Commission.

29. The Commission shall review, at subsequent CCAMLR annual meetings, as appropriate, action taken by those non-Contracting Parties to which requests have been made pursuant to paragraph 26, and identify those which have not rectified their activities.

30. The Commission shall decide appropriate measures to be taken in respect to Dissostichus spp. so as to address these issues with those identified non-Contracting Parties. In this respect, Contracting Parties may cooperate to adopt appropriate multilaterally agreed trade-related measures, consistent with their obligations as members of the World Trade Organization, that may be necessary to prevent, deter and eliminate the IUU activities identified by the Commission. Multilateral trade-related measures may be used to support cooperative efforts to ensure that trade in Dissostichus spp. and its products does not in any way encourage IUU fishing or otherwise diminish the effectiveness of CCAMLR's conservation measures which are consistent with the United Nations Convention on the Law of the Sea 1982.

Conservation Measure 10-09 (2008)

Notification system for transhipments within the Convention Area

(Species: various; Area: various; Season: all; Fishery: various)

The Commission,

Desiring to improve knowledge within CCAMLR of all vessels operating within the Convention Area, and in particular those which offer support to harvesting vessels,

Noting that an increasing number of vessels are operating within the Convention Area, either engaged directly in harvesting activities or in providing support to those vessels,

Recognising the need to increase the control over transhipment operations which support the harvesting of species within the Convention Area,

Concerned that vessels involved in the support of illegal, unreported and unregulated (IUU) fishing may be operating inside the Convention Area,

Taking account of the need to combat IUU fishing activities because they undermine the effectiveness of the conservation measures already adopted by CCAMLR,

Hereby adopts the following conservation measure in accordance with Article IX of the Convention:

1. This conservation measure applies to all CCAMLR new and exploratory fisheries as well as to those listed in Annex 10-09/A.

2. Each Contracting Party as a Flag State shall notify the Secretariat at least 72 hours in advance if any of its vessels intend to tranship ¹ within the Convention Area. The Flag State may permit or direct that such notifications be provided by the vessel directly to the Secretariat.

3. Notifications of intended transhipment operations shall include the following information, for all carrier vessels involved:

• Name and registration number

• International radio call sign

• Flag State

• Type of vessels, length, gross registered tonnage (GRT) and carrying capacity

• Proposed time and position, in latitude and longitude, of transhipment.

The notification should also include details of the type and amount of catches and other goods, such as food stores and fuel, being transhipped.

4. The CCAMLR Secretariat shall maintain a list of all such notifications on the password-protected part of its Web site, in a manner consistent with confidentiality requirements notified by CCAMLR Contracting Parties for their vessels.

5. For fisheries not covered by the provisions of paragraph 1, CCAMLR Contracting Parties shall provide, as a background paper to the annual meeting of the Commission, a report including details set out in paragraph 3 of all transhipments activities in the Convention Area of the vessels flying their flag, during the previous year.

6. No vessel covered by paragraph 1 may tranship to any vessel within the Convention Area for which prior notification, pursuant to paragraphs 1 to 3 above, has not been given.

7. The Commission shall review the implementation of this conservation measure at its 2010 meeting.

¹ Transhipment means the transfer of harvested marine living resources and any other goods or materials to or from fishing vessels.

Annex 10-09/A

Additional Fisheries to Which This Conservation Measure Applies

Target species | Statistical subarea/division | Fishing gear
Dissostichus eleginoides | Subarea 48.3 | Longline
| Division 58.5.2 | Longline, pot, trawl
Dissostichus spp. | Subarea 48.4 | Longline
Champsocephalus gunnari | Subarea 48.3 | Trawl
| Division 58.5.2 | Trawl
Crab | Subarea 48.3 | Pot

Conservation Measure 21-01 (2008) ¹, ²

Notification that Members are considering initiating a new fishery.

(Species: all; Area: all; Season: all; Gear: all)

The Commission,

Recognising that in the past, Antarctic fisheries have been initiated in the Convention Area before sufficient information was available upon which to base management advice,

Noting that in recent years new fisheries have started without adequate information being available to evaluate either the fishery potential or the possible impacts on the target stocks or species dependent on them,

Believing that without prior notification of a new fishery, the Commission is unable to fulfil its function under Article IX,

Hereby adopts the following conservation measure in accordance with Article IX of the Convention:

1. A new fishery, for the purposes of this conservation measure, is a fishery on a species using a particular fishing method in a statistical subarea or division for which:

(i) Information on distribution, abundance, demography, potential yield and stock identity from comprehensive research/surveys or exploratory fishing have not been submitted to CCAMLR;

or

(ii) Catch and effort data have never been submitted to CCAMLR;

or

(iii) Catch and effort data from the two most recent seasons in which fishing occurred have not been submitted to CCAMLR.

2. In addition to those fisheries identified according to paragraph 1, the use of fishing methods in high-seas areas of the Convention Area as specified in Annex 21-01/A will constitute new fisheries and will require approval of the Commission for specific areas before proceeding.

3. Any Member proposing to participate in a new fishery shall:

(i) Notify its intention to the Commission not less than three months in advance of the next regular meeting of the Commission. This notification shall include the information prescribed in paragraph 4 of Conservation Measure 10-02 in respect of vessels proposing to participate in the fishery, with the exception that the notification shall not be required to specify the information referred to in subparagraph 4(ii) of Conservation Measure 10-02. Members shall, to the extent practicable, also provide in their notification the additional information detailed in paragraph 5 of Conservation Measure 10-02 in respect to each fishing vessel notified. Members are not hereby exempted from their obligations under Conservation Measure 10-02 to submit any necessary updates to vessel and licence details within the deadline established therein as of issuance of the licence to the vessel concerned;

(ii) Prepare and submit to CCAMLR by a specified date a Fishery Operations Plan for the fishing season, for review by the Scientific Committee and the Commission. The Fishery Operations Plan shall include as much of the following information as the Member is able to provide, so as to assist the Scientific Committee in its preparation of the Data Collection Plan:

(a) The nature of the new fishery, including target species, methods of fishing, proposed region and maximum catch levels proposed for the forthcoming season;

(b) Biological information on the target species from comprehensive research/survey cruises, such as distribution, abundance, demographic data and information on stock identity;

(c) Details of dependent and related species and the likelihood of their being affected by the proposed fishery;

(d) Information from other fisheries in the region or similar fisheries elsewhere that may assist in the evaluation of potential yield;

(e) If the proposed fishery will be undertaken using bottom trawl gear, information on the known and anticipated impacts of this gear on vulnerable marine ecosystems, including benthos and benthic communities.

(iii) Provide a commitment, in its proposal, to implement any Data Collection Plan developed by the Scientific Committee for the fishery.

4. The Member shall not initiate a new fishery pending the process specified in paragraphs 8 and 9 below.

5. To ensure that adequate information is made available to the Scientific Committee for evaluation, during the period when a fishery is classified as new, the Scientific Committee shall develop (and update annually as appropriate) a Data Collection Plan, which should include research proposals, as appropriate. This shall identify the data needed and describe any operational research actions necessary to obtain the relevant data from the new fishery to enable an assessment of the stock to be made.

6. The Data Collection Plan shall include, where appropriate:

(i) A description of the catch, effort and related biological, ecological and environmental data required to undertake the evaluations described in paragraph 1, and the date by which such data are to be reported annually to CCAMLR;

(ii) A plan for directing fishing effort during the initial phase to permit the acquisition of relevant data to evaluate the fishery potential and the ecological relationships among harvested, dependent and related populations and the likelihood of adverse impacts;

(iii) Where appropriate, a plan for the acquisition of any other research data by fishing vessels, including activities that may require the cooperative activities of scientific observers and the vessel, as may be required for the Scientific Committee to evaluate the fishery potential and the ecological relationships among harvested, dependent and related populations and the likelihood of adverse impacts;

(iv) An evaluation of the time scales involved in determining the responses of harvested, dependent and related populations to fishing activities.

7. New fisheries shall be open only to those vessels that are equipped and configured so that they can comply with all relevant conservation measures. A vessel with a confirmed involvement in illegal, unreported or unregulated fishing in respect of Conservation Measures 10-06 and 10-07 shall not be permitted to participate in new fisheries.

8. The information provided in accordance with paragraphs 3 to 7, together with any other relevant information, shall be considered by the Scientific Committee, which shall then advise the Commission.

9. After its review of the information on the proposed new fishery, taking full account of the recommendations and the advice of the Scientific Committee, the Commission may then take such action as it deems necessary.

¹ Except for waters adjacent to the Kerguelen and Crozet Islands.

² Except for waters adjacent to the Prince Edward Islands.

Annex 21-01/A

Additional Fishing Methods

Bottom trawling in high-seas areas of the Convention Area.

Conservation Measure 21-03 (2008)

Notifications of intent to participate in a fishery for Euphausia superba

(Species: krill; Area: all; Season: all; Gear: all)

1. In order for the Scientific Committee to thoroughly study the notifications to fish for krill for the coming season, all Members of the Commission intending to fish for krill in the Convention Area shall notify the Secretariat of their intention not later than 1 June prior to the annual meeting of the Commission, immediately prior to the season in which they intend to fish, using the pro formas in Annex 21-03/A and Annex 21-03/B.

2. This notification shall include the information prescribed in paragraph 4 of Conservation Measure 10-02 in respect of each vessel proposing to participate in the fishery, with the exception that the notification shall not be required to specify the information referred to in subparagraph 4(ii) of Conservation Measure 10-02. Members shall, to the extent practicable, also provide in their notification the additional information detailed in paragraph 5 of Conservation Measure 10-02 in respect to each fishing vessel notified. Members are not hereby exempted from their obligations under Conservation Measure 10-02 to submit any necessary updates to vessel and licence details within the deadline established therein as of issuance of the licence to the vessel concerned.

3. A Member intending to fish for krill in the Convention Area may only notify in respect of vessels flying its flag at the time of the notification.

4. Members shall ensure, including by submitting notifications by the due date, appropriate review by the Commission of notifications to fish for krill in the Convention Area before a vessel commences fishing.

5. Notwithstanding paragraph 4, Members shall be entitled under Conservation Measure 10-02 to authorise participation in a krill fishery by a vessel other than that notified to the Commission in accordance with paragraph 2, if the notified vessel is prevented from participation due to legitimate operational reasons or force majeure. In such circumstances the Member concerned shall immediately inform the Secretariat providing:

(i) Full details of the intended replacement vessel(s) as prescribed in paragraph 2;

(ii) A comprehensive account of the reasons justifying the replacement and any relevant supporting evidence or references.

The Secretariat shall immediately circulate this information to all Members.

6. A vessel on either of the IUU Vessel Lists established under Conservation Measures 10-06 and 10-07 shall not be permitted by Members to participate in krill fisheries.

7. The Secretariat shall provide the Commission and its relevant subsidiary bodies with information regarding substantial discrepancies between notifications and actual catches in the krill fishery in the latest season.

Conservation Measure 22-05 (2008)

Restrictions on the use of bottom trawling gear in high-seas areas of the Convention Area

(Species: all; Area: high seas; Season: all; Gear: bottom trawl)

The Commission hereby adopts the following conservation measure in accordance with Article IX of the Convention:

1. The use of bottom trawling gear in the high-seas areas of the Convention Area is restricted to areas for which the Commission has conservation measures in force for bottom trawling gear.

2. This conservation measure does not apply to the use of bottom trawling gear in conducting scientific research in the Convention Area.

Conservation Measure 22-06 (2008) ¹ ²

Bottom fishing in the Convention Area

(Species: all; Area: see paragraphs 1, 2; Season: all; Gear: bottom fishing)

The Commission,

Recognising the commitment made by Members to implement the CCAMLR precautionary and ecosystem approaches to fisheries management by embracing principles of conservation as stated in Article II of the Convention,

Conscious of the urgent need to protect vulnerable marine ecosystems (VMEs) from bottom fishing activities that have significant adverse impacts on such ecosystems,

Noting that United Nations General Assembly Resolution 61/105, adopted on 8 December 2006, calls on regional fisheries management organisations or arrangements with the competence to regulate bottom fisheries to adopt and implement measures to prevent significant adverse impacts of bottom fisheries on VMEs and noting further that all CCAMLR Members joined in the consensus by which this resolution was adopted,

Noting also the importance of Article IX of the Convention, including the use of the best scientific evidence available,

Aware of the steps already taken by CCAMLR to address the impacts of deep-sea gillnetting and bottom trawling in the Convention Area, through the implementation of Conservation Measures 22-04 and 22-05 respectively,

Recognising that CCAMLR has responsibilities for the conservation of Antarctic marine living resources, part of which include the attributes of a regional fisheries management organisation,

Noting that all CCAMLR conservation measures are published on the CCAMLR Web site,

Hereby adopts the following conservation measure in accordance with Article IX of the Convention:

Management of Bottom Fishing

1. This conservation measure applies to areas in the Convention Area south of 60° S, and to the rest of the Convention Area with the exception of subareas and divisions where an established fishery was in place in 2006/07 with a catch limit greater than zero.

2. This conservation measure also applies to the area of Division 58.4.1 north of 60° S.

3. For the purposes of this measure, the term `vulnerable marine ecosystems' in the context of CCAMLR includes seamounts, hydrothermal vents, cold water corals and sponge fields.

4. For the purposes of this measure, the term `bottom fishing activities' includes the use of any gear that interacts with the bottom.

5. Until 30 November 2008, bottom fishing activities shall be limited to those areas for which bottom fishing activities were approved by the Commission in the 2006/07 fishing season.

6. Contracting Parties whose vessels wish to engage in any bottom fishing activities, beginning 1 December 2008, shall follow the procedures described in paragraphs 8 to 12 below.

7. Contracting Parties shall authorise vessels flying their flag to participate in bottom fishing activities only in accordance with the provisions of this conservation measure and Conservation Measure 10-02.

Assessment of Bottom Fishing

8. All individual bottom fishing activities commencing 1 December 2008 and thereafter shall be subject to assessment by the Scientific Committee, based on the best available scientific information, to determine if such activities, taking account of the history of bottom fishing in the areas proposed, would contribute to having significant adverse impacts on VMEs, and to ensure that if it is determined that these activities would make such contributions, that they are managed to prevent such impacts or are not authorised to proceed. The assessments shall include the following procedures:

(i) Each Contracting Party proposing to participate in bottom fishing shall submit to the Scientific Committee and Commission information and a preliminary assessment based on the pro forma in Annex 22-06/A, with the best available data, of the known and anticipated impacts of its bottom fishing activities on VMEs, including benthos and benthic communities, no less than three months in advance of the next meeting of the Commission. These submissions shall also include the mitigation measures proposed by the Contracting Party to prevent such impacts.

(ii) The Scientific Committee shall undertake an assessment, according to procedures and standards it develops, and provide advice to the Commission as to whether the proposed bottom fishing activity would contribute to having significant adverse impacts on VMEs and, if so, whether the proposed or additional mitigation measures would prevent such impacts. The Scientific Committee may use in its assessment additional information available to it, including information from other fisheries in the region or similar fisheries elsewhere.

(iii) The Commission shall, taking account of advice and recommendations provided by the Scientific Committee concerning bottom fishing activities, including data and information arising from reports pursuant to paragraph 8, adopt conservation measures to prevent significant adverse impacts on VMEs, that as appropriate:

(a) Allow, prohibit or restrict bottom fishing activities within particular areas;

(b) Require specific mitigation measures for bottom fishing activities;

(c) Allow, prohibit or restrict bottom fishing with certain gear types; and/or

(d) Contain any other relevant requirements or restrictions to prevent significant adverse impacts to VMEs.

Encounters With VMEs

9. Annex 22-06/B provides a notification form for Contracting Parties to use to notify the Secretariat when evidence of VMEs has been encountered, and has not otherwise been reported under Conservation Measure 22-07.

10. Contracting Parties, in the absence of site-specific or other conservation measures to prevent significant adverse impact on VMEs, shall require vessels flying their flag to cease bottom fishing activities in any location where evidence of a VME is encountered in the course of fishing operations, and to report the encounter to the Secretariat in accordance with the schedule of the Catch and Effort Reporting System (Conservation Measures 23-01, 23-02 or 23-03, whichever is applicable), so that appropriate conservation measures can be adopted in respect of the relevant site.

11. The Scientific Committee shall provide advice to the Commission on the known and anticipated impacts of bottom fishing activities on VMEs, and recommend practices, including ceasing fishing operations if needed, when evidence of a VME is encountered in the course of bottom fishing operations. Taking account of this advice, the Commission shall adopt conservation measures to be applied when evidence of a VME is encountered in the course of fishing operations.

Monitoring and Control of Bottom Fishing Activities

12. Notwithstanding Members' obligations pursuant to Conservation Measure 21-02, all Contracting Parties whose vessels participate in bottom fisheries shall:

(i) Ensure that their vessels are equipped and configured so that they can comply with all relevant conservation measures;

(ii) Ensure that each vessel carries at least one CCAMLR-designated scientific observer to collect data in accordance with this and other conservation measures;

(iii) Submit data pursuant to Data Collection Plans for bottom fisheries to be developed by the Scientific Committee and included in conservation measures;

(iv) Be prohibited from continuing participation in the relevant bottom fishery if data arising from conservation measures relevant to that bottom fishery have not been submitted to CCAMLR pursuant to paragraph 12(iii) for the most recent season in which fishing occurred, until the relevant data have been submitted to CCAMLR and the Scientific Committee has been allowed an opportunity to review the data.

13. The Secretariat shall annually compile a list of vessels authorised to fish pursuant to this conservation measure and shall make this list publicly available on CCAMLR's Web site.

Data Collection and Sharing and Scientific Research

14. The Scientific Committee shall, based on the best available scientific information, advise the Commission on where VMEs are known to occur or are likely to occur, and advise on potential mitigation measures. Contracting Parties shall provide the Scientific Committee with all relevant information to assist in this work. The Secretariat shall maintain an inventory including digital maps of all known VMEs in the Convention Area for circulation to all Contracting Parties and other relevant bodies.

15. Scientific bottom fishing research activities notified under Conservation Measure 24-01, paragraph 2, shall proceed according to Conservation Measure 24-01 and shall be undertaken with due regard to potential impacts on VMEs. Scientific bottom fishing research activities notified under Conservation Measure 24-01, paragraph 3, shall be treated in accordance with all aspects of paragraph 9 of this conservation measure, notwithstanding the procedures in Conservation Measure 24-01. Consistent with existing reporting requirements in Conservation Measure 24-01, paragraph 4, information regarding the location and the type of any VME encountered, in the course of scientific bottom fishing research activities, shall be reported to the Secretariat.

Review

16. This conservation measure will be reviewed at the next regular meeting of the Commission, based on the findings of the Scientific Committee. In addition, beginning in 2009 and biennially thereafter, the Commission will examine the effectiveness of relevant conservation measures in protecting VMEs from significant adverse impacts, based on advice from the Scientific Committee.

¹ Except for waters adjacent to the Kerguelen and Crozet Islands.

² Except for waters adjacent to the Prince Edward Islands.

Annex 22-06/A

Pro Forma for Submitting Preliminary Assessments of the Potential for Proposed Bottom Fishing Activities to Have Significant Adverse Impacts on Vulnerable Marine Ecosystems (VMEs)

1. Preliminary assessment of bottom fishing activities—Required Information

1.1 Scope

1.1.1 Fishing method(s) to be used

Longline type (Spanish/auto/trotline/pots)

1.1.2 Subarea/division e.g. 88.1 and 88.2

1.1.3 Period of application

Year

1.2 Proposed fishing activity

1.2.1 Detailed description of gear

Please provide a detailed diagram of the gear configuration to be used (see WG-FSA-08/60 for example or diagrams available in the CCAMLR observer logbook). Include details of line type; line length (length range if necessary); hook type(s); numbers per line and spacing of hooks within a line (per vertical line for trotlines); weight material and mass; spacing of weights; anchor type; floats and spacing etc. for each vessel included in this application/notification.

1.2.2 Scale of proposed activity

Please provide estimates of total numbers of hooks and/or lines to be deployed.

1.2.3 Spatial distribution of activity

Please provide details of SSRUs or geographical regions within the subarea/division in which activities will take place including the depth range of fishing activities.

1.3 Mitigation measures to be used

Please provide details of modifications to gear configuration or methods of deployment aimed at preventing or reducing adverse impacts to VMEs.

2. Preliminary assessment of bottom fishing activities—Supporting Information

2.1 Assessment of known/anticipated impacts on VMEs

Please provide data or information available on the current state of knowledge of impacts of proposed fishing activities on VMEs within the area of activity.

2.1.1 Estimated spatial effort footprint

Please provide details of % area covered by fishing effort.

2.1.2 Summary of potential VMEs present within areas of activity e.g. biogenic/geological; habitat area coverage/distribution; fragility/vulnerability and resilience of habitats; species composition/endemism; life-history traits. Please provide details.

2.1.3 Probability of impacts e.g. low/medium/high/unknown. Please provide details.

2.1.4 Magnitude/severity of the interaction of the proposed fishing gear with VMEs e.g. associated mortality and spatial extent of impacts. Please provide details.

2.1.5 Physical and biological/ecological consequences of impact e.g. loss of physical habitat structure or of keystone species or extinctions.

2.2 Estimated cumulative footprint

Please provide an estimated cumulative impact derived from information provided under 2.1.1 to 2.1.5 above and any additional information available from the Secretariat (e.g. historical fishing effort; habitat maps).

2.3. Research activities related to provision of new information on VMEs

2.3.1 Previous research

Please provide a summary of research previously carried out in the proposed area of activity by your Member State (including national/regional/international research programs). This should include data collected in the previous season under 2.3.2 and details of data submitted to the Secretariat such as:

—Indirect evidence (e.g. by-catch observation; species identification through sample collection and genetic and morphological analysis; acoustic or geomorphic data collection; other)

—Direct evidence (e.g. observations using camera gear or ROVS; other)

2.3.2 In-season research

Please summarise details of the research planned during the proposed fishing activities by your Member State (including national/regional/international research programs). Please provide details of what data will be collected in order to document evidence of or further knowledge on VMEs within the areas of activities including:

—Indirect evidence (see examples above)

—Direct evidence (see examples above)

2.3.3 Follow-on research

Please provide details of potential future research resulting from previous/in-season research, including collaborative work with other Member States or as part of national/regional/international research programs including:

—Indirect evidence (see examples above)

—Direct evidence (see examples above)

Conservation Measure 22-07 (2008) ¹ ²

Interim measure for bottom fishing activities subject to Conservation Measure 22-06 encountering potential vulnerable marine ecosystems in the Convention Area

(Species: all; Area: see CM 22-06; Season: all; Gear: bottom fishing)

The Commission,

Noting the commitment made by Members to avoid significant adverse impacts on vulnerable marine ecosystems (VMEs) from bottom fishing activities,

Acknowledging the current prohibitions on bottom trawling in Conservation Measure 22-05 and on deep-sea gillnetting in Conservation Measure 22-04 in the high seas areas of the Convention Area,

Agreeing on the need to implement the precautionary approach for managing bottom fisheries with respect to VMEs due to the difficulty in acquiring data on their location, extent and risk of significant adverse impacts,

Further noting the need to acquire additional data during the 2008/09 season to contribute to assessments and advice on a long-term precautionary approach to avoiding significant adverse impacts on VMEs,

Hereby adopts the following conservation measure in accordance with Article IX of the Convention and Conservation Measure 22-06:

Area

1. This conservation measure applies to the same area as Conservation Measure 22-06.

Definitions

2. The following definitions apply to this conservation measure:

(i) Those contained in paragraphs 3 and 4 in Conservation Measure 22-06 relating to ‘vulnerable marine ecosystems’ (VMEs) and ‘bottom fishing activities’.

(ii) VME indicator organism means any benthic organism listed in the Benthic Invertebrate Classification Guide ³.

(iii) ‘VME indicator unit’ means either one litre of those VME indicator organisms that can be placed in a 10-litre container; or one kilogram of those VME indicator organisms that do not fit into a 10-litre container.

(iv) ‘Line segment’ means a 1 000-hook section of line or a 1 200 m section of line, whichever is the shorter, and for pot lines a 1 200 m section.

(v) ‘Risk Area’ means an area where 10 or more VME indicator units are recovered within a single line segment. A Risk Area has a radius of 1 n mile from the midpoint ⁴ of the line segment from which the VME indicator units are recovered. However, Members may require their vessels to observe a larger Risk Area in accordance with their domestic laws.

Vessel Requirements

3. Members shall require their vessels to clearly mark fishing lines into line segments and to monitor all line segments for the number of VME indicator units.

4. Members shall require their vessels, if 10 or more VME indicator units are recovered in one line segment, to complete hauling any lines intersecting with the Risk Area without delay and not to set any further lines intersecting with the Risk Area. The vessel shall immediately communicate to the Secretariat and to its Flag State the location of the midpoint of the line segment from which those VME indicator units were recovered along with the number of VME indicator units recovered.

5. Members shall require their vessels, if five or more VME indicator units are recovered within one line segment, to immediately communicate to the Secretariat ⁵ and to their Flag State the location of the midpoint of the line segment from which those VME indicator units were recovered along with the number of VME indicator units recovered.

Management

6. On receipt of a notification under paragraph 4, the Secretariat shall:

(i) Record the location of the Risk Area;

(ii) Within one working day of receipt, notify all fishing vessels in the relevant fishery and their Flag States that the Risk Area is closed; and that, as in paragraph 4, all vessels shall immediately cease setting any further lines intersecting with the Risk Area.

7. On receipt of five notifications under paragraph 5 within a single fine-scale rectangle ⁶, the Secretariat shall, within one working day of receiving the fifth notification, notify all fishing vessels in the relevant fishery and their Flag States of the coordinates of the fine-scale rectangle, indicating that VMEs may occur within that area. Vessels may continue to fish in the area consistent with paragraphs 4 and 5.

Data

8. Vessels shall report in accordance with Conservation Measure 23-01 total benthos recovered in a 5-day period. To the extent possible, VME indicator units for each line segment and the midpoint of each line segment on all lines should be reported in the fine-scale data.

Review

9. A Risk Area shall remain closed for any fishery until reviewed by the Scientific Committee and management actions are determined by the Commission. Scientific research as agreed by the Scientific Committee shall be allowed in Risk Areas.

10. The Commission will review this conservation measure in 2009, in light of observer, vessel and other data collected during the 2008/09 season, the results of the 2009 Expert Workshop on Vulnerable Marine Ecosystems, any other relevant information, the deliberations of the Working Group on Ecosystem Monitoring and Management (WG-EMM) and the Working Group on Fish Stock Assessment (WG-FSA), and in accordance with the advice of the Scientific Committee.

¹ Except for waters adjacent to the Kerguelen and Crozet Islands.

² Except for waters adjacent to the Prince Edward Islands.

³ Available from the Secretariat.

⁴ In latitude and longitude.

⁵ This may be through the Flag State or directly to the Secretariat, whichever is the most practicable.

⁶ A fine-scale rectangle is defined as an area of 0.5° latitude by 1° longitude with respect to the northwest corner of the statistical subarea or division. The identification of each rectangle is by the latitude of its northernmost boundary and the longitude of the boundary closest to 0°.

Conservation Measure 24-01 (2008) ¹ ²

The application of conservation measures to scientific research

(Species: all; Area: all; Season: all; Gear: all)

This conservation measure governs the application of conservation measures to scientific research and is adopted in accordance with Article IX of the Convention.

1. General Application:

(a) Catches taken by any vessel for research purposes will be considered as part of any catch limits in force for each species taken unless the catch limit in an area³ is set at zero.

(b) In the event of research being undertaken in an area³ with a zero catch limit, then the catches adopted under paragraphs 2 or 3 below shall be considered to be the catch limit for the season in that area. When such an area sits within a group of areas to which an overall catch limit applies, that overall catch limit shall not be exceeded including any catch taken for research purposes.

2. Application to Members taking less than 50 tonnes of finfish in a season including no more than the amounts specified for finfish taxa in Annex 24-01/B and less than 0.1% of a given catch limit for non-finfish taxa indicated in Annex 24-01/B:

(a) Any Member planning to use a vessel or vessels for research purposes when the estimated seasonal catch is as above shall notify the Secretariat of the Commission which in turn will notify all Members immediately, according to the format provided in Annex 24-01/A.

(b) Vessels to which the provisions of paragraph 2(a) above apply, shall be exempt from conservation measures relating to mesh size regulations, prohibition of types of gear, closed areas, fishing seasons and size limits, and reporting system requirements other than those specified in paragraph 4 below.

3. Application to Members taking more than 50 tonnes of finfish or more than the amounts specified for finfish taxa in Annex 24-01/B or more than 0.1% of a given catch limit for non-finfish taxa indicated in Annex 24-01/B:

(a) Any Member planning to use any type of vessel or vessels to conduct fishing for research purposes when the estimated seasonal catch is as above, shall notify the Commission and provide the opportunity for other Members to review and comment on its Research Plan. The plan shall be provided to the Secretariat for distribution to Members at least six months in advance of the planned starting date for the research. In the event of any request for a review of such plan being lodged within two months of its circulation, the Executive Secretary shall notify all Members and submit the plan to the Scientific Committee for review. Based on the submitted Research Plan and any advice provided by the appropriate working group, the Scientific Committee will provide advice to the Commission where the review process will be concluded. Until the review process is complete, the planned fishing for research purposes shall not proceed.

(b) Research Plans shall be reported in accordance with the standardised guidelines and formats adopted by the Scientific Committee, given in Annex 24-01/A.

4. Reporting requirements for these research activities are:

(a) The CCAMLR within-season five-day reporting system shall apply.

(b) All research catches shall be reported to CCAMLR as part of the annual STATLANT returns.

(c) A summary of the results of any research subject to the above provisions shall be provided to the Secretariat within 180 days of the completion of the research fishing. Members shall provide a full report to the Scientific Committee within 12 months for review and comment.

(d) Catch, effort and biological data resulting from research fishing should be reported to the Secretariat according to the haul-by-haul reporting format for research vessels (C4).

5. Other requirements for these research activities are:

(a) All vessels conducting research fishing under the research exemption, during a voyage that invokes any commercial fishing, shall be linked to an automated satellite-linked vessel monitoring system in accordance with Conservation Measure 10-04.

¹ Except for waters adjacent to the Kerguelen and Crozet Islands.

² Except for waters adjacent to the Prince Edward Islands.

³ Any management area including subarea, division or SSRU, whichever is designated as a zero catch limit.

Annex 24-01/A

Formats for Notification of Research Vessel Activity

[this annex is unchanged]

Annex 24-01/B

Taxa-Specific Schedule for Notification of Research Vessel Activity

Taxon | Gear type | Expected catch (tonnes)
(a) Thresholds for finfish taxa
Dissostichus spp.
| Longline | 5
| Trawl | 5
| Pot | 5
| Other | 0
Champsocephalus gunnari | All | 10
(b) Non-finfish taxa for which a catch threshold of 0.1% of the catch limit for a given area would apply
Krill |  |
Squid |  |
Crabs |  |

Conservation Measure 24-02 (2008)

Longline weighting for seabird conservation.

(Species: seabirds; Area: selected; Season: all; Gear: longline)

In respect of fisheries in Statistical Subareas 48.4, 48.6, 88.1 and 88.2 and Statistical Divisions 58.4.1, 58.4.2, 58.4.3a, 58.4.3b and 58.5.2, paragraph 5 of Conservation Measure 25-02 shall not apply only where a vessel can demonstrate its ability to fully comply with one of the following protocols.

Protocol A (for vessels monitoring longline sink rate with Time-Depth Recorders (TDRs) and using longlines to which weights are manually attached):

A1. Prior to entry into force of the licence for this fishery and once per fishing season, either prior to entering the Convention Area or at the first opportunity after entering the Convention Area and before commencing fishing, the vessel shall, under observation by a scientific observer:

(i) Set a minimum of two longlines, unbaited if set in the Convention Area, with a minimum of four TDRs on the middle one-third of each longline, where:

(a) For vessels using the auto longline system, each longline shall be at least 6 000 m in length;

(b) For vessels using the Spanish longline system, each longline shall be at least 16 000 m in length;

(c) For vessels using the Spanish longline system, with longlines less than 16 000 m in length, each longline shall be of the maximum length to be used by the vessel in the Convention Area;

(d) For vessels using a longline system other than an autoline or Spanish longline system, each longline shall be of the maximum length to be used by the vessel in the Convention Area;

(ii) Randomise TDR placement on the longline, noting that, except for trotlines, all tests should be applied midway between weights. In the case of trotlines TDRs should be placed on droppers less than 1 m from the attachment position of the uppermost cluster of hooks (i.e., hooks most distant from line weight);

(iii) Calculate an individual sink rate for each TDR when returned to the vessel, where:

(a) The sink rate shall be measured as an average of the time taken for the longline to sink from the surface (0 m) to 15 m;

(b) This sink rate shall be at a minimum rate of 0.3 m/s;

(iv) If the minimum sink rate is not achieved at all eight sample points (four tests on two longlines), continue the testing until such time as a total of eight tests with a minimum sink rate of 0.3 m/s are recorded;

(v) All equipment and fishing gear used in the tests is to be to the same specifications as that to be used in the Convention Area.

A2. During fishing, for a vessel to be allowed to maintain the exemption to night-time setting requirements (paragraph 5 of Conservation Measure 25-02), regular longline sink monitoring shall be undertaken by the CCAMLR scientific observer. The vessel shall cooperate with the CCAMLR observer who shall:

(i) Attempt to conduct a TDR test on one longline set every twenty-four hour period;

(ii) Every seven days place at least four TDRs on a single longline to determine any sink rate variation along the longline;

(iii) Randomise TDR placement on the longline, noting that all tests should be applied halfway between weights;

(iv) Calculate an individual longline sink rate for each TDR when returned to the vessel;

(v) Measure the longline sink rate as an average of the time taken for the longline to sink from the surface (0 m) to 15 m.

A3. The vessel shall:

(i) Ensure that all longlines are weighted to achieve a minimum longline sink rate of 0.3 m/s at all times whilst operating under this exemption;

(ii) Report daily to its national agency on the achievement of this target whilst operating under this exemption;

(iii) Ensure that data collected from longline sink rate tests and longline sink rate monitoring during fishing are recorded in the CCAMLR-approved format ¹ and submitted to the relevant national agency and CCAMLR Data Manager within two months of the vessel departing a fishery to which this measure applies.

Protocol B (for vessels monitoring longline sink rate with bottle tests and using longlines to which weights are manually attached):

B1. Prior to entry into force of the licence for this fishery and once per fishing season either prior to entering the Convention Area or at the first opportunity after entering the Convention Area and before commencing fishing, the vessel shall, under observation by a scientific observer:

(i) Set a minimum of two longlines, unbaited if set in the Convention Area, with a minimum of four bottle tests (see paragraphs B5 to B9) on the middle one-third of each longline, where:

(a) For vessels using the auto longline system, each longline shall be at least 6 000 m in length;

(b) For vessels using the Spanish longline system, each longline shall be at least 16 000 m in length;

(c) For vessels using the Spanish longline system, with longlines less than 16 000 m in length, each longline shall be of the maximum length to be used by the vessel in the Convention Area;

(d) For vessels using a longline system other than an autoline or Spanish longline system, each longline shall be of the maximum length to be used by the vessel in the Convention Area;

(ii) Randomise bottle test placement on the longline, noting that, except for trotlines, all tests should be applied midway between weights. In the case of trotlines TDRs should be placed on droppers less than 1 m from the attachment position of the uppermost cluster of hooks (i.e., hooks most distant from line weight);

(iii) Calculate an individual sink rate for each bottle test at the time of the test, where:

(a) The sink rate shall be measured as the time taken for the longline to sink from the surface (0 m) to 10 m;

(b) This sink rate shall be at a minimum rate of 0.3 m/s;

(iv) If the minimum sink rate is not achieved at all eight sample points (four tests on two longlines), continue the testing until such time as a total of eight tests with a minimum sink rate of 0.3 m/s are recorded;

(v) All equipment and fishing gear used in the tests is to be to the same specifications as that to be used in the Convention Area.

B2. During fishing, for a vessel to be allowed to maintain the exemption to night-time setting requirements (paragraph 5 of Conservation Measure 25-02), regular longline sink rate monitoring shall be undertaken by the CCAMLR scientific observer. The vessel shall cooperate with the CCAMLR observer who shall:

(i) Attempt to conduct a bottle test on one longline set every twenty-four hour period;

(ii) Every seven days conduct at least four bottle tests on a single longline to determine any sink rate variation along the longline;

(iii) Randomise bottle test placement on the longline, noting that all tests should be applied halfway between weights;

(iv) Calculate an individual longline sink rate for each bottle test at the time of the test;

(v) Measure the longline sink rate as the time taken for the longline to sink from the surface (0 m) to 10 m.

B3. The vessel shall:

(i) Ensure that all longlines are weighted to achieve a minimum longline sink rate of 0.3 m/s at all times whilst operating under this exemption;

(ii) Report daily to its national agency on the achievement of this target whilst operating under this exemption;

(iii) Ensure that data collected from longline sink rate tests and longline sink rate monitoring during fishing are recorded in the CCAMLR-approved format ¹ and submitted to the relevant national agency and CCAMLR Data Manager within two months of the vessel departing a fishery to which this measure applies.

B4. A bottle test is to be conducted as described below.

Bottle Set Up

B5. 10 m of 2 mm multifilament nylon snood twine, or equivalent, is securely attached to the neck of a 500-1 000 ml plastic bottle ² with a longline clip attached to the other end. The length measurement is taken from the attachment point (terminal end of the clip) to the neck of the bottle, and should be checked by the observer every few days.

B6. Reflective tape should be wrapped around the bottle to allow it to be observed in low light conditions and at night.

Test

B7. The bottle is emptied of water, the stopper is left open and the twine is wrapped around the body of the bottle for setting. The bottle with the encircled twine is attached to the longline,³ midway between weights (the attachment point).

B8. The observer records the time at which the attachment point enters the water as t1 in seconds. The time at which the bottle is observed to be pulled completely under is recorded as t2 in seconds.⁴ The result of the test is calculated as follows:

Longline sink rate = 10 / (t2 − t1).

B9. The result should be equal to or greater than 0.3 m/s. These data are to be recorded in the space provided in the electronic observer logbook.

Protocol C (for vessels monitoring longline sink rate with either (TDR) or bottle tests, and using internally weighted longlines with integrated weight of at least 50 g/m and designed to sink instantly with a linear profile at greater than 0.2 m/s with no external weights attached):

C1. Prior to entry into force of the licence for this fishery and once per fishing season either prior to entering the Convention Area or at the first opportunity after entering the Convention Area and before commencing fishing, the vessel shall, under observation by a scientific observer:

(i) Set a minimum of two longlines, unbaited if set in the Convention Area, with either a minimum of four TDRs, or a minimum of four bottle tests (see paragraphs B5 to B9) on the middle one-third of each longline, where:

(a) For vessels using the auto longline system, each longline shall be at least 6 000 m in length;

(b) For vessels using the Spanish longline system, each longline shall be at least 16 000 m in length;

(c) For vessels using the Spanish longline system, with longlines less than 16 000 m in length, each longline shall be of the maximum length to be used by the vessel in the Convention Area;

(d) For vessels using a longline system other than an autoline or Spanish longline system, each longline shall be of the maximum length to be used by the vessel in the Convention Area;

(ii) Randomise TDR or bottle test placement on the longline;

(iii) Calculate an individual sink rate for each TDR when returned to the vessel, or for each bottle test at the time of the test, where:

(a) The sink rate shall be measured as an average of the time taken for the longline to sink from the surface (0 m) to 15 m for TDRs and the time taken for the longline to sink from the surface (0 m) to 10 m for bottle tests;

(b) This sink rate shall be at a minimum rate of 0.2 m/s;

(iv) If the minimum sink rate is not achieved at all eight sample points (four tests on two longlines), continue the testing until such time as a total of eight tests with a minimum sink rate of 0.2 m/s are recorded;

(v) All equipment and fishing gear used in the tests is to be to the same specifications as that to be used in the Convention Area.

C2. During fishing, for a vessel to be allowed to maintain the exemption to night-time setting requirements (paragraph 5 of Conservation Measure 25-02), regular longline sink rate monitoring shall be undertaken by the CCAMLR scientific observer. The vessel shall cooperate with the CCAMLR observer who shall:

(i) Attempt to conduct a TDR or bottle test on one longline set every twenty-four hour period;

(ii) Every seven days conduct at least four TDR or bottle tests on a single longline to determine any sink rate variation along the longline;

(iii) Randomise TDR or bottle test placement on the longline;

(iv) Calculate an individual longline sink rate for each TDR when returned to the vessel or each bottle test at the time of the test;

(v) Measure the longline sink rate for bottle tests as the time taken for the longline to sink from the surface (0 m) to 10 m, or for TDRs the average of the time taken for the longline to sink from the surface (0 m) to 15 m.

C3. The vessel shall:

(i) Ensure that all longlines are set so as to achieve a minimum longline sink rate of 0.2 m/s at all times whilst operating under this exemption;

(ii) Report daily to its national agency on the achievement of this target whilst operating under this exemption;

(iii) Ensure that data collected from longline sink rate tests and longline sink rate monitoring during fishing are recorded in the CCAMLR-approved format ¹ and submitted to the relevant national agency and CCAMLR Data Manager within two months of the vessel departing a fishery to which this measure applies.

¹ Included in the scientific observer electronic logbook.

² A plastic water bottle that has a `stopper' is needed. The stopper of the bottle is left open so that the bottle will fill with water after being pulled under water. This allows the plastic bottle to be re-used rather than being crushed by water pressure.

³ On autolines attach to the backbone; on the Spanish longline system attach to the hookline.

⁴ Binoculars will make this process easier to view, especially in foul weather.

Conservation Measure 25-02 (2008) ¹ ²

Minimisation of the incidental mortality of seabirds in the course of longline fishing or longline fishing research in the Convention Area.

(Species: seabirds; Area: all; Season: all; Gear: longline)

The Commission,

Noting the need to reduce the incidental mortality of seabirds during longline fishing by minimising their attraction to fishing vessels and by preventing them from attempting to seize baited hooks, particularly during the period when the lines are set,

Recognising that in certain subareas and divisions of the Convention Area there is also a high risk that seabirds will be caught during line hauling,

Adopts the following measures to reduce the possibility of incidental mortality of seabirds during longline fishing.

1. Fishing operations shall be conducted in such a way that hooklines ³ sink beyond the reach of seabirds as soon as possible after they are put in the water.

2. Vessels using autoline systems should add weights to the hookline or use integrated weight (IW) hooklines while deploying longlines. IW longlines of a minimum of 50 g/m or attachment to non-IW longlines of 5 kg weights at 50 to 60 m intervals are recommended.

3. Vessels using the Spanish method of longline fishing should release weights before line tension occurs; traditional weights ⁴ of at least 8.5 kg mass shall be used, spaced at intervals of no more than 40 m, or traditional weights ⁴ of at least 6 kg mass shall be used, spaced at intervals of no more than 20 m, or solid steel weights ⁵ of at least 5 kg mass shall be used, spaced at intervals of no more than 40 m.

4. Vessels using the trotline system exclusively (not a mix of trotlines and the Spanish system within the same longline) shall deploy weights only at the distal end of the droppers in the trotline. Weights shall be traditional weights of at least 6 kg or solid steel weights of at least 5 kg. Vessels alternating between the use of the Spanish system and trotline method shall use: (i) For the Spanish system: line weighting shall conform to the provisions in paragraph 3; (ii) for the trotline method: line weighting shall be either 8.5 kg traditional weights or 5 kg steel weights attached on the hook-end of all droppers in the trotline at no more than 80 m intervals. ⁶

5. Longlines shall be set at night only (i.e. during the hours of darkness between the times of nautical twilight ⁷) ⁸. During longline fishing at night, only the minimum ship's lights necessary for safety shall be used.

6. The dumping of offal is prohibited while longlines are being set. The dumping of offal during the haul shall be avoided. Any such discharge shall take place only on the opposite side of the vessel to that where longlines are hauled. For vessels or fisheries where there is not a requirement to retain offal on board the vessel, a system shall be implemented to remove fish hooks from offal and fish heads prior to discharge.

7. Vessels which are so configured that they lack on-board processing facilities or adequate capacity to retain offal on board, or the ability to discharge offal on the opposite side of the vessel to that where longlines are hauled, shall not be authorised to fish in the Convention Area.

8. A streamer line shall be deployed during longline setting to deter birds from approaching the hookline. Specifications of the streamer line and its method of deployment are given in Annex 25-02/A.

9. A device designed to discourage birds from accessing baits during the haul of longlines shall be employed in those areas defined by CCAMLR as average-to-high or high (Level of Risk 4 or 5) in terms of risk of seabird by-catch. These areas are currently Statistical Subareas 48.3, 58.6 and 58.7 and Statistical Divisions 58.5.1 and 58.5.2.

10. Every effort should be made to ensure that birds captured alive during longlining are released alive and that wherever possible hooks are removed without jeopardising the life of the bird concerned.

11. Other variations in the design of mitigation measures may be tested on vessels carrying two observers, at least one appointed in accordance with the CCAMLR Scheme of International Scientific Observation, providing that all other elements of this conservation measure are complied with.⁹ Full proposals for any such testing must be notified to the Working Group on Fish Stock Assessment (WG-FSA) in advance of the fishing season in which the trials are proposed to be conducted.

¹ Except for waters adjacent to the Kerguelen and Crozet Islands.

² Except for waters adjacent to the Prince Edward Islands.

³ Hookline is defined as the groundline or mainline to which the baited hooks are attached by snoods.

⁴ Traditional weights are those made from rocks or concrete.

⁵ Solid steel weights shall not be made from chain links. They should be made in a hydrodynamic shape designed to sink rapidly.

⁶ Recognising that Spanish system longlines with weights at 40 m intervals are typically configured with lines at 80 m intervals that connect hauling and hook lines (see diagram Annex 25-02/B). These connecting lines form the dropper lines of the trotline method.

⁷ The exact times of nautical twilight are set forth in the Nautical Almanac tables for the relevant latitude, local time and date. A copy of the algorithm for calculating these times is available from the CCAMLR Secretariat. All times, whether for ship operations or observer reporting, shall be referenced to GMT.

⁸ Wherever possible, setting of lines should be completed at least three hours before sunrise (to reduce loss of bait to/catches of white-chinned petrels).

⁹ The mitigation measures under test should be constructed and operated taking full account of the principles set out in WG-FSA-03/22 (the published version of which is available from the CCAMLR Secretariat and Web site); testing should be carried out independently of actual commercial fishing and in a manner consistent with the spirit of Conservation Measure 21-02.

Annex 25-02/A

1. The aerial extent of the streamer line, which is the part of the line supporting the streamers, is the effective seabird deterrent component of a streamer line. Vessels are encouraged to optimise the aerial extent and ensure that it protects the hookline as far astern of the vessel as possible, even in crosswinds.

2. The streamer line shall be attached to the vessel such that it is suspended from a point a minimum of 7 m above the water at the stern on the windward side of the point where the hookline enters the water.

3. The streamer line shall be a minimum of 150 m in length and include an object towed at the seaward end to create tension to maximise aerial coverage. The object towed should be maintained directly behind the attachment point to the vessel such that in crosswinds the aerial extent of the streamer line is over the hookline.

4. Branched streamers, each comprising two strands of a minimum of 3 mm diameter brightly coloured plastic tubing ¹ or cord, shall be attached no more than 5 m apart commencing 5 m from the point of attachment of the streamer line to the vessel and thereafter along the aerial extent of the line. Streamer length shall range between minimums of 6.5 m from the stern to 1 m for the seaward end. When a streamer line is fully deployed, the branched streamers should reach the sea surface in the absence of wind and swell. Swivels or a similar device should be placed in the streamer line in such a way as to prevent streamers being twisted around the streamer line. Each branched streamer may also have a swivel or other device at its attachment point to the streamer line to prevent fouling of individual streamers.

5. Vessels are encouraged to deploy a second streamer line such that streamer lines are towed from the point of attachment each side of the hookline. The leeward streamer line should be of similar specifications (in order to avoid entanglement the leeward streamer line may need to be shorter) and deployed from the leeward side of the hookline.

¹ Plastic tubing should be of a type that is manufactured to be protected from ultraviolet radiation.

Conservation Measure 26-01 (2008) ¹ ²

General environmental protection during fishing

(Species: All; Area: All; Season: All; Gear: All)

The Commission,

Concerned that certain activities associated with fishing may affect the Antarctic marine environment and that these activities have played a notable role in CCAMLR's efforts to minimise incidental mortality of non-target species such as seabirds and seals,

Noting that previous CCAMLR recommendations, and the provisions of the MARPOL 73/78 Convention and its Annexes, prohibit the disposal of all plastics at sea, in the CAMLR Convention Area,

Noting various provisions of the Protocol on Environmental Protection to the Antarctic Treaty in particular its Annexes as well as related Recommendations and Measures of the Antarctic Treaty Consultative Meetings,

Recollecting that for many years advice from the Scientific Committee has indicated that significant numbers of Antarctic fur seals have been entangled and killed in plastic packaging bands in the Convention Area,

Noting the recommendations of CCAMLR and the provisions of the MARPOL Convention and its Annexes which prohibit the jettisoning of all plastics at sea and that entanglement of fur seals is still continuing,

Recognising that the bait boxes used on fishing vessels in particular and other packages in general need not be secured by plastic packaging bands because suitable alternatives exist,

Adopts the following conservation measure to minimise possible effects on the marine environment arising from fishing-related activities in the context of mitigating incidental mortality of non-target species and protecting the marine environment in accordance with Article IX of the Convention.

Disposal of Plastic Packaging Bands

1. The use on fishing vessels of plastic packaging bands to secure bait boxes shall be prohibited.

2. The use of other plastic packaging bands for other purposes on fishing vessels which do not use on-board incinerators (closed systems) shall be prohibited.

3. Any packaging bands, once removed from packages, shall be cut into approximately 30 cm sections, so that they do not form a continuous loop and at the earliest opportunity burned in the on-board incinerator.

4. Any plastic residue shall be stored on board the vessel until reaching port and in no case discarded at sea.

Prohibition of Discharge in High-Latitude Fisheries

5. Vessels fishing south of 60 ° S shall be prohibited from dumping or discharging:

(i) Oil or fuel products or oily residues into the sea, except as permitted under Annex I of MARPOL 73/78;

(ii) Garbage;

(iii) Food wastes not capable of passing through a screen with openings no greater than 25 mm;

(iv) Poultry or parts (including egg shells);

(v) Sewage within 12 n miles of land or ice shelves, or sewage while the ship is travelling at a speed of less than 4 knots;

(vi) Offal; or

(vii) Incineration ash.

Translocation of Poultry

6. Live poultry or other living birds shall not be brought into areas south of 60° S, and any dressed poultry not consumed shall be removed from those areas.

¹ Except for waters adjacent to the Kerguelen and Crozet Islands

² Except for waters adjacent to the Prince Edward Islands.

Conservation Measure 32-09 (2008)

Prohibition of directed fishing for Dissostichus spp. except in accordance with specific conservation measures in the 2008/09 season

(Species: Toothfish; Area: 48.5; Season: 2008/09; Gear: All)

The Commission hereby adopts the following conservation measure in accordance with Article IX of the Convention:

Directed fishing for Dissostichus spp. in Statistical Subarea 48.5 is prohibited from 1 December 2008 to 30 November 2009.

Conservation Measure 33-02 (2008)

Limitation of by-catch in Statistical Division 58.5.2 in the 2008/09 season

(Species: By-catch; Area: 58.5.2; Season: 2008/09; Gear: All)

1. There shall be no directed fishing for any species other than Dissostichus eleginoides and Champsocephalus gunnari in Statistical Division 58.5.2 in the 2008/09 fishing season.

2. In directed fisheries in Statistical Division 58.5.2 in the 2008/09 season, the by-catch of Channichthys rhinoceratus shall not exceed 150 tonnes, the by-catch of Lepidonotothen squamifrons shall not exceed 80 tonnes, the by-catch of Macrourus spp. shall not exceed 360 tonnes and the by-catch of skates and rays shall not exceed 120 tonnes. For the purposes of this measure, ‘Macrourus spp.’ and ‘skates and rays’ should each be counted as a single species.

3. The by-catch of any fish species not mentioned in paragraph 2, and for which there is no other catch limit in force, shall not exceed 50 tonnes in Statistical Division 58.5.2.

4. If, in the course of a directed fishery, the by-catch in any one haul of Channichthys rhinoceratus, Lepidonotothen squamifrons, Macrourus spp., Somniosus spp. or skates and rays is equal to, or greater than 2 tonnes, then the fishing vessel shall not fish using that method of fishing at any point within 5 n miles ¹ of the location where the by-catch exceeded 2 tonnes for a period of at least five days.² The location where the by-catch exceeded 2 tonnes is defined as the path ³ followed by the fishing vessel.

5. If, in the course of a directed fishery, the by-catch in any one haul of any other by-catch species for which by-catch limitations apply under this conservation measure is equal to, or greater than 1 tonne, then the fishing vessel shall not fish using that method of fishing at any point within 5 n miles ¹ of the location where the by-catch exceeded 1 tonne for a period of at least five days.² The location where the by-catch exceeded 1 tonne is defined as the path ³ followed by the fishing vessel.

¹ This provision concerning the minimum distance separating fishing locations is adopted pending the adoption of a more appropriate definition of a fishing location by the Commission.

² The specified period is adopted in accordance with the reporting period specified in Conservation Measure 23-01, pending the adoption of a more appropriate period by the Commission.

³ For a trawl the path is defined from the point at which the fishing gear was first deployed from the fishing vessel to the point at which the fishing gear was retrieved by the fishing vessel. For a longline or a pot, the path is defined from the point at which the first anchor of a set was deployed to the point at which the last anchor of that set was deployed.

Conservation Measure 33-03 (2008) ¹ ²

Limitation of by-catch in new and exploratory fisheries in the 2008/09 season

(Species: By-catch; Area: Various; Season: 2008/09; Gear: All)

1. This conservation measure applies to new and exploratory fisheries in all areas containing small-scale research units (SSRUs) in the 2008/09 season, except where specific by-catch limits apply.

2. The catch limits for all by-catch species are set out in Annex 33-03/A. Within these catch limits, the total catch ³ of by-catch species in any SSRU or combination of SSRUs as defined in relevant conservation measures shall not exceed the following limits:

• Skates and rays 5% of the catch limit of Dissostichus spp. or 50 tonnes whichever is greater;

• Macrourus spp. 16% of the catch limit for Dissostichus spp. or 20 tonnes, whichever is greater;

• All other species combined 20 tonnes.

3. For the purposes of this measure ‘Macrourus spp.' and ‘skates and rays' should each be counted as a single species.

4. Unless otherwise requested by scientific observers, vessels, where possible, should release skates and rays alive from the line by cutting snoods, and when practical, removing the hooks.

5. If the by-catch of any one species is equal to or greater than 1 tonne in any one haul or set, then the fishing vessel shall move to another location at least 5 n miles ⁴ distant. The fishing vessel shall not return to any point within 5 n miles of the location where the by-catch exceeded 1 tonne for a period of at least five days.⁵ The location where the by-catch exceeded 1 tonne is defined as the path ⁶ followed by the fishing vessel.

6. If the catch of Macrourus spp. taken by a single vessel in any two 10-day periods ⁷ in a single SSRU exceeds 1 500 kg in each 10-day period and exceeds 16% of the catch of Dissostichus spp. by that vessel in that SSRU in those periods, the vessel shall cease fishing in that SSRU for the remainder of the season.

¹ Except for waters adjacent to the Kerguelen and Crozet Islands.

² Except for waters adjacent to the Prince Edward Islands.

³ Total green weight caught, excluding individuals released alive.

⁴ This provision concerning the minimum distance separating fishing locations is adopted pending the adoption of a more appropriate definition of a fishing location by the Commission.

⁵ The specified period is adopted in accordance with the reporting period specified in Conservation Measure 23-01, pending the adoption of a more appropriate period by the Commission.

⁶ For a trawl the path is defined from the point at which the fishing gear was first deployed from the fishing vessel to the point at which the fishing gear was retrieved by the fishing vessel. For a longline the path is defined from the point at which the first anchor of a set was deployed to the point at which the last anchor of that set was deployed.

⁷ A 10-day period is defined as day 1 to day 10, day 11 to day 20, or day 21 to the last day of the month.

Annex 33-03/A

Table 1—By-Catch Catch Limits for New and Exploratory Fisheries in 2008/09
Subarea/ division | Region | Dissostichus spp. catch limit (tonnes per region) | By-catch catch limit: Skates and rays (tonnes per region) | By-catch catch limit: Macrourus spp. (tonnes per region) | By-catch catch limit: Other species (tonnes per SSRU)
48.6 | North of 60 ° S | 200 | 50 | 32 | 20
| South of 60 ° S | 200 | 50 | 32 | 20
58.4.1 | Whole division | 210 | 50 | 33 | 20
58.4.2 | Whole division | 70 | 50 | 20 | 20
58.4.3a | Whole division | 86 | 50 | 26 | 20
58.4.3b | North of 60 ° S | 120 | 50 | 80 | 20
88.1 | Whole subarea | 2700 | 135 | 430 | 20
88.2 | South of 65 ° S | 567 | 50 | 90 | 20
Region: As defined in column 2 of this table.
Rules for catch limits for by-catch species:
Skates and rays: 5% of the catch limit for Dissostichus spp. or 50 tonnes, whichever is greatest (SC-CAMLR-XXI, paragraph 5.76).
Macrourus spp.: 16% of the catch limit for Dissostichus spp. or 20 tonnes whichever is greatest, except in Statistical Divisions 58.4.3a and 58.4.3b (SC-CAMLR-XXII, paragraph 4.207), and Statistical Subarea 88.1 (SC-CAMLR-XXVII, paragraph 4.162).
Other species: 20 tonnes per SSRU.

Conservation Measure 41-01 (2008) ¹ ²

General measures for exploratory fisheries for Dissostichus spp. in the Convention Area in the 2008/09 season

(Species: toothfish; Area: various; Season: 2008/09; Gear: longline, trawl)

The Commission hereby adopts the following conservation measure:

1. This conservation measure applies to exploratory fisheries using the trawl or longline methods except for such fisheries where the Commission has given specific exemptions to the extent of those exemptions. In trawl fisheries, a haul comprises a single deployment of the trawl net. In longline fisheries, a haul comprises the setting of one or more lines in a single location.

2. Fishing should take place over as large a geographical and bathymetric range as possible to obtain the information necessary to determine fishery potential and to avoid over-concentration of catch and effort. To this end, fishing in any small-scale research unit (SSRU) shall cease when the reported catch reaches the specified catch limit ³ and that SSRU shall be closed to fishing for the remainder of the season.

3. In order to give effect to paragraph 2 above:

(i) The precise geographic position of a haul in trawl fisheries will be determined by the midpoint of the path between the start point and end point of the haul for the purposes of catch and effort reporting;

(ii) The precise geographic position of a haul/set in longline fisheries will be determined by the centre point of the line or lines deployed for the purposes of catch and effort reporting;

(iii) The vessel will be deemed to be fishing in any SSRU from the beginning of the setting process until the completion of the hauling of all lines;

(iv) Catch and effort information for each species by SSRU shall be reported to the Executive Secretary every five days using the Five-day Catch and Effort Reporting System set out in Conservation Measure 23-01;

(v) The Secretariat shall notify Contracting Parties participating in these fisheries when the total catch for Dissostichus eleginoides and Dissostichus mawsoni combined in any SSRU is likely to reach the specified catch limit, and of the closure of that SSRU when that limit is reached.⁴ No part of a trawl path may lie within a closed SSRU and no part of a longline may be set within a closed SSRU.

4. The by-catch in each exploratory fishery shall be regulated as in Conservation Measure 33-03.

5. The total number and weight of Dissostichus eleginoides and Dissostichus mawsoni discarded, including those with the ‘jellymeat’ condition, shall be reported.

6. Each vessel participating in the exploratory fisheries for Dissostichus spp. during the 2008/09 season shall have one scientific observer appointed in accordance with the CCAMLR Scheme of International Scientific Observation, and where possible one additional scientific observer, on board throughout all fishing activities within the fishing season.

7. The Data Collection Plan (Annex 41-01/A), Research Plan (Annex 41-01/B) and Tagging Program (Annex 41-01/C) shall be implemented. Data collected pursuant to the Data Collection and Research Plans for the period up to 31 August 2009 shall be reported to CCAMLR by 30 September 2009 so that the data will be available to the meeting of the Working Group on Fish Stock Assessment (WG-FSA) in 2009. Such data taken after 31 August 2009 shall be reported to CCAMLR not later than three months after the closure of the fishery, but, where possible, submitted in time for the consideration of WG-FSA.

8. Members who choose not to participate in the fishery prior to the commencement of the fishery shall inform the Secretariat of changes in their plans no later than one month before the start of the fishery. If, for whatever reason, Members are unable to participate in the fishery, they shall inform the Secretariat no later than one week after finding that they cannot participate. The Secretariat will inform all Contracting Parties immediately after such notification is received.

¹ Except for waters adjacent to the Kerguelen and Crozet Islands.

² Except for waters adjacent to the Prince Edward Islands.

³ Unless otherwise specified, the catch limit for Dissostichus spp. shall be 100 tonnes in any SSRU except in respect of Statistical Subarea 88.2.

⁴ The closure of fisheries is governed by Conservation Measure 31-02.

Annex 41-01/A

Data Collection Plan for Exploratory Fisheries

1. All vessels will comply with the Five-day Catch and Effort Reporting System (Conservation Measure 23-01) and Monthly Fine-scale Catch, Effort and Biological Data Reporting Systems (Conservation Measures 23-04 and 23-05).

2. All data required by the CCAMLR Scientific Observers Manual for finfish fisheries will be collected. These include:

(i) Position, date and depth at the start and end of every haul;

(ii) Haul-by-haul catch and catch per effort by species;

(iii) Haul-by-haul length frequency of common species;

(iv) Sex and gonad state of common species;

(v) Diet and stomach fullness;

(vi) Scales and/or otoliths for age determination;

(vii) Number and mass by species of by-catch of fish and other organisms;

(viii) Observation on occurrence and incidental mortality of seabirds and mammals in relation to fishing operations.

3. Data specific to longline fisheries will be collected. These include:

(i) Position and sea depth at each end of every line in a haul;

(ii) Setting, soak and hauling times;

(iii) Number and species of fish lost at surface;

(iv) Number of hooks set;

(v) Bait type;

(vi) Baiting success (%);

(vii) Hook type.

Annex 41-01/B

Research Plan for Exploratory Fisheries

1. Activities under this Research Plan shall not be exempted from any conservation measure in force.

2. This plan applies to all small-scale research units (SSRUs) as defined in Table 1 and Figure 1.

3. Except when fishing in Statistical Subareas 88.1 and 88.2 (see paragraph 5), any vessel undertaking prospecting or commercial fishing in any SSRU must undertake the following research activities:

(i) On first entry into an SSRU, the first 10 hauls, whether by trawl or longline, shall be designated `research hauls' and must satisfy the criteria set out in paragraph 4. Research hauls shall be carried out on, or close to, positions provided by the CCAMLR Secretariat,¹ based on a stratified random design in prescribed areas within that SSRU.

(ii) On completion of 10 research hauls the vessel may continue to fish within the SSRU.

4. To be designated as a research haul:

(i) Each research haul must be separated by not less than 5 n miles from any other research haul, distance to be measured from the geographical midpoint of each research haul;

(ii) Each haul shall comprise: for longlines, at least 3 500 hooks and no more than 5 000 hooks; this may comprise a number of separate lines set in the same location; for trawls, at least 30 minutes effective fishing time as defined in the Draft Manual for Bottom Trawl Surveys in the Convention Area (SC-CAMLR-XI, Annex 5, Appendix H, Attachment E, paragraph 4);

(iii) Each haul of a longline shall have a soak time of not less than six hours, measured from the time of completion of the setting process to the beginning of the hauling process.

5. In the exploratory fisheries in Statistical Subareas 88.1 and 88.2, all data specified in the Data Collection Plan (Annex 41-01/A) of this conservation measure shall be collected for every haul; all fish of each Dissostichus species in a haul (up to a maximum of 35 fish) are to be measured and randomly sampled for biological studies (paragraphs 2(iv) to (vi) of Annex 41-01/A).

6. In all other exploratory fisheries, all data specified in the Data Collection Plan (Annex 41-01/A) of this conservation measure shall be collected for every research haul; in particular, all fish in a research haul up to 100 fish are to be measured and at least 30 fish sampled for biological studies (paragraphs 2(iv) to (vi) of Annex 41-01/A). Where more than 100 fish are caught, a method for randomly subsampling the fish should be applied.

¹ The Secretariat will generate a list of random stations for each vessel participating in exploratory fisheries. These lists will be provided to notifying Members prior to the start of the fishing season (SC-CAMLR-XXVII, paragraphs 4.113 and 4.114).

Table 1—Description of Small-Scale Research Units (SSRUs)
[See also Figure 1]
Region | SSRU | Boundary line
48.6 | A | From 50° S 20° W, due east to 1° 30′E, due south to 60° S, due west to 20° W, due north to 50° S.
| B | From 60° S 20° W, due east to 10° W, due south to coast, westward along coast to 20° W, due north to 60° S.
| C | From 60° S 10° W, due east to 0° longitude, due south to coast, westward along coast to 10° W, due north to 60° S.
| D | From 60° S 0° longitude, due east to 10° E, due south to coast, westward along coast to 0° longitude, due north to 60° S.
| E | From 60° S 10° E, due east to 20° E, due south to coast, westward along coast to 10° E, due north to 60° S.
| F | From 60° S 20° E, due east to 30° E, due south to coast, westward along coast to 20° E, due north to 60° S.
| G | From 50° S 1° 30′E, due east to 30° E, due south to 60° S, due west to 1° 30′E, due north to 50° S.
58.4.1 | A | From 55° S 86° E, due east to 150° E, due south to 60° S, due west to 86° E, due north to 55° S.
| B | From 60° S 86° E, due east to 90° E, due south to coast, westward along coast to 80° E, due north to 64° S, due east to 86° E, due north to 60° S.
| C | From 60° S 90° E, due east to 100° E, due south to coast, westward along coast to 90° E, due north to 60° S.
| D | From 60° S 100° E, due east to 110° E, due south to coast, westward along coast to 100° E, due north to 60° S.
| E | From 60° S 110° E, due east to 120° E, due south to coast, westward along coast to 110° E, due north to 60° S.
| F | From 60° S 120° E, due east to 130° E, due south to coast, westward along coast to 120° E, due north to 60° S.
| G | From 60° S 130° E, due east to 140° E, due south to coast, westward along coast to 130° E, due north to 60° S.
| H | From 60° S 140° E, due east to 150° E, due south to coast, westward along coast to 140° E, due north to 60° S.
58.4.2 | A | From 62° S 30° E, due east to 40° E, due south to coast, westward along coast to 30° E, due north to 62° S.
| B | From 62° S 40° E, due east to 50° E, due south to coast, westward along coast to 40° E, due north to 62° S.
| C | From 62° S 50° E, due east to 60° E, due south to coast, westward along coast to 50° E, due north to 62° S.
| D | From 62° S 60° E, due east to 70° E, due south to coast, westward along coast to 60° E, due north to 62° S.
| E | From 62° S 70° E, due east to 73° 10′E, due south to 64° S, due east to 80° E, due south to coast, westward along coast to 70° E, due north to 62° S.
58.4.3a | A | Whole division, from 56° S 60° E, due east to 73° 10′E, due south to 62° S, due west to 60° E, due north to 56° S.
58.4.3b | A | From 56° S 73° 10′E, due east to 79° E, south to 59° S, due west to 73° 10′E, due north to 56° S.
| B | From 60° S 73° 10′E, due east to 86° E, south to 64° S, due west to 73° 10′E, due north to 60° S.
| C | From 59° S 73° 10′E, due east to 79° E, south to 60° S, due west to 73° 10′E, due north to 59° S.
| D | From 59° S 79° E, due east to 86° E, south to 60° S, due west to 79° E, due north to 59° S.
| E | From 56° S 79° E, due east to 80° E, due north to 55° S, due east to 86° E, south to 59° S, due west to 79° E, due north to 56° S.
58.4.4 | A | From 51° S 40° E, due east to 42° E, due south to 54° S, due west to 40° E, due north to 51° S.
| B | From 51° S 42° E, due east to 46° E, due south to 54° S, due west to 42° E, due north to 51° S.
| C | From 51° S 46° E, due east to 50° E, due south to 54° S, due west to 46° E, due north to 51° S.
| D | Whole division excluding SSRUs A, B, C, and with outer boundary from 50° S 30° E, due east to 60° E, due south to 62° S, due west to 30° E, due north to 50° S.
58.6 | A | From 45° S 40° E, due east to 44° E, due south to 48° S, due west to 40° E, due north to 45° S.
| B | From 45° S 44° E, due east to 48° E, due south to 48° S, due west to 44° E, due north to 45° S.
| C | From 45° S 48° E, due east to 51° E, due south to 48° S, due west to 48° E, due north to 45° S.
| D | From 45° S 51° E, due east to 54° E, due south to 48° S, due west to 51° E, due north to 45° S.
58.7 | A | From 45° S 37° E, due east to 40° E, due south to 48° S, due west to 37° E, due north to 45° S.
88.1 | A | From 60° S 150° E, due east to 170° E, due south to 65° S, due west to 150° E, due north to 60° S.
| B | From 60° S 170° E, due east to 179° E, due south to 66° 40′S, due west to 170° E, due north to 60° S.
| C | From 60° S 179° E, due east to 170° W, due south to 70° S, due west to 178° W, due north to 66° 40′S, due west to 179° E, due north to 60° S.
| D | From 65° S 150° E, due east to 160° E, due south to coast, westward along coast to 150° E, due north to 65° S.
| E | From 65° S 160° E, due east to 170° E, due south to 68° 30′S, due west to 160° E, due north to 65° S.
| F | From 68° 30′S 160° E, due east to 170° E, due south to coast, westward along coast to 160° E, due north to 68° 30′S.
| G | From 66° 40′S 170° E, due east to 178° W, due south to 70° S, due west to 178° 50′E, due south to 70° 50′S, due west to 170° E, due north to 66° 40′S.
| H | From 70° 50′S 170° E, due east to 178° 50′E, due south to 73° S, due west to coast, northward along coast to 170° E, due north to 70° 50′S.
| I | From 70° S 178° 50′E, due east to 170° W, due south to 73° S, due west to 178° 50′E, due north to 70° S.
| J | From 73° S at coast near 170° 30′E, due east to 178° 50′E, due south to 80° S, due west to 170° E, northward along coast to 73° S.
| K | From 73° S 178° 50′E, due east to 170° W, due south to 76° S, due west to 178° 50′E, due north to 73° S.
| L | From 76° S 178° 50′E, due east to 170° W, due south to 80° S, due west to 178° 50′E, due north to 76° S.
| M | From 73° S at coast near 169° 30′E, due east to 170° E, due south to 80° S, due west to coast, northward along coast to 73° S.
88.2 | A | From 60° S 170° W, due east to 160° W, due south to coast, westward along coast to 170° W, due north to 60° S.
| B | From 60° S 160° W, due east to 150° W, due south to coast, westward along coast to 160° W, due north to 60° S.
| C | From 60° S 150° W, due east to 140° W, due south to coast, westward along coast to 150° W, due north to 60° S.
| D | From 60° S 140° W, due east to 130° W, due south to coast, westward along coast to 140° W, due north to 60° S.
| E | From 60° S 130° W, due east to 120° W, due south to coast, westward along coast to 130° W, due north to 60° S.
| F | From 60° S 120° W, due east to 110° W, due south to coast, westward along coast to 120° W, due north to 60° S.
| G | From 60° S 110° W, due east to 105° W, due south to coast, westward along coast to 110° W, due north to 60° S.
88.3 | A | From 60° S 105° W, due east to 95° W, due south to coast, westward along coast to 105° W, due north to 60° S.
| B | From 60° S 95° W, due east to 85° W, due south to coast, westward along coast to 95° W, due north to 60° S.
| C | From 60° S 85° W, due east to 75° W, due south to coast, westward along coast to 85° W, due north to 60° S.
| D | From 60° S 75° W, due east to 70° W, due south to coast, westward along coast to 75° W, due north to 60° S.

Annex 41-01/C

Tagging Program for Dissostichus spp. and Skates in Exploratory Fisheries

1. The responsibility for ensuring tagging, tag recovery and correct reporting shall lie with the Flag State of the fishing vessel. The fishing vessel shall cooperate with the CCAMLR scientific observer in undertaking the tagging program.

2. This program shall apply in each exploratory longline fishery, and any vessel that participates in more than one exploratory fishery shall apply the following in each exploratory fishery in which that vessel fishes:

(i) Each longline vessel shall tag and release Dissostichus spp., continuously while fishing, at a rate specified in the conservation measure for that fishery according to the CCAMLR Tagging Protocol ¹.

(ii) The program shall target toothfish of all sizes in order to meet the tagging requirement, only toothfish that are in good condition shall be tagged and the availability of these fish shall be reported by the observer. All released toothfish must be double-tagged and releases should cover as broad a geographical area as possible. In regions where both species occur, the tagging rate shall to the extent practicable be in proportion to the species and sizes of Dissostichus spp. present in the catches.

(iii) During the 2008/09 season (Year-of-the-Skate), each longline vessel shall tag and release skates, continuously while fishing, at a rate specified in the conservation measure for that fishery according to the CCAMLR Tagging Protocol. All tagged skates must be double-tagged and released alive.

(iv) All toothfish and skate tags for use in exploratory fisheries shall be sourced from the Secretariat.

(v) Recaptured tagged fish (i.e. fish caught that have a previously inserted tag) shall not be re-released, even if at liberty for only a short period.

(vi) All recaptured tagged fish should be biologically sampled (length, weight, sex, gonad stage), an electronic time-stamped photograph taken of the fish and tag, the otoliths recovered and the tag removed.

3. Toothfish that are tagged and released shall not be counted against the catch limits.

4. All relevant tag data and any data recording tag recaptures shall be reported electronically in the CCAMLR format ¹ to the Executive Secretary (i) by the vessel every month along with its monthly fine-scale catch and effort (C2) data, and (ii) by the observer as part of the data reporting requirements for observer data ¹.

5. All relevant tag data, any data recording tag recaptures, and specimens (tags and otoliths) from recaptures shall also be reported electronically in the CCAMLR format ¹ to the relevant regional tag data repository as detailed in the CCAMLR Tagging Protocol (available at http://www.ccamlr.org/pu/e/sc/tag/intro.htm).

¹ In accordance with the CCAMLR Tagging Protocol for exploratory fisheries which is available from the Secretariat and included in the scientific observer logbook forms.

Conservation Measure 41-02 (2008)

Limits on the fishery for Dissostichus eleginoides in Statistical Subarea 48.3 in the 2007/08 and 2008/09 seasons

(Species: toothfish; Area: 48.3; Season: 2007/08 and 2008/09; Gear: longline, pot)

The Commission hereby adopts the following conservation measure in accordance with Conservation Measure 31-01:

Access 1. The fishery for Dissostichus eleginoides in Statistical Subarea 48.3 shall be conducted by vessels using longlines and pots only.

2. For the purpose of this fishery, the area open to the fishery is defined as that portion of Statistical Subarea 48.3 that lies within the area bounded by latitudes 52°30′ S and 56°0′ S and by longitudes 33°30′ W and 48°0′ W.

3. A map illustrating the area defined by paragraph 2 is appended to this conservation measure (Annex 41-02/A). The portion of Statistical Subarea 48.3 outside that defined above shall be closed to directed fishing for Dissostichus eleginoides in the 2007/08 and 2008/09 seasons.

Catch limit 4. The total catch of Dissostichus eleginoides in Statistical Subarea 48.3 in the 2007/08 and 2008/09 seasons shall be limited to 3 920 tonnes in each season. The catch limit shall be further subdivided between the Management Areas shown in Annex 41-02/A as follows:

Management Area A: 0 tonnes

Management Area B: 1 176 tonnes in each season

Management Area C: 2 744 tonnes in each season.

Season 5. For the purpose of the longline fishery for Dissostichus eleginoides in Statistical Subarea 48.3, the 2007/08 and 2008/09 seasons are defined as the period from 1 May to 31 August in each season, or until the catch limit is reached, whichever is sooner. For the purpose of the pot fishery for Dissostichus eleginoides in Statistical Subarea 48.3, the 2007/08 and 2008/09 seasons are defined as the period from 1 December to 30 November, or until the catch limit is reached, whichever is sooner. The season for longline fishing operations may be extended to 14 September in each season for any vessel which has demonstrated full compliance with Conservation Measure 25-02 in the previous season. This extension to the season shall also be subject to a catch limit of three (3) seabirds per vessel. If three seabirds are caught during the season extension, fishing shall cease immediately for that vessel.

By-catch 6. The by-catch of crab in any pot fishery undertaken shall be counted against the catch limit in the crab fishery in Statistical Subarea 48.3.

7. The by-catch of finfish in the fishery for Dissostichus eleginoides in Statistical Subarea 48.3 in the 2007/08 and 2008/09 seasons shall not exceed 196 tonnes for skates and rays and 196 tonnes for Macrourus spp. in each season. For the purpose of these by-catch limits, ‘Macrourus spp.’ and ‘skates and rays’ shall each be counted as a single species.

8. If the by-catch of any one species is equal to or greater than 1 tonne in any one haul or set, then the fishing vessel shall move to another location at least 5 n miles ¹ distant. The fishing vessel shall not return to any point within 5 n miles of the location where the by-catch exceeded 1 tonne for a period of at least five days ². The location where the by-catch exceeded 1 tonne is defined as the path ³ followed by the fishing vessel.

Mitigation 9. The operation of this fishery shall be carried out in accordance with Conservation Measure 25-02 so as to minimise the incidental mortality of seabirds in the course of fishing.

Observers 10. Each vessel participating in this fishery shall have at least one scientific observer appointed in accordance with the CCAMLR Scheme of International Scientific Observation, and where possible one additional scientific observer, on board throughout all fishing activities within the fishing period.

Data: catch/effort 11. For the purpose of implementing this conservation measure, the following shall apply:

(i) the Five-day Catch and Effort Reporting System set out in Conservation Measure 23-01;

(ii) the Monthly Fine-scale Catch and Effort Reporting System set out in Conservation Measure 23-04. Fine-scale data shall be submitted on a haul-by-haul basis.

12. For the purpose of Conservation Measures 23-01 and 23-04, the target species is Dissostichus eleginoides and by-catch species are defined as any species other than Dissostichus eleginoides.

13. The total number and weight of Dissostichus eleginoides discarded, including those with the ‘jellymeat’ condition, shall be reported. These fish will count towards the total allowable catch.

Data: biological 14. Fine-scale biological data, as required under Conservation Measure 23-05, shall be collected and recorded. Such data shall be reported in accordance with the CCAMLR Scheme of International Scientific Observation.

Research fishing 15. Catches of Dissostichus eleginoides taken under the provisions of Conservation Measure 24-01 in the area of the fishery defined in this conservation measure shall be considered as part of the catch limit.

Environ-mental protection 16. Conservation Measure 26-01 applies.

¹ This provision concerning the minimum distance separating fishing locations is adopted pending the adoption of a more appropriate definition of a fishing location by the Commission.

² The specified period is adopted in accordance with the reporting period specified in Conservation Measure 23-01, pending the adoption of a more appropriate period by the Commission.

³ For a longline or a pot, the path is defined from the point at which the first anchor of a set was deployed to the point at which the last anchor of that set was deployed.

[Annex 41-02/a is unchanged]

Conservation Measure 41-03 (2008)

Limits on the fishery for Dissostichus spp. in Statistical Subarea 48.4 in the 2008/09 fishing season

(Species: toothfish; Area: 48.4; Season: 2008/09; Gear: longline)

Access 1. Directed fishing shall be by longlines only. The use of all other methods of directed fishing for Dissostichus spp. in Statistical Subarea 48.4 shall be prohibited.

2. For the purpose of this fishery, the areas open to fishing are defined as that portion of Statistical Subarea 48.4 that lies within the area bounded by latitudes 55°30′ S and 57°20′ S and by longitudes 25°30′ W and 29°30′ W (Northern Area), and that portion of Statistical Subarea 48.4 that lies within the area bounded by latitudes 57°20′ S and 60°00′ S and by longitudes 24°30′ W and 29°00′ W (Southern Area).

3. A map illustrating the areas defined by paragraph 2 is appended to this conservation measure (Annex 41-03/A). The portion of Statistical Subarea 48.4 outside that defined above shall be closed to directed fishing for Dissostichus spp. in the 2008/09 season.

Catch limit 4. In the Northern Area of Statistical Subarea 48.4, the total catch of Dissostichus eleginoides shall be limited to 75 tonnes, and the taking of Dissostichus mawsoni, other than for scientific research purposes, is prohibited.

5. In the Southern Area of Statistical Subarea 48.4, the total catch of Dissostichus spp. shall be limited to 75 tonnes.

Season 6. For the purposes of the fishery for Dissostichus spp. in Statistical Subarea 48.4, the fishing season shall be 1 December 2008 to 30 November 2009, or until the total catch limit for Dissostichus spp. in Statistical Subarea 48.4 is reached, whichever is sooner.

By-catch 7. In the Northern Area of Statistical Subarea 48.4, the by-catch of finfish shall not exceed 4 tonnes for skates and rays and 12 tonnes for Macrourus spp.

8. In the Southern Area of Statistical Subarea 48.4, the by-catch of finfish shall trigger a move-on rule if the catch of skates and rays exceeds 5% of the catch of Dissostichus spp. in any one haul or set, or if the catch of Macrourus spp. exceeds 16% of the catch of Dissostichus spp. in any one haul or set. If the move-on rule is triggered, then the fishing vessel shall move to another location at least 5 n miles¹ distant. The fishing vessel shall not return to any point within 5 n miles of the location where the move-on rule was triggered for a period of at least five days². The location where the move-on rule was triggered is defined as the path³ followed by the fishing vessel.

9. For the purpose of these by-catch limits, ‘Macrourus spp.' and ‘skates and rays' shall each be counted as a single species.

10. Dissostichus mawsoni caught in the Northern Area of Statistical Subarea 48.4 shall, if in good condition, be tagged and released; or if dead, may be retained.

Mitigation 11. Fishing in Statistical Subarea 48.4 shall be carried out in accordance with the provisions of Conservation Measure 25-02. When fishing is carried out in accordance with the provisions of Conservation Measure 24-02, vessels may, subject to paragraph 13 below, fish during daylight hours in an exemption to paragraph 5 (night setting) of Conservation Measure 25-02.

12. Fishing in Statistical Subarea 48.4 in December, January, February, March, October and November shall, in addition to paragraph 11 above, be carried out in accordance with the provisions of Conservation Measure 24-02.

13. Any vessel fishing under the exemption from night setting provided in paragraph 11 above and catching a total of three (3) seabirds shall immediately revert to night setting in accordance with Conservation Measure 25-02.

Observers 14. Each vessel participating in the fishery for Dissostichus spp. in Statistical Subarea 48.4 shall have at least one scientific observer appointed in accordance with the CCAMLR Scheme of International Scientific Observation, on board throughout all fishing activities within the fishing period.

Data: atch/effort 15. For the purpose of implementing this conservation measure, the following shall apply:

(i) The Five-day Catch and Effort Reporting System set out in Conservation Measure 23-01;

(ii) The Monthly Fine-scale Catch and Effort Data Reporting System set out in Conservation Measure 23-04. Data shall be reported on a haul-by-haul basis. For the purposes of Conservation Measure 23-04, the target species is Dissostichus spp., and `by-catch species' are defined as any species other than Dissostichus spp.

Data: Biological 16. Fine-scale biological data, as required under Conservation Measure 23-05 shall be collected and recorded. Such data shall be reported in accordance with the Scheme of International Scientific Observation.

Tagging program 17. Each vessel taking part in the fishery for Dissostichus spp. in Statistical Subarea 48.4 shall undertake a tagging program in accordance with the CCAMLR Tagging Protocol. The following additional provisions shall apply:

(i) Fish should be tagged at an average rate of five fish per tonne of green weight catch throughout the season;

(ii) Fish should be tagged that have been caught across as broad a range of depths within the designated area as practicable;

(iii) Fish of a range of total lengths should be tagged.

Environmental protection 18. Conservation Measure 26-01 applies.

¹ This provision concerning the minimum distance separating fishing locations is adopted pending the adoption of a more appropriate definition of a fishing location by the Commission.

² The specified period is adopted in accordance with the reporting period specified in Conservation Measure 23-01, pending the adoption of a more appropriate period by the Commission.

³ For a longline or a pot, the path is defined from the point at which the first anchor of a set was deployed to the point at which the last anchor of that set was deployed.

Annex 41-03/A

Statistical Subarea 48.4—Northern Area and Southern Area of the fishery in the 2008/09 season according to paragraph 2. Latitudes and longitudes are given in degrees, and the 1,000 m contour is shown.

Conservation Measure 41-04 (2008)

Limits on the exploratory fishery for Dissostichus spp. in Statistical Subarea 48.6 in the 2008/09 season

(Species: toothfish; Area: 48.6; Season: 2008/09; Gear: longline)

The Commission hereby adopts the following conservation measure in accordance with Conservation Measure 21-02:

Access 1. Fishing for Dissostichus spp. in Statistical Subarea 48.6 shall be limited to the exploratory longline fishery by Japan and the Republic of Korea. The fishery shall be conducted by Japanese and Korean flagged vessels using longlines only. No more than one vessel per country shall fish at any one time.

2. Fishing is prohibited in depths shallower than 550 m in order to protect benthic communities.

Catch limit 3. The total catch of Dissostichus spp. in Statistical Subarea 48.6 in the 2008/09 season shall not exceed a precautionary catch limit of 200 tonnes north of 60° S and 200 tonnes south of 60° S.

Season 4. For the purpose of the exploratory longline fishery for Dissostichus spp. in Statistical Subarea 48.6, the 2008/09 season is defined as the period from 1 December 2008 to 30 November 2009.

By-catch 5. The by-catch in this fishery shall be regulated as set out in Conservation Measure 33-03.

Mitigation 6. The exploratory longline fishery for Dissostichus spp. in Statistical Subarea 48.6 shall be carried out in accordance with the provisions of Conservation Measure 25-02, except paragraph 5 (night setting), which shall not apply as long as the requirements of Conservation Measure 24-02 are met.¹

7. Any vessel catching a total of three (3) seabirds shall immediately revert to night setting in accordance with Conservation Measure 25-02.

Observers 8. Each vessel participating in the fishery shall have at least two scientific observers, one of whom shall be an observer appointed in accordance with the CCAMLR Scheme of International Scientific Observation, on board throughout all fishing activities within the fishing period.

Data: Catch/effort

9. For the purpose of implementing this conservation measure in the 2008/09 season, the following shall apply:

(i) The Five-day Catch and Effort Reporting System set out in Conservation Measure 23-01;

(ii) The Monthly Fine-scale Catch and Effort Reporting System set out in Conservation Measure 23-04. Fine-scale data shall be submitted on a haul-by-haul basis.

10. For the purpose of Conservation Measures 23-01 and 23-04, the target species is Dissostichus spp. and by-catch species are defined as any species other than Dissostichus spp.

Data: Biological

11. Fine-scale biological data, as required under Conservation Measure 23-05, shall be collected and recorded. Such data shall be reported in accordance with the CCAMLR Scheme of International Scientific Observation.

Research 12. Each vessel participating in this exploratory fishery shall conduct fishery-based research in accordance with the Research Plan and Tagging Program described in Conservation Measure 41-01, Annex B and Annex C respectively.

13. Toothfish shall be tagged at a rate of at least three fish per tonne green weight caught.

14. Skates shall be tagged at a rate of at least one skate per five skates caught, up to a maximum of 500 skates per vessel.

Environmental protection 15. Conservation Measure 26-01 applies.

16. There shall be no offal discharge in this fishery.

17. Conservation Measures 22-06 and 22-07 apply.

¹ The Japanese-flagged vessel Shinsei Maru No. 3 is exempted from the requirement to conduct longline sink rate tests outside the Convention Area when fishing at the end of the 2007/08 season and into the 2008/09 season, provided that the vessel conducted regular longline sink rate testing in 2007/08.

Conservation Measure 41-05 (2008)

Limits on the exploratory fishery for Dissostichus spp. in Statistical Division 58.4.2 in the 2008/09 season

(Species: toothfish; Area: 58.4.2; Season: 2008/09; Gear: longline)

The Commission hereby adopts the following conservation measure in accordance with Conservation Measure 21-02, and notes that this measure would be for one year and that data arising from these activities would be reviewed by the Scientific Committee:

Access 1. Fishing for Dissostichus spp. in Statistical Division 58.4.2 shall be limited to the exploratory longline fishery by Japan, Republic of Korea, Spain and Uruguay. The fishery shall be conducted by one (1) Japanese, four (4) Korean, one (1) Spanish and one (1) Uruguayan flagged vessels using longlines only.

2. Fishing is prohibited in depths shallower than 550 m in order to protect benthic communities.

Catch limit 3. The total catch of Dissostichus spp. in Statistical Division 58.4.2, in the 2008/09 season shall not exceed a precautionary catch limit of 70 tonnes applied as follows:

SSRU A—30 tonnes

SSRU B—0 tonnes

SSRU C—0 tonnes

SSRU D—0 tonnes

SSRU E—40 tonnes.

Season 4. For the purpose of the exploratory longline fishery for Dissostichus spp. in Statistical Division 58.4.2, the 2008/09 season is defined as the period from 1 December 2008 to 30 November 2009.

Fishing operations 5. The exploratory longline fishery for Dissostichus spp. in Statistical Division 58.4.2 shall be carried out in accordance with the provisions of Conservation Measure 41-01, except paragraph 6.

By-catch 6. The by-catch in this fishery shall be regulated as set out in Conservation Measure 33-03.

Mitigation 7. The exploratory longline fishery for Dissostichus spp. in Statistical Division 58.4.2 shall be carried out in accordance with the provisions of Conservation Measure 25-02, except paragraph 5 (night setting) shall not apply, providing that vessels comply with Conservation Measure 24-02.

8. Any vessel catching a total of three (3) seabirds shall immediately revert to night setting in accordance with Conservation Measure 25-02.

Observers 9. Each vessel participating in the fishery shall have at least two scientific observers, one of whom shall be an observer appointed in accordance with the CCAMLR Scheme of International Scientific Observation, on board throughout all fishing activities within the fishing period.

Research 10. Each vessel participating in this exploratory fishery shall conduct fishery-based research in accordance with the Research Plan and Tagging Program described in Conservation Measure 41-01, Annex B and Annex C respectively.

11. Toothfish shall be tagged at a rate of at least three fish per tonne green weight caught.

12. Skates shall be tagged at a rate of at least one skate per five skates caught, up to a maximum of 500 skates per vessel.

Data: Catch/Effort

13. For the purpose of implementing this conservation measure in the 2008/09 season, the following shall apply:

(i) The Five-day Catch and Effort Reporting System set out in Conservation Measure 23-01;

(ii) The Monthly Fine-scale Catch and Effort Reporting System set out in Conservation Measure 23-04. Fine-scale data shall be submitted on a haul-by-haul basis.

14. For the purpose of Conservation Measures 23-01 and 23-04, the target species is Dissostichus spp. and by-catch species are defined as any species other than Dissostichus spp.

Data: Biological

15. Fine-scale biological data, as required under Conservation Measure 23-05, shall be collected and recorded. Such data shall be reported in accordance with the CCAMLR Scheme of International Scientific Observation.

Environmental protection 16. Conservation Measure 26-01 applies.

17. Conservation Measures 22-06 and 22-07 apply.

Conservation Measure 41-06 (2008)

Limits on the exploratory fishery for Dissostichus spp. on Elan Bank (Statistical Division 58.4.3a) outside areas of national jurisdiction in the 2008/09 season

(Species: toothfish; Area: 58.4.3a; Season: 2008/09; Gear: longline)

The Commission hereby adopts the following conservation measure in accordance with Conservation Measure 21-02:

Access 1. Fishing for Dissostichus spp. on Elan Bank (Statistical Division 58.4.3a) outside areas of national jurisdiction shall be limited to the exploratory fishery by Japan. The fishery shall be conducted by one (1) Japanese flagged vessel using longlines only.

2. Fishing is prohibited in depths shallower than 550 m in order to protect benthic communities.

Catch limit 3. The total catch of Dissostichus spp. on Elan Bank (Statistical Division 58.4.3a) outside areas of national jurisdiction in the 2008/09 season shall not exceed a precautionary catch limit of 86 tonnes.

Season 4. For the purpose of the exploratory longline fishery for Dissostichus spp. on Elan Bank (Statistical Division 58.4.3a) outside areas of national jurisdiction, the 2008/09 season is defined as the period from 1 May to 31 August 2009, or until the catch limit is reached, whichever is sooner.

By-catch 5. The by-catch in this fishery shall be regulated as set out in Conservation Measure 33-03.

Mitigation 6. The operation of this fishery shall be carried out in accordance with Conservation Measure 25-02 so as to minimise the incidental mortality of seabirds in the course of fishing.

7. The fishery on Elan Bank (Statistical Division 58.4.3a) outside areas of national jurisdiction, may take place outside the prescribed season (paragraph 4) provided that, prior to entry into force of the licence, each vessel shall demonstrate its capacity to comply with longline weighting as approved by the Scientific Committee and described in Conservation Measure 24-02 and such data shall be reported to the Secretariat immediately.

8. Should a total of three (3) seabirds be caught by a vessel outside the normal season (defined in paragraph 4), the vessel shall cease fishing immediately and shall not be permitted to fish outside the normal fishing season for the remainder of the 2008/09 fishing season.

Observers 9. Each vessel participating in this fishery shall have at least one scientific observer appointed in accordance with the CCAMLR Scheme of International Scientific Observation, and where possible one additional scientific observer, on board throughout all fishing activities within the fishing period.

Data: Catch/Effort

10. For the purpose of implementing this conservation measure in the 2008/09 season, the following shall apply:

(i) The Five-day Catch and Effort Reporting System set out in Conservation Measure 23-01;

(ii) The Monthly Fine-scale Catch and Effort Reporting System set out in Conservation Measure 23-04. Fine-scale data shall be submitted on a haul-by-haul basis.

11. For the purpose of Conservation Measures 23-01 and 23-04, the target species is Dissostichus spp. and by-catch species are defined as any species other than Dissostichus spp.

Data: Biological

12. Fine-scale biological data, as required under Conservation Measure 23-05, shall be collected and recorded. Such data shall be reported in accordance with the CCAMLR Scheme of International Scientific Observation.

Research 13. Each vessel participating in this exploratory fishery shall conduct fishery-based research in accordance with the Research Plan and Tagging Program described in Conservation Measure 41-01, Annex B and Annex C, respectively.

14. Toothfish shall be tagged at a rate of at least three fish per tonne green weight caught.

15. Skates shall be tagged at a rate of at least one skate per five skates caught, up to a maximum of 500 skates per vessel.

Environmental protection 16. Conservation Measure 26-01 applies.

17. Conservation Measures 22-06 and 22-07 apply.

Conservation Measure 41-07 (2008)

Limits on the exploratory fishery for Dissostichus spp. on BANZARE Bank (Statistical Division 58.4.3b) outside areas of national jurisdiction in the 2008/09 season

(Species: toothfish; Area: 58.4.3b; Season: 2008/09; Gear: longline)

The Commission hereby adopts the following conservation measure in accordance with Conservation Measure 21-02:

Access 1. Fishing for Dissostichus spp. on BANZARE Bank (Statistical Division 58.4.3b) outside areas of national jurisdiction shall be limited to the exploratory fishery by Japan, Spain and Uruguay. The fishery shall be conducted by Japanese, Spanish and Uruguayan flagged vessels using longlines only. No more than one vessel per country shall fish at any one time.

2. Fishing is prohibited in depths shallower than 550 m in order to protect benthic communities.

Catch limit 3. The total catch of Dissostichus spp. on BANZARE Bank (Statistical Division 58.4.3b) outside areas of national jurisdiction in the 2008/09 season shall not exceed a precautionary catch limit of 120 tonnes applied as follows:

SSRU A—30 tonnes

SSRU B—0 tonnes

SSRU C—30 tonnes

SSRU D—30 tonnes

SSRU E—30 tonnes.

Season 4. For the purpose of the exploratory longline fishery for Dissostichus spp. on BANZARE Bank (Statistical Division 58.4.3b) outside areas of national jurisdiction, the 2008/09 season is defined as the period from 1 May to 31 August 2009, or until the catch limit is reached, whichever is sooner.

By-catch 5. The by-catch in this fishery shall be regulated as set out in Conservation Measure 33-03.

Mitigation 6. The operation of this fishery shall be carried out in accordance with Conservation Measure 25-02 so as to minimise the incidental mortality of seabirds in the course of fishing.

7. The fishery on BANZARE Bank (Statistical Division 58.4.3b) outside areas of national jurisdiction, may take place outside the prescribed season (paragraph 4) provided that, prior to entry into force of the licence, each vessel shall demonstrate its capacity to comply with experimental line-weighting trials as approved by the Scientific Committee and described in Conservation Measure 24-02 and such data shall be reported to the Secretariat immediately.

8. Should a total of three (3) seabirds be caught by a vessel outside the normal season (defined in paragraph 4), the vessel shall cease fishing immediately and shall not be permitted to fish outside the normal fishing season for the remainder of the 2008/09 fishing season.

Observers 9. Each vessel participating in this fishery shall have at least one scientific observer appointed in accordance with the CCAMLR Scheme of International Scientific Observation, and where possible one additional scientific observer, on board throughout all fishing activities within the fishing period.

Data: Catch/Effort

10. For the purpose of implementing this conservation measure in the 2008/09 season, the following shall apply:

(i) The Five-day Catch and Effort Reporting System set out in Conservation Measure 23-01;

(ii) The Monthly Fine-scale Catch and Effort Reporting System set out in Conservation Measure 23-04. Fine-scale data shall be submitted on a haul-by-haul basis.

11. For the purpose of Conservation Measures 23-01 and 23-04, the target species is Dissostichus spp. and by-catch species are defined as any species other than Dissostichus spp.

Data: Biological

12. Fine-scale biological data, as required under Conservation Measure 23-05, shall be collected and recorded. Such data shall be reported in accordance with the CCAMLR Scheme of International Scientific Observation.

Research 13. Each vessel participating in this exploratory fishery shall conduct fishery-based research in accordance with the Research Plan and Tagging Program described in Conservation Measure 41-01, Annex B and Annex C respectively.

14. Toothfish shall be tagged at a rate of at least three fish per tonne green weight caught.

15. Skates shall be tagged at a rate of at least one skate per five skates caught, up to a maximum of 500 skates per vessel.

Environmental protection 16. Conservation Measure 26-01 applies.

17. Conservation Measures 22-06 and 22-07 apply.

Conservation Measure 41-08 (2008)

Limits on the fishery for Dissostichus eleginoides in Statistical Division 58.5.2 in the 2007/08 and 2008/09 seasons

(Species: toothfish; Area: 58.5.2; Season: 2007/08 and 2008/09; Gear: various)

Access 1. The fishery for Dissostichus eleginoides in Statistical Division 58.5.2 shall be conducted by vessels using trawls, pots or longlines only.

Catch limit 2. The total catch of Dissostichus eleginoides in Statistical Division 58.5.2 in the 2007/08 and 2008/09 seasons shall be limited to 2 500 tonnes west of 79°20′ E.

Season 3. For the purpose of the trawl and pot fisheries for Dissostichus eleginoides in Statistical Division 58.5.2, the 2007/08 and 2008/09 seasons are defined as the period from 1 December to 30 November, or until the catch limit is reached, whichever is sooner. For the purpose of the longline fishery for Dissostichus eleginoides in Statistical Division 58.5.2, the 2007/08 and 2008/09 seasons are defined as the period from 1 May to 14 September in each season, or until the catch limit is reached, whichever is sooner. The season for longline fishing operations may be extended from 15 April to 30 April and 15 September to 31 October in each season for any vessel which has demonstrated full compliance with Conservation Measure 25-02 in the previous season. These extensions to the season will also be subject to a total catch limit of three (3) seabirds per vessel. If three seabirds are caught during the season extension, fishing throughout the season extensions shall cease immediately for that vessel.

By-catch 4. Fishing shall cease if the by-catch of any species reaches its by-catch limit as set out in Conservation Measure 33-02.

Mitigation 5. The operation of the trawl fishery shall be carried out in accordance with Conservation Measure 25-03 so as to minimise the incidental mortality of seabirds and mammals through the course of fishing. The operation of the longline fishery shall be carried out in accordance with Conservation Measure 25-02, except paragraph 5 (night setting) shall not apply for vessels using integrated weighted lines (IWLs) during the period 1 May to 31 October in each season. Such vessels may deploy IWL gear during daylight hours if, prior to entry into force of the licence, each vessel shall demonstrate its capacity to comply with experimental line-weighting trials as approved by the Scientific Committee and described in Conservation Measure 24-02.

During the period 15 April to 30 April in each season, vessels shall use IWL gear and in a manner that ensures lines are set and hauled sequentially, in conjunction with night setting and paired streamer lines.

Observers 6. Each vessel participating in this fishery shall have at least one scientific observer, and may include one appointed in accordance with the CCAMLR Scheme of International Scientific Observation, on board throughout all fishing activities within the fishing period, with the exception of the period 15 April to 30 April in each season when two scientific observers shall be carried.

Data: Catch/Effort 7. For the purpose of implementing this conservation measure, the following shall apply:

(i) The Ten-day Catch and Effort Reporting System set out in Annex 41-08/A;

(ii) The Monthly Fine-scale Catch and Effort Reporting System set out in Annex 41-08/A. Fine-scale data shall be submitted on a haul-by-haul basis.

8. For the purpose of Annex 41-08/A, the target species is Dissostichus eleginoides and by-catch species are defined as any species other than Dissostichus eleginoides.

9. The total number and weight of Dissostichus eleginoides discarded, including those with the ‘jellymeat’ condition, shall be reported. These fish will count towards the total allowable catch.

Data: Biological 10. Fine-scale biological data, as required under Annex 41-08/A, shall be collected and recorded. Such data shall be reported in accordance with the CCAMLR Scheme of International Scientific Observation.

Environmental protection 11. Conservation Measure 26-01 applies.

[Annex 41-08/A is unchanged]

Conservation Measure 41-09 (2008)

Limits on the exploratory fishery for Dissostichus spp. in Statistical Subarea 88.1 in the 2008/09 season

(Species: toothfish; Area: 88.1; Season: 2008/09; Gear: longline)

The Commission hereby adopts the following conservation measure in accordance with Conservation Measure 21-02:

Access 1. Fishing for Dissostichus spp. in Statistical Subarea 88.1 shall be limited to the exploratory longline fishery by Argentina, Chile, Republic of Korea, New Zealand, Russia, South Africa, Spain, UK and Uruguay. The fishery shall be conducted by a maximum in the season of two (2) Argentine, one (1) Chilean, four (4) Korean, four (4) New Zealand, three (3) Russian, one (1) South African, one (1) Spanish, three (3) UK and two (2) Uruguayan flagged vessels using longlines only.

2. Fishing is prohibited in depths shallower than 550 m in order to protect benthic communities.

Catch limit 3. The total catch of Dissostichus spp. in Statistical Subarea 88.1 in the 2008/09 season shall not exceed a precautionary catch limit of 2 700 tonnes applied as follows:

SSRU A—0 tonnes

SSRUs B, C and G—352 tonnes total

SSRU D—0 tonnes

SSRU E—0 tonnes

SSRU F—0 tonnes

SSRUs H, I and K—1 994 tonnes total

SSRU J and L—354 tonnes

SSRU M—0 tonnes.

Season 4. For the purpose of the exploratory longline fishery for Dissostichus spp. in Statistical Subarea 88.1, the 2008/09 season is defined as the period from 1 December 2008 to 31 August 2009.

Fishing operations 5. The exploratory longline fishery for Dissostichus spp. in Statistical Subarea 88.1 shall be carried out in accordance with the provisions of Conservation Measure 41-01, except paragraph 6.

By-catch 6. The total by-catch in Statistical Subarea 88.1 in the 2008/09 season shall not exceed a precautionary catch limit of 135 tonnes of skates and rays, and 430 tonnes of Macrourus spp. Within these total by-catch limits, individual limits will apply as follows:

SSRU A—0 tonnes of any species

SSRUs B, C and G total—50 tonnes of skates and rays, 40 tonnes of Macrourus spp., 60 tonnes of other species

SSRU D—0 tonnes of any species

SSRU E—0 tonnes of any species

SSRU F—0 tonnes of any species

SSRUs H, I and K total—99 tonnes of skates and rays, 320 tonnes of Macrourus spp., 60 tonnes of other species

SSRU J and L—50 tonnes of skates and rays, 70 tonnes of Macrourus spp., 40 tonnes of other species.

SSRU M—0 tonnes of any species.

The by-catch in this fishery shall be regulated as set out in Conservation Measure 33-03.

Mitigation 7. The exploratory longline fishery for Dissostichus spp. in Statistical Subarea 88.1 shall be carried out in accordance with the provisions of Conservation Measure 25-02, except paragraph 5 (night setting), which shall not apply as long as the requirements of Conservation Measure 24-02 are met.

8. Any vessel catching a total of three (3) seabirds shall immediately revert to night setting in accordance with Conservation Measure 25-02.

Observers 9. Each vessel participating in the fishery shall have at least two scientific observers, one of whom shall be an observer appointed in accordance with the CCAMLR Scheme of International Scientific Observation, on board throughout all fishing activities within the fishing period.

VMS 10. Each vessel participating in this exploratory longline fishery shall be required to operate a VMS at all times, in accordance with Conservation Measure 10-04.

CDS 11. Each vessel participating in this exploratory longline fishery shall be required to participate in the Catch Documentation Scheme for Dissostichus spp., in accordance with Conservation Measure 10-05.

Research 12. Each vessel participating in this exploratory fishery shall conduct fishery-based research in accordance with the Research Plan and Tagging Program described in Conservation Measure 41-01, Annex B and Annex C respectively. The setting of research hauls (Conservation Measure 41-01, Annex B, paragraphs 3 and 4) is not required.

13. Toothfish shall be tagged at a rate of at least one fish per tonne green weight caught in each SSRU.

14. Skates shall be tagged at a rate of at least one skate per five skates caught, up to a maximum of 500 skates per vessel.

Data: Catch/Effort

15. For the purpose of implementing this conservation measure in the 2008/09 season, the following shall apply:

(i) The Five-day Catch and Effort Reporting System set out in Conservation Measure 23-01;

(ii) The Monthly Fine-scale Catch and Effort Reporting System set out in Conservation Measure 23-04. Fine-scale data shall be submitted on a haul-by-haul basis.

16. For the purpose of Conservation Measures 23-01 and 23-04, the target species is Dissostichus spp. and by-catch species are defined as any species other than Dissostichus spp.

Data: Biological

17. Fine-scale biological data, as required under Conservation Measure 23-05, shall be collected and recorded. Such data shall be reported in accordance with the CCAMLR Scheme of International Scientific Observation.

Environmental protection 18. Conservation Measure 26-01 applies.

19. Conservation Measures 22-06 and 22-07 apply.

Additional elements 20. Fishing for Dissostichus spp. in Statistical Subarea 88.1 shall be prohibited within 10 n miles of the coast of the Balleny Islands.

Conservation Measure 41-10 (2008)

Limits on the exploratory fishery for Dissostichus spp. in Statistical Subarea 88.2 in the 2008/09 season

(Species: toothfish; Area: 88.2; Season: 2008/09; Gear: longline)

The Commission hereby adopts the following conservation measure in accordance with Conservation Measure 21-02:

Access 1. Fishing for Dissostichus spp. in Statistical Subarea 88.2 shall be limited to the exploratory longline fishery by Argentina, Chile, Republic of Korea, New Zealand, Russia, South Africa, Spain, UK and Uruguay. The fishery shall be conducted by a maximum in the season of two (2) Argentine, one (1) Chilean, two (2) Korean, four (4) New Zealand, three (3) Russian, one (1) South African, one (1) Spanish, three (3) UK and two (2) Uruguayan flagged vessels using longlines only.

2. Fishing is prohibited in depths shallower than 550 m in order to protect benthic communities.

Catch limit 3. The total catch of Dissostichus spp. in Statistical Subarea 88.2 south of 65° S in the 2008/09 season shall not exceed a precautionary catch limit of 567 applied as follows:

SSRU A—0 tonnes

SSRU B—0 tonnes

SSRUs C, D, F and G—214 tonnes total

SSRU E—353 tonnes.

Season 4. For the purpose of the exploratory longline fishery for Dissostichus spp. in Statistical Subarea 88.2, the 2008/09 season is defined as the period from 1 December 2008 to 31 August 2009.

5. The exploratory longline fishery for Dissostichus spp. in Statistical Subarea 88.2 shall be carried out in accordance with the provisions of Conservation Measure 41-01, except paragraph 6.

By-catch 6. The total by-catch in Statistical Subarea 88.2 in the 2008/09 season shall not exceed a precautionary catch limit of 50 tonnes of skates and rays, and 90 tonnes of Macrourus spp. Within these total by-catch limits, individual limits will apply as follows:

SSRU A—0 tonnes of any species

SSRU B—0 tonnes of any species

SSRUs C, D, F, G—50 tonnes of skates and rays, 34 tonnes of Macrourus spp., 80 tonnes of other species

SSRU E—50 tonnes of skates and rays, 56 tonnes of Macrourus spp., 20 tonnes of other species.

The by-catch in this fishery shall be regulated as set out in Conservation Measure 33-03.

Mitigation 7. The exploratory longline fishery for Dissostichus spp. in Statistical Subarea 88.2 shall be carried out in accordance with the provisions of Conservation Measure 25-02, except paragraph 5 (night setting), which shall not apply as long as the requirements of Conservation Measure 24-02 are met.

8. Any vessel catching a total of three (3) seabirds shall immediately revert to night setting in accordance with Conservation Measure 25-02.

Observers 9. Each vessel participating in the fishery shall have at least two scientific observers, one of whom shall be an observer appointed in accordance with the CCAMLR Scheme of International Scientific Observation, on board throughout all fishing activities within the fishing period.

VMS 10. Each vessel participating in this exploratory longline fishery shall be required to operate a VMS at all times, in accordance with Conservation Measure 10-04.

CDS 11. Each vessel participating in this exploratory longline fishery shall be required to participate in the Catch Documentation Scheme for Dissostichus spp., in accordance with Conservation Measure 10-05.

Research 12. Each vessel participating in this exploratory fishery shall conduct fishery-based research in accordance with the Research Plan and Tagging Program described in Conservation Measure 41-01, Annex B and Annex C respectively. The setting of research hauls (Conservation Measure 41-01, Annex B, paragraphs 3 and 4) is not required.

13. Toothfish shall be tagged at a rate of at least one fish per tonne green weight caught in each SSRU.

14. Skates shall be tagged at a rate of at least one skate per five skates caught, up to a maximum of 500 skates per vessel.

Data: Catch/Effort

15. For the purpose of implementing this conservation measure in the 2008/09 season, the following shall apply:

(i) The Five-day Catch and Effort Reporting System set out in Conservation Measure 23-01;

(ii) The Monthly Fine-scale Catch and Effort Reporting System set out in Conservation Measure 23-04. Fine-scale data shall be submitted on a haul-by-haul basis.

16. For the purpose of Conservation Measures 23-01 and 23-04, the target species is Dissostichus spp. and by-catch species are defined as any species other than Dissostichus spp.

Data: Biological

17. Fine-scale biological data, as required under Conservation Measure 23-05, shall be collected and recorded. Such data shall be reported in accordance with the CCAMLR Scheme of International Scientific Observation.

Environmental protection 18. Conservation Measure 26-01 applies.

19. Conservation Measures 22-06 and 22-07 apply.

Conservation Measure 41-11 (2008)

Limits on the exploratory fishery for Dissostichus spp. in Statistical Division 58.4.1 in the 2008/09 season

(Species: toothfish; Area: 58.4.1; Season: 2008/09; Gear: longline)

The Commission hereby adopts the following conservation measure in accordance with Conservation Measure 21-02, and notes that this measure would be for one year and that data arising from these activities would be reviewed by the Scientific Committee:

Access 1. Fishing for Dissostichus spp. in Statistical Division 58.4.1 shall be limited to the exploratory longline fishery by Japan, Republic of Korea, New Zealand, South Africa, Spain and Uruguay. The fishery shall be conducted by one (1) Japanese, five (5) Korean, four (4) New Zealand, one (1) South African, one (1) Spanish and one (1) Uruguayan flagged vessels using longlines only.

2. Fishing is prohibited in depths shallower than 550 m in order to protect benthic communities.

Catch limit 3. The total catch of Dissostichus spp. in Statistical Division 58.4.1 in the 2008/09 season shall not exceed a precautionary catch limit of 210 tonnes applied as follows:

SSRU A—0 tonnes

SSRU B—0 tonnes

SSRU C—100 tonnes

SSRU D—0 tonnes

SSRU E—50 tonnes

SSRU F—0 tonnes

SSRU G—60 tonnes

SSRU H—0 tonnes.

Season 4. For the purpose of the exploratory longline fishery for Dissostichus spp. in Statistical Division 58.4.1, the 2008/09 season is defined as the period from 1 December 2008 to 30 November 2009.

Fishing operations 5. The exploratory longline fishery for Dissostichus spp. in Statistical Division 58.4.1 shall be carried out in accordance with the provisions of Conservation Measure 41-01, except paragraph 6.

By-catch 6. The by-catch in this fishery shall be regulated as set out in Conservation Measure 33-03.

Mitigation 7. The exploratory longline fishery for Dissostichus spp. in Statistical Division 58.4.1 shall be carried out in accordance with the provisions of Conservation Measure 25-02, except paragraph 5 (night setting) shall not apply, providing that vessels comply with Conservation Measure 24-02.

8. Any vessel catching a total of three (3) seabirds shall immediately revert to night setting in accordance with Conservation Measure 25-02.

Observers 9. Each vessel participating in the fishery shall have at least two scientific observers, one of whom shall be an observer appointed in accordance with the CCAMLR Scheme of International Scientific Observation, on board throughout all fishing activities within the fishing period.

Research 10. Each vessel participating in this exploratory fishery shall conduct fishery-based research in accordance with the Research Plan and Tagging Program described in Conservation Measure 41-01, Annex B and Annex C respectively.

11. Toothfish shall be tagged at a rate of at least three fish per tonne green weight caught.

Data: Catch/Effort

12. For the purpose of implementing this conservation measure in the 2008/09 season, the following shall apply:

(i) The Five-day Catch and Effort Reporting System set out in Conservation Measure 23-01;

(ii) The Monthly Fine-scale Catch and Effort Reporting System set out in Conservation Measure 23-04. Fine-scale data shall be submitted on a haul-by-haul basis.

13. For the purpose of Conservation Measures 23-01 and 23-04, the target species is Dissostichus spp. and by-catch species are defined as any species other than Dissostichus spp.

Data: Biological

14. Fine-scale biological data, as required under Conservation Measure 23-05, shall be collected and recorded. Such data shall be reported in accordance with the CCAMLR Scheme of International Scientific Observation.

Environmental protection 15. Conservation Measure 26-01 applies.

16. There shall be no offal discharge in this fishery.

17. Conservation Measures 22-06 and 22-07 apply.

Conservation Measure 42-01 (2008)

Limits on the fishery for Champsocephalus gunnari in Statistical Subarea 48.3 in the 2008/09 season

(Species: icefish; Area: 48.3; Season: 2008/09; Gear: trawl)

The Commission hereby adopts the following conservation measure in accordance with Conservation Measure 31-01:

Access 1. The fishery for Champsocephalus gunnari in Statistical Subarea 48.3 shall be conducted by vessels using trawls only. The use of bottom trawls in the directed fishery for Champsocephalus gunnari in Statistical Subarea 48.3 is prohibited.

2. Fishing for Champsocephalus gunnari shall be prohibited within 12 n miles of the coast of South Georgia during the period 1 March to 31 May.

Catch limit 3. The total catch of Champsocephalus gunnari in Statistical Subarea 48.3 in the 2008/09 season shall be limited to 3 834 tonnes.

4. Where any haul contains more than 100 kg of Champsocephalus gunnari, and more than 10% of the Champsocephalus gunnari by number are smaller than 240 mm total length, the fishing vessel shall move to another fishing location at least 5 n miles distant .¹ The fishing vessel shall not return to any point within 5 n miles of the location where the catch of small Champsocephalus gunnari exceeded 10%, for a period of at least five days ². The location where the catch of small Champsocephalus gunnari exceeded 10% is defined as the path followed by the fishing vessel from the point at which the fishing gear was first deployed from the fishing vessel to the point at which the fishing gear was retrieved by the fishing vessel.

Season 5. For the purpose of the trawl fishery for Champsocephalus gunnari in Statistical Subarea 48.3, the 2008/09 season is defined as the period from 15 November 2008 to 14 November 2009, or until the catch limit is reached, whichever is sooner.

By-catch 6. The by-catch in this fishery shall be regulated as set out in Conservation Measure 33-01. If, in the course of the directed fishery for Champsocephalus gunnari, the by-catch in any one haul of any of the species named in Conservation Measure 33-01 is greater than 100 kg and exceeds 5% of the total catch of all fish by weight, or is equal to or greater than 2 tonnes, then the fishing vessel shall move to another location at least 5 n miles distant .¹ The fishing vessel shall not return to any point within 5 n miles of the location where the by-catch of species named in Conservation Measure 33-01 exceeded 5% for a period of at least five days .² The location where the by-catch exceeded 5% is defined as the path followed by the fishing vessel from the point at which the fishing gear was first deployed from the fishing vessel to the point at which the fishing gear was retrieved by the fishing vessel.

Mitigation 7. The operation of this fishery shall be carried out in accordance with Conservation Measure 25-03 so as to minimise the incidental mortality of seabirds in the course of the fishery. Vessels shall use net binding ³ and consider adding weight to the codend to reduce seabird captures during shooting operations.

8. Should any vessel catch a total of 20 seabirds, it shall cease fishing and shall be excluded from further participation in the fishery in the 2008/09 season.

Observers 9. Each vessel participating in this fishery shall have at least one scientific observer appointed in accordance with the CCAMLR Scheme of International Scientific Observation, and where possible one additional scientific observer, on board throughout all fishing activities within the fishing period.

Data: Catch/Effort 10. For the purpose of implementing this conservation measure in the 2008/09 season, the following shall apply:

(i) The Five-day Catch and Effort Reporting System set out in Conservation Measure 23-01;

(ii) the Monthly Fine-Scale Catch and Effort Reporting System set out in Conservation Measure 23-04. Fine-scale data shall be submitted on a haul-by-haul basis.

11. For the purpose of Conservation Measures 23-01 and 23-04, the target species is Champsocephalus gunnari and by-catch species are defined as any species other than Champsocephalus gunnari.

Data: Biological 12. Fine-scale biological data, as required under Conservation Measure 23-05, shall be collected and recorded. Such data shall be reported in accordance with the CCAMLR Scheme of International Scientific Observation.

Environmental protection 13. Conservation Measure 26-01 applies.

¹ This provision concerning the minimum distance separating fishing locations is adopted pending the adoption of a more appropriate definition of a fishing location by the Commission.

² The specified period is adopted in accordance with the reporting period specified in Conservation Measure 23-01, pending the adoption of a more appropriate period by the Commission.

³ See SC-CAMLR-XXV, Annex 5, Appendix D, paragraph 59 for guidelines for net binding.

Conservation Measure 42-02 (2008)

Limits on the fishery for Champsocephalus gunnari in Statistical Division 58.5.2 in the 2008/09 season

(Species: icefish; Area: 58.5.2; Season: 2008/09; Gear: trawl)

Access 1. The fishery for Champsocephalus gunnari in Statistical Division 58.5.2 shall be conducted by vessels using trawls only.

2. For the purpose of this fishery for Champsocephalus gunnari, the area open to the fishery is defined as that portion of Statistical Division 58.5.2 that lies within the area enclosed by a line:

(i) Starting at the point where the meridian of longitude 72°15′E intersects the Australia-France Maritime Delimitation Agreement Boundary then south along the meridian to its intersection with the parallel of latitude 53°25′S;

(ii) Then east along that parallel to its intersection with the meridian of longitude 74° E;

(iii) Then northeasterly along the geodesic to the intersection of the parallel of latitude 52°40′S and the meridian of longitude 76° E;

(iv) Then north along the meridian to its intersection with the parallel of latitude 52° S;

(v) Then northwesterly along the geodesic to the intersection of the parallel of latitude 51° S with the meridian of longitude 74°30′E;

(vi) Then southwesterly along the geodesic to the point of commencement.

3. A chart illustrating the above definition is appended to this conservation measure (Annex 42-02/A). Areas in Statistical Division 58.5.2 outside that defined above shall be closed to directed fishing for Champsocephalus gunnari.

Catch limit 4. The total catch of Champsocephalus gunnari in Statistical Division 58.5.2 in the 2008/09 season shall be limited to 102 tonnes.

5. Where any haul contains more than 100 kg of Champsocephalus gunnari, and more than 10% of the Champsocephalus gunnari by number are smaller than the specified minimum legal total length, the fishing vessel shall move to another fishing location at least 5 n miles distant ¹. The fishing vessel shall not return to any point within 5 n miles of the location where the catch of small Champsocephalus gunnari exceeded 10% for a period of at least five days.² The location where the catch of small Champsocephalus gunnari exceeded 10% is defined as the path followed by the fishing vessel from the point at which the fishing gear was first deployed from the fishing vessel to the point at which the fishing gear was retrieved by the fishing vessel. The minimum legal total length shall be 240 mm.

Season 6. For the purpose of the trawl fishery for Champsocephalus gunnari in Statistical Division 58.5.2, the 2008/09 season is defined as the period from 1 December 2008 to 30 November 2009, or until the catch limit is reached, whichever is sooner.

By-catch 7. Fishing shall cease if the by-catch of any species reaches its by-catch limit as set out in Conservation Measure 33-02.

Mitigation 8. The operation of this fishery shall be carried out in accordance with Conservation Measure 25-03 so as to minimise the incidental mortality of seabirds in the course of fishing.

Observers 9. Each vessel participating in this fishery shall have at least one scientific observer, and may include one appointed in accordance with the CCAMLR Scheme of International Scientific Observation, on board throughout all fishing activities within the fishing period.

Data: Catch/Effort 10. For the purpose of implementing this conservation measure in the 2008/09 season, the following shall apply:

(i) The Ten-day Catch and Effort Reporting System set out in Annex 42-02/B;

(ii) The Monthly Fine-scale Catch and Effort Reporting System set out in Annex 42-02/B. Fine-scale data shall be submitted on a haul-by-haul basis.

11. For the purpose of Annex 42-02/B, the target species is Champsocephalus gunnari and by-catch species are defined as any species other than Champsocephalus gunnari.

Data: Biological 12. Fine-scale biological data, as required under Annex 42-02/B, shall be collected and recorded. Such data shall be reported in accordance with the CCAMLR Scheme of International Scientific Observation.

Environmental protection 13. Conservation Measure 26-01 applies.

¹ This provision concerning the minimum distance separating fishing locations is adopted pending the adoption of a more appropriate definition of a fishing location by the Commission.

² The specified period is adopted in accordance with the reporting period specified in Conservation Measure 23-01, pending the adoption of a more appropriate period by the Commission.

Annexes 42-02/A and 42-02/B are unchanged

Conservation Measure 51-01 (2008)

Precautionary catch limitations on Euphausia superba in Statistical Subareas 48.1, 48.2, 48.3, and 48.4

(Species: krill; Area: 48.1. 48.2, 48.3, 48.4; Season: all; Gear: all)

The Commission,

Noting that it has agreed (CCAMLR-XIX, paragraph 10.11) that the krill catches in Statistical Subareas 48.1, 48.2, 48.3 and 48.4 shall not exceed a set level, defined herein as a trigger level, until a procedure for division of the overall catch limit into smaller management units has been established, and that the Scientific Committee has been directed to provide advice on such a subdivision,

Recognising that the Scientific Committee agreed a trigger level of 620 000 tonnes, adopts the following measure in accordance with Article IX of its Convention:

Access 1. The fishery for Euphausia superba in Statistical Subareas 48.1, 48.2, 48.3 and 48.4 shall be conducted by vessels using fishing methods listed in Conservation Measure 21-03, Annex A only.

Catch limit 2. The total combined catch of Euphausia superba in Statistical Subareas 48.1, 48.2, 48.3 and 48.4 shall be limited to 3.47 million tonnes in any fishing season.

Trigger level 3. Until the Commission has defined an allocation of this total catch limit between smaller management units,¹ based on the advice from the Scientific Committee, the total combined catch in Statistical Subareas 48.1, 48.2, 48.3 and 48.4 shall be further limited to 620 000 tonnes in any fishing season.

4. This measure shall be kept under review by the Commission, taking into account the advice of the Scientific Committee.

Season 5. A fishing season begins on 1 December and finishes on 30 November of the following year.

Mitigation 6. The operation of this fishery shall be carried out in accordance with Conservation Measure 25-03 so as to minimise the incidental mortality of seabirds in the course of fishing.

7. The use of marine mammal exclusion devices on trawls is mandatory.

Data 8. For the purpose of implementing this conservation measure, the data requirements set out in Conservation Measure 23-06 shall apply.

Environmental protection 9. Conservation Measure 26-01 applies.

¹ Defined in CCAMLR-XXI, paragraph 4.5.

Conservation Measure 51-02 (2008)

Precautionary catch limitation on Euphausia superba in Statistical Division 58.4.1

(Species: krill; Area: 58.4.1; Season: all; Gear: trawl)

Access 1. The fishery for Euphausia superba in Statistical Division 58.4.1 shall be conducted by vessels using fishing methods listed in Conservation Measure 21-03, Annex A only.

Catch limit 2. The total catch of Euphausia superba in Statistical Division 58.4.1 shall be limited to 440 000 tonnes in any fishing season.

3. The total catch shall be further subdivided into two subdivisions within Statistical Division 58.4.1 as follows: west of 115° E, 277 000 tonnes; and east of 115° E, 163 000 tonnes.

4. This measure shall be kept under review by the Commission, taking into account the advice of the Scientific Committee.

Season 5. A fishing season begins on 1 December and finishes on 30 November the following year.

Mitigation 6. The operation of this fishery shall be carried out in accordance with Conservation Measure 25-03 so as to minimise the incidental mortality of seabirds in the course of fishing.

7. The use of marine mammal exclusion devices on trawls is mandatory.

Data 8. For the purposes of implementing this conservation measure, the data requirements set out in Conservation Measure 23-06 shall apply.

Environmental protection 9. Conservation Measure 26-01 applies.

Conservation Measure 51-03 (2008)

Precautionary catch limitation on Euphausia superba in Statistical Division 58.4.2

(Species: krill; Area: 58.4.2; Season: all; Gear: trawl)

Access 1. The fishery for Euphausia superba in Statistical Division 58.4.2 shall be conducted by vessels using fishing methods listed in Conservation Measure 21-03, Annex A only.

Catch limit 2. The total catch of Euphausia superba in Statistical Division 58.4.2 shall be limited to 2.645 million tonnes in any fishing season.

3. The total catch limit shall be further subdivided into two subdivisions within Statistical Division 58.4.2 as follows: west of 55° E, 1.448 million tonnes; and east of 55° E, 1.080 million tonnes.

Trigger level ¹ 4. Until the Commission has defined an allocation of this total catch limit between smaller management units, as the Scientific Committee may advise, the total catch in Division 58.4.2 shall be limited to 260 000 tonnes west of 55° E and 192 000 tonnes east of 55° E in any fishing season.

5. This measure shall be kept under review by the Commission, taking into account the advice of the Scientific Committee.

Season 6. A fishing season begins on 1 December and finishes on 30 November of the following year.

Mitigation 7. The operation of this fishery shall be carried out in accordance with Conservation Measure 25-03 so as to minimise the incidental mortality of seabirds in the course of fishing.

8. The use of marine mammal exclusion devices on trawls is mandatory.

Observers 9. Each vessel participating in the fishery shall have at least one scientific observer in accordance with the CCAMLR Scheme of International Scientific Observation or a domestic scientific observer fulfilling the requests in the scheme, and where possible one additional scientific observer, on board throughout all fishing activities within the fishing period.²

Data 10. For the purposes of implementing this conservation measure, the data requirements set out in Conservation Measure 23-06 shall apply.

Environmental protection 11. Conservation Measure 26-01 applies.

¹ A trigger level is a set level that the catch shall not exceed until a procedure for the division of the overall catch limit into smaller management units, upon which the Scientific Committee has been directed to provide advice, has been established.

² Bearing in mind the limited ecological information from research and fisheries observers in Statistical Division 58.4.2 compared to Statistical Area 48, the Commission recognised the need to collect scientific data from the fishery. This paragraph applies only to the krill fishery in Statistical Division 58.4.2 and shall be revised depending on the advice of the Scientific Committee on a systematic scheme for scientific observation in the krill fishery or reviewed within three years, whichever comes earlier.

Conservation Measure 51-04 (2008)

General measure for exploratory fisheries for Euphausia superba in the Convention Area in the 2008/09 season

(Species: krill; Area: various; Season: 2008/09; Gear: various)

The Commission hereby adopts the following conservation measure:

1. This conservation measure applies to exploratory fisheries for Antarctic krill (Euphausia superba) except for such fisheries where the Commission has given specific exemptions, and only to the extent of those exemptions.

2. Fishing in any statistical subarea or division shall cease when the reported catch reaches the specified catch limit ¹ and that subarea or division shall be closed to fishing for the remainder of the season. No more than 75% of the catch limit shall be taken within 60 n miles of known breeding colonies of land-based krill-dependent predators.

3. In order to give effect to paragraph 2 above:

(i) The precise geographic position of a trawl haul will be determined by the midpoint of the path between the start point and end point of the haul for the purposes of catch and effort reporting;

(ii) For the purposes of this conservation measure, fishing is defined as any time that fishing gear, conventional trawls, pumped codends, and continuous pumping gear are in the water;

(iii) The Secretariat shall notify Contracting Parties participating in these fisheries when the total catch of Euphausia superba combined in any statistical subarea or division is likely to reach the specified catch limit, and of the closure of that subarea or division when that limit is reached.² No part of a trawl path may lie within a closed subarea or division.

4. The total green weight of krill caught and lost shall be reported.

5. Each vessel participating in the exploratory fisheries for krill during the 2008/09 season shall have one observer appointed in accordance with the CCAMLR Scheme of International Scientific Observation, and where possible one additional scientific observer, on board throughout all fishing activities within the fishing season.

6. The Data Collection Plan (Annex 51-04/A) and Research Plan (Annex 51-04/B) shall be implemented. Data collected pursuant to the Data Collection and Research Plans for the period up to 1 May 2009 shall be reported to CCAMLR by 1 June 2009 so that the data will be available to the meeting of the Working Group on Ecosystem Monitoring and Management (WG-EMM) in 2009. Such data taken after 1 June 2009 shall be reported to CCAMLR not later than three months after the closure of the fishery, but, where possible, submitted in time for the consideration of the Scientific Committee.

7. Contracting Parties who choose not to participate in the fishery prior to the commencement of the fishery shall inform CCAMLR of changes in their plans no later than one month before the start of the fishery. If, for whatever reason, Contracting Parties are unable to participate in the fishery, they shall inform CCAMLR no later than one week after finding that they cannot participate. The Secretariat will inform all Contracting Parties immediately after such notification is received.

¹ Unless otherwise specified, the catch limit for krill shall be 15 000 tonnes in any statistical subarea or division.

² The closure of fisheries is governed by Conservation Measure 31-02.

Annex 51-04/A

Data Collection Plans for Exploratory Krill Fisheries

1. During normal fishing operations, all vessels will comply with the Ten-day Catch and Effort Reporting System (Conservation Measure 23-02) and the Monthly Fine-scale Catch, Effort and Biological Data Reporting Systems (Conservation Measures 23-04 and 23-05), including requirements for the provision of haul-by-haul data.

2. During normal fishing operations, all data required by the CCAMLR Scientific Observers Manual for krill fisheries will be collected.

3. Detailed information on the configuration of every commercial trawl used during normal fishing operations and every research net used during required research operations will be reported to CCAMLR no later than one month after the conclusion of each fishing trip.

4. Data collected from research net hauls shall include:

(i) The start and end positions and times of the haul;

(ii) The date on which the haul was conducted;

(iii) Characteristics of the haul such as tow speed, the maximum amount of wire payed out during a tow, the average wire angle during the tow, and calibrated flow-meter values that can be used to provide accurate measures of volume filtered;

(iv) An estimate of the total catch (in numbers or weight) of krill; and

(v) A random sample of up to 200 krill or the entire catch, whichever is less, to be taken from the haul by the observer—the length, sex and maturity stage should be measured and recorded for all krill according to protocols in the CCAMLR Scientific Observers Manual.

5. At a minimum, data collected from acoustic transects shall:

(i) As far as possible, be recorded following protocols specified for the CCAMLR-2000 Survey;

(ii) Be linked to position data recorded from a GPS;

(iii) Be continuously recorded and then electronically archived every five days or whenever the vessel moves between exploratory units, which ever occurs most frequently.

6. Data collected during research operations conducted by fishing vessels shall be reported to CCAMLR no later than one month after the conclusion of each fishing trip.

7. Data collected by Contracting Parties conducting fishery-independent research operations shall, as applicable, be submitted to CCAMLR following guidelines for the submission of CEMP data and data collected during the CCAMLR-2000 Survey. These data shall be submitted in sufficient time to be considered by the next meeting of WG-EMM.

Annex 51-04/B

Research Plans for Exploratory Krill Fisheries

1. Activities under this Research Plan shall not be exempted from any conservation measure in force.

2. This plan applies to all statistical subarea or divisions.

3. A schematic representation of the plans described herein is provided in Figure 1.

4. Contracting Parties intending to conduct exploratory krill fisheries shall choose one of the following four Research and Data Collection Plans and advise CCAMLR of their choice at least one month prior to initiating any fishing activities.

(i) Predator monitoring

(ii) A research survey conducted from a scientific vessel

(iii) Acoustic transects by fishing vessels, or

(iv) Research trawls by fishing vessels.

5. In cases where Contracting Parties select plan (i), predator monitoring, from the list in paragraph 4 above, those Parties shall, as far as possible, follow CEMP Standard Methods. Monitoring shall be conducted for a period of time sufficient both to cover the entire breeding period of land-based predators and to cover the duration of any exploratory fishing that occurs during their breeding season.

6. In cases where Contracting Parties select plan (ii), research survey conducted from a scientific vessel, from the list in paragraph 4 above, Contracting Parties shall, as far as possible, follow all data collection and analysis protocols specified for the CCAMLR-2000 Survey.

7. In cases where Contracting Parties select plans (iii) acoustic transects by fishing vessels, or (iv) research trawls by fishing vessels, from the list in paragraph 4 above, vessels participating in exploratory krill fisheries shall first conduct normal exploratory fishing operations and then conduct additional research requirements. Vessels will conduct normal fishing operations until they voluntarily decide to stop fishing for the season or until the catch limit for the exploratory fishery is reached. Vessels will then complete all required research operations. The research requirements must be completed within a fishing season.

8. For the purposes of this conservation measure, exploratory units are defined as areas of 1° latitude by 1° longitude size, and the vertices of these units shall occur at integer points of latitude and longitude within statistical subarea or divisions.

9. During normal exploratory fishing operations, vessels can choose to fish in any exploratory unit, however one set of acoustic transects or one set of research hauls must be conducted in each exploratory unit visited during normal fishing operations.

10. Plans (iii) acoustic transects by fishing vessels, and (iv) research trawls by fishing vessels, from the list in paragraph 4 above shall be conducted as follows:

(i) Upon completion (either voluntarily or if the catch limit has been reached) of normal exploratory fishing operations, the vessel will transit to the nearest previously unvisited exploratory unit and begin research operations;

(ii) The vessel will determine how many previously unvisited exploratory units must be surveyed during research operations by dividing the catch obtained during normal exploratory fishing operations by 2,000 tonnes and rounding that number to the nearest integer;

(iii) The vessel will then select a number of exploratory units equal to the number of units determined by the calculation in item (ii) above and conduct one set of acoustic transects or one set of research hauls in each of these units;

(iv) Exploratory units visited during research operations must not have been visited during normal exploratory fishing operations;

(v) The survey will be conducted in a way that ensures the exploratory units visited during research operations will surround the units in which normal exploratory fishing operations previously occurred.

11. Research hauls shall be conducted with nekton trawls commonly used in scientific research (e.g., IKMT or RMT type nets) that have 4-5 mm mesh, including the codend. Every research haul shall be a randomly located, oblique haul made to a depth of 200 m or 25 m above the bottom (whichever is less) with a duration of 0.5 h. A set of research hauls is defined as three research hauls separated by a minimum of 10 n miles.

12. Acoustic transects shall be conducted using a scientific-quality echosounder collecting information at 120 kHz. The echosounder should be calibrated. Every acoustic transect shall be a randomly located, continuous path travelled at constant speed of 10 knots or less and in a constant direction. The minimum distance between the start and end points of a transect shall be 30 n miles, and a set of acoustic transects is defined as two transects separated by at least 10 n miles.

13. All acoustic transects, both during normal exploratory fishing operations and research operations, shall be accompanied by at least one net haul. These hauls can be conducted either with commercial trawls or with research trawls. Trawls that accompany acoustic transects can be conducted during the transect or immediately after the completion of the transect. In the latter case, the trawl shall be conducted along a previous segment of the transect line. Trawls that accompany acoustic transects shall be at least 0.5 h in duration, or sufficient time to achieve a representative sample, and the data collected from these hauls shall be the same as those required for research hauls.

Conservation Measure 51-05 (2008)

Limits on the exploratory fishery for Euphausia superba in Statistical Subarea 48.6 in the 2008/09 season

(Species: krill; Area: 48.6; Season: 2008/09; Gear: trawl)

The Commission hereby adopts the following conservation measure in accordance with Conservation Measure 21-02, and notes that this measure would be for one year and that data arising from these activities would be reviewed by the Scientific Committee:

Access 1. Fishing for Euphausia superba in Statistical Subarea 48.6 shall be limited to the exploratory trawl fishery by Norway. The fishery shall be conducted by one (1) Norwegian flagged vessel using one of the fishing techniques in Annex 21-03/A.

Catch limit 2. The total catch of Euphausia superba in Statistical Subarea 48.6 in the 2008/09 season shall not exceed a precautionary catch limit of 15 000 tonnes, of which no more than 11 250 tonnes shall be taken from areas within 60 n miles of known breeding colonies of land-based krill-dependent predators.

Season 3. For the purpose of the exploratory fishery for Euphausia superba in Statistical Subarea 48.6, the 2008/09 season is defined as the period from 1 December 2008 to 30 November 2009.

Mitigation 4. The exploratory fishery for Euphausia superba in Statistical Subarea 48.6 shall be carried out in accordance with the provisions of Conservation Measure 25-03 so as to minimise the incidental mortality of seabirds in the course of fishing.

5. The use of marine mammal exclusion devices on trawls is mandatory.

Observers 6. The vessel participating in the fishery shall have one observer appointed in accordance with the CCAMLR Scheme of International Scientific Observation, and where possible an additional observer, on board throughout all fishing activities within the fishing period.

Data: Catch/Effort 7. For the purpose of implementing this conservation measure in the 2008/09 season, the following shall apply:

(i) The Ten-day Catch and Effort Reporting System set out in Conservation Measure 23-02;

(ii) The Monthly Fine-scale Catch and Effort Reporting System set out in Conservation Measure 23-04. Fine-scale data shall be submitted on a haul-by-haul basis.

8. For the purpose of Conservation Measures 23-01 and 23-04, the target species is Euphausia superba and by-catch species are defined as any species other than Euphausia superba.

Data: Biological 9. Fine-scale biological data, as required under Conservation Measure 23-05, shall be collected and recorded. Such data shall be reported in accordance with the CCAMLR Scheme of International Scientific Observation.

Research 10. Each vessel participating in this exploratory fishery shall conduct fishery-based research in accordance with the Research Plan described in Conservation Measure 51-04.

Environmental protection 11. Conservation Measure 26-01 applies.

12. There shall be no offal discharge in this fishery.

Conservation Measure 52-01 (2008)

Limits on the fishery for crab in Statistical Subarea 48.3 in the 2008/09 season

(Species: crab; Area: 48.3; Season: 2008/09; Gear: pot)

The Commission hereby adopts the following conservation measure in accordance with Conservation Measure 31-01:

Access 1. The fishery for crab in Statistical Subarea 48.3 shall be conducted by vessels using pots only. The crab fishery is defined as any commercial harvest activity in which the target species is any member of the crab group (Order Decapoda, Suborder Reptantia).

2. The crab fishery shall be limited to one vessel per Member.

3. Each Member intending to participate in the crab fishery shall notify the CCAMLR Secretariat at least three months in advance of starting fishing of the name, type, size, registration number, radio call sign, and Research and Fishery Operation Plans of the vessel that the Member has authorised to participate in the crab fishery.

Catch limit 4. The total catch of crab in Statistical Subarea 48.3 in the 2008/09 season shall not exceed a precautionary catch limit of 1 600 tonnes.

5. The crab fishery shall be limited to sexually mature male crabs—all female and undersized male crabs caught shall be released unharmed. In the case of Paralomis spinosissima and Paralomis formosa, males with a minimum carapace width of 94 and 90 mm respectively, may be retained in the catch.

Season 6. For the purpose of the pot fishery for crab in Statistical Subarea 48.3, the 2008/09 season is defined as the period from 1 December 2008 to 30 November 2009, or until the catch limit is reached, whichever is sooner.

By-catch 7. The by-catch of Dissostichus eleginoides shall be counted against the catch limit in the fishery for Dissostichus eleginoides in Statistical Subarea 48.3.

Observers 8. Each vessel participating in this fishery shall have at least one scientific observer appointed in accordance with the CCAMLR Scheme of International Scientific Observation, and where possible one additional scientific observer, on board throughout all fishing activities within the fishing period. Scientific observers shall be afforded unrestricted access to the catch for statistical random sampling prior to, as well as after, sorting by the crew.

Data: Catch/Effort 9. For the purpose of implementing this conservation measure in the 2008/09 season, the following shall apply:

(i) The Ten-day Catch and Effort Reporting System set out in Conservation Measure 23-02;

(ii) The Monthly Fine-scale Catch and Effort Reporting System set out in Conservation Measure 23-04. Fine-scale data shall be submitted on a haul-by-haul basis.

10. For the purpose of Conservation Measures 23-02 and 23-04 the target species is crab and by-catch species are defined as any species other than crab.

Data: Biological 11. Fine-scale biological data, as required under Conservation Measure 23-05, shall be collected and recorded. Such data shall be reported in accordance with the CCAMLR Scheme of International Scientific Observation.

Research 12. Each vessel participating in this exploratory fishery shall conduct fishery-based research in accordance with the data requirements described in Annex 52-01/A and the experimental harvest regime described in Annex 52-01/B. Data collected for the period up to 31 August 2009 shall be reported to CCAMLR by 30 September 2009 so that the data will be available to the meeting of the Working Group on Fish Stock Assessment (WG-FSA) in 2009. Such data collected after 31 August 2009 shall be reported to CCAMLR not later than three months after the closure of the fishery.

Environmental protection 13. Conservation Measure 26-01 applies.

Annex 52-01/A

Data Requirements

Catch and Effort Data

Cruise Descriptions

Cruise code, vessel code, permit number, year.

Pot Descriptions

Diagrams and other information, including pot shape, dimensions, mesh size, funnel position, aperture and orientation, number of chambers, presence of an escape port.

Effort Descriptions

Date, time, latitude and longitude of the start of the set, compass bearing of the set, total number of pots set, spacing of pots on the line, number of pots lost, depth, soak time, bait type.

Catch Descriptions

Retained catch in numbers and weight, by-catch of all species (see Table 1), incremental record number for linking with sample information.

Biological Data

For these data, crabs are to be sampled from the line hauled just prior to noon, by collecting the entire contents of a number of pots spaced at intervals along the line so that between 35 and 50 specimens are represented in the subsample.

Cruise Descriptions

Cruise code, vessel code, permit number.

Sample Descriptions

Date, position at start of the set, compass bearing of the set, line number.

Data

Species, sex, length of at least 35 individuals, presence/absence of rhizocephalan parasites, record of the destination of the crab (kept, discarded, destroyed), record of the pot number from which the crab comes.

Annex 52-01/B

Experimental Harvest Regime

This annex applies to all crab fishing within Statistical Subarea 48.3. Every vessel participating in the crab fishery in Statistical Subarea 48.3 shall conduct fishing operations in accordance with an experimental harvest regime as outlined below:

1. Vessels shall conduct the experimental harvest regime at the start of their first season of participation in the crab fishery and the following conditions shall apply:

(i) Every vessel when undertaking an experimental harvesting regime shall expend its first 200 000 pot hours of effort within a total area delineated by 12 blocks of 0.5° latitude by 1.0° longitude. For the purposes of this conservation measure, these blocks shall be numbered A to L. In Annex 52-01/C, the blocks are illustrated (Figure 1), and the geographic position is denoted by the coordinates of the northeast corner of the block. For each string, pot hours shall be calculated by taking the total number of pots on the string and multiplying that number by the soak time (in hours) for that string. Soak time shall be defined for each string as the time between start of setting and start of hauling;

(ii) Vessels shall not fish outside the area delineated by the 0.5° latitude by 1.0° longitude blocks prior to completing the experimental harvesting regime;

(iii) Vessels shall not expend more than 30 000 pot hours in any single block of 0.5° latitude by 1.0° longitude;

(iv) If a vessel returns to port before it has expended 200 000 pot hours in the experimental harvesting regime, the remaining pot hours shall be expended before it can be considered that the vessel has completed the experimental harvesting regime;

(v) After completing 200 000 pot hours of experimental fishing, it shall be considered that vessels have completed the experimental harvesting regime and they shall be permitted to commence fishing in a normal fashion.

2. Data collected during the experimental harvest regime up to 30 June 2009 shall be submitted to CCAMLR by 31 August 2009.

3. Vessels that complete the experimental harvest regime shall not be required to conduct experimental fishing in future seasons.

4. Fishing vessels shall participate in the experimental harvest regime independently (i.e. vessels may not cooperate to complete phases of the experiment).

5. Crabs taken by any vessel for research purposes will be considered as part of any catch limits in force for each species taken, and shall be reported to CCAMLR as part of the annual STATLANT returns.

6. All vessels participating in the experimental harvest regime shall carry at least one scientific observer, appointed in accordance with the CCAMLR Scheme of International Scientific Observation, on board during all fishing activities.

Conservation Measure 52-02 (2008)

Limits on the exploratory fishery for crab in Statistical Subarea 48.2 in the 2008/09 season

(Species: Crab; Area: 48.2; Season: 2008/09; Gear: pot)

The Commission hereby adopts the following conservation measure in accordance with Conservation Measure 21-01, and notes that this measure would be for one year and that data arising from these activities would be reviewed by the Scientific Committee:

Access 1. The fishery for crab in Statistical Subarea 48.2 shall be conducted by vessels using pots only. The crab fishery is defined as any harvest activity in which the target species is any member of the crab group (Order Decapoda, Suborder Reptantia). The fishery in the 2008/09 season shall be conducted by one (1) Russian flagged vessel using pots only.

2. The crab fishery shall be limited to one vessel per Member.

Catch limit 3. The total catch of crab in Statistical Subarea 48.2 in the 2008/09 season shall not exceed a precautionary catch limit of 250 tonnes.

4. The crab fishery shall be limited to sexually mature male crabs—all female and undersized male crabs caught shall be released unharmed. In the case of Paralomis spinosissima and Paralomis formosa, males with a minimum carapace width of 94 and 90 mm respectively, may be retained in the catch.

Season 5. For the purpose of the pot fishery for crab in Statistical Subarea 48.2, the 2008/09 season is defined as the period from 1 December 2008 to 30 November 2009, or until the catch limit is reached, whichever is sooner.

By-catch 6. All by-catch of finfish shall be recorded for length, identified to species and then released to the sea with the least possible handling. Before release, all live specimens of Dissostichus spp. shall be measured and tagged. Full biological data shall be taken from all dead finfish by-catch. A total by-catch limit of 0.5 tonnes shall apply for all dead finfish.

Observers 7. Each vessel participating in this fishery shall have at least one scientific observer appointed in accordance with the CCAMLR Scheme of International Scientific Observation, and where possible one additional scientific observer, on board throughout all fishing activities within the fishing period. Scientific observers shall be afforded unrestricted access to the catch for statistical random sampling prior to, as well as after, sorting by the crew.

Data: Catch/Effort 8. For the purpose of implementing this conservation measure in the 2008/09 season, the following shall apply:

(i) The Ten-day Catch and Effort Reporting System set out in Conservation Measure 23-02;

(ii) The Monthly Fine-scale Catch and Effort Reporting System set out in Conservation Measure 23-04. Fine-scale data shall be submitted on a haul-by-haul basis.

9. For the purpose of Conservation Measures 23-02 and 23-04 the target species is crab and by-catch species are defined as any species other than crab.

Data: Biological 10. Fine-scale biological data, as required under Conservation Measure 23-05, shall be collected and recorded. Such data shall be reported in accordance with the CCAMLR Scheme of International Scientific Observation.

Research 11. Each vessel participating in this exploratory fishery shall conduct fishery-based research in accordance with the data requirements described in Annex 52-02/A and the experimental harvest regime described in Annex 52-02/B. Data collected for the period up to 31 August 2009 shall be reported to CCAMLR by 30 September 2009 so that the data will be available to the meeting of the Working Group on Fish Stock Assessment (WG-FSA) in 2009. Such data collected after 31 August 2009 shall be reported to CCAMLR not later than three months after the closure of the fishery.

Environmental protection 12. Conservation Measure 26-01 applies.

13. Conservation Measures 22-06 and 22-07 apply.

Annex 52-02/A

Data Requirements

Catch and Effort Data

Cruise Descriptions

Cruise code, vessel code, permit number, year.

Pot Descriptions

Diagrams and other information, including pot shape, dimensions, mesh size, funnel position, aperture and orientation, number of chambers, presence of an escape port.

Effort Descriptions

Date, time, latitude and longitude of the start of the set, compass bearing of the set, total number of pots set, spacing of pots on the line, number of pots lost, depth, soak time, bait type.

Catch Descriptions

Retained catch in numbers and weight, by-catch of all species (see Table 1), incremental record number for linking with sample information.

Biological Data

For these data, crabs are to be sampled from the line hauled just prior to noon, by collecting the entire contents of a number of pots spaced at intervals along the line so that between 35 and 50 specimens are represented in the subsample.

Cruise Descriptions

Cruise code, vessel code, permit number.

Sample Descriptions

Date, position at start of the set, compass bearing of the set, line number.

Data

Species, sex, length of at least 35 individuals, presence/absence of rhizocephalan parasites, record of the destination of the crab (kept, discarded, destroyed), record of the pot number from which the crab comes.

Annex 52-02/B

Experimental Harvest Regime

This annex applies to all crab fishing within Statistical Subarea 48.2. Every vessel participating in the crab fishery in Statistical Subarea 48.2 shall conduct fishing operations in accordance with an experimental harvest regime as outlined below:

1. Vessels shall conduct the experimental harvest regime at the start of their first season of participation in the crab fishery and the following conditions shall apply:

(i) Every vessel when undertaking an experimental harvesting regime shall expend its first 200 000 pot hours of effort within a total area delineated by 12 blocks of 0.5° latitude by 1.0° longitude. For the purposes of this conservation measure, these blocks shall be numbered A to L. In Annex 52-02/C, the blocks are illustrated (Figure 1), and the geographic position is denoted by the coordinates of the northeast corner of the block. For each string, pot hours shall be calculated by taking the total number of pots on the string and multiplying that number by the soak time (in hours) for that string. Soak time shall be defined for each string as the time between start of setting and start of hauling;

(ii) Vessels shall not fish outside the area delineated by the 0.5° latitude by 1.0° longitude blocks prior to completing the experimental harvesting regime;

(iii) Vessels shall not expend more than 30,000 pot hours in any single block of 0.5° latitude by 1.0° longitude;

(iv) If a vessel returns to port before it has expended 200 000 pot hours in the experimental harvesting regime, the remaining pot hours shall be expended before it can be considered that the vessel has completed the experimental harvesting regime;

(v) After completing 200,000 pot hours of experimental fishing, it shall be considered that vessels have completed the experimental harvesting regime and they shall be permitted to commence fishing in a normal fashion.

2. Data collected during the experimental harvest regime up to 30 June 2009 shall be submitted to CCAMLR by 31 August 2009.

3. Vessels that complete the experimental harvest regime shall not be required to conduct experimental fishing in future seasons.

4. Fishing vessels shall participate in the experimental harvest regime independently (i.e., vessels may not cooperate to complete phases of the experiment).

5. Crabs taken by any vessel for research purposes will be considered as part of any catch limits in force for each species taken, and shall be reported to CCAMLR as part of the annual STATLANT returns.

6. All vessels participating in the experimental harvest regime shall carry at least one scientific observer, appointed in accordance with the CCAMLR Scheme of International Scientific Observation, on board during all fishing activities.

Conservation Measure 52-03 (2008)

Limits on the exploratory fishery for crab in Statistical Subarea 48.4 in the 2008/09 season

(Species: crab; Area: 48.4; Season: 2008/09; Gear: pot)

The Commission hereby adopts the following conservation measure in accordance with Conservation Measure 21-01, and notes that this measure would be for one year and that data arising from these activities would be reviewed by the Scientific Committee:

Access 1. The fishery for crab in Statistical Subarea 48.4 shall be conducted by vessels using pots only. The crab fishery is defined as any harvest activity in which the target species is any member of the crab group (Order Decapoda, Suborder Reptantia). The fishery in the 2008/09 season shall be conducted by one (1) Russian flagged vessels using pots only.

2. The crab fishery shall be limited to one vessel per Member.

Catch limit 3. The total catch of crab in Statistical Subarea 48.4 in the 2008/09 season shall not exceed a precautionary catch limit of 10 tonnes.

4. The crab fishery shall be limited to sexually mature male crabs—all female and undersized male crabs caught shall be released unharmed. In the case of Paralomis spinosissima and Paralomis formosa, males with a minimum carapace width of 94 and 90 mm, respectively, may be retained in the catch.

Season 5. For the purpose of the pot fishery for crab in Statistical Subarea 48.2, the 2008/09 season is defined as the period from 1 December 2008 to 30 November 2009, or until the catch limit is reached, whichever is sooner.

By-catch 6. All by-catch of finfish shall be recorded for length, identified to species and then released to the sea with the least possible handling. Before release, all live specimens of Dissostichus spp. shall be measured and tagged. Full biological data shall be taken from all dead finfish by-catch. A total by-catch limit of 0.5 tonnes shall apply for all dead finfish.

Observers 7. Each vessel participating in this fishery shall have at least one scientific observer appointed in accordance with the CCAMLR Scheme of International Scientific Observation, and where possible one additional scientific observer, on board throughout all fishing activities within the fishing period. Scientific observers shall be afforded unrestricted access to the catch for statistical random sampling prior to, as well as after, sorting by the crew.

Data: Catch/Effort 8. For the purpose of implementing this conservation measure in the 2008/09 season, the following shall apply:

(i) The Five-day Catch and Effort Reporting System set out in Conservation Measure 23-01;

(ii) The Monthly Fine-scale Catch and Effort Reporting System set out in Conservation Measure 23-04. Fine-scale data shall be submitted on a haul-by-haul basis.

9. For the purpose of Conservation Measures 23-02 and 23-04 the target species is crab and by-catch species are defined as any species other than crab.

Data: Biological 10. Fine-scale biological data, as required under Conservation Measure 23-05, shall be collected and recorded. Such data shall be reported in accordance with the CCAMLR Scheme of International Scientific Observation.

Research 11. Each vessel participating in this exploratory fishery shall conduct fishery-based research in accordance with the data requirements described in Annex 52-03/A and the experimental harvest regime described in Annex 52-03/B. Data collected for the period up to 31 August 2009 shall be reported to CCAMLR by 30 September 2009 so that the data will be available to the meeting of the Working Group on Fish Stock Assessment (WG-FSA) in 2009. Such data collected after 31 August 2009 shall be reported to CCAMLR not later than three months after the closure of the fishery.

Environmental protection 12. Conservation Measure 26-01 applies.

Annex 52-03/A

Data Requirements

Catch and Effort Data

Cruise Descriptions

Cruise code, vessel code, permit number, year.

Pot Descriptions

Diagrams and other information, including pot shape, dimensions, mesh size, funnel position, aperture and orientation, number of chambers, presence of an escape port.

Effort Descriptions

Date, time, latitude and longitude of the start of the set, compass bearing of the set, total number of pots set, spacing of pots on the line, number of pots lost, depth, soak time, bait type.

Catch Descriptions

Retained catch in numbers and weight, by-catch of all species (see Table 1), incremental record number for linking with sample information.

Biological Data

For these data, crabs are to be sampled from the line hauled just prior to noon, by collecting the entire contents of a number of pots spaced at intervals along the line so that between 35 and 50 specimens are represented in the subsample.

Cruise Descriptions

Cruise code, vessel code, permit number.

Sample Descriptions

Date, position at start of the set, compass bearing of the set, line number.

Data

Species, sex, length of at least 35 individuals, presence/absence of rhizocephalan parasites, record of the destination of the crab (kept, discarded, destroyed), record of the pot number from which the crab comes.

Annex 52-03/B

Experimental Harvest Regime

The following annex applies to all crab fishing within Statistical Subarea 48.4. Every vessel participating in the crab fishery in Statistical Subarea 48.4 shall conduct fishing operations in accordance with an experimental harvest regime as outlined below:

1. Vessels shall conduct the experimental harvest regime at the start of their first season of participation in the crab fishery and the following conditions shall apply:

(i) Every vessel when undertaking an experimental harvesting regime shall expend its first 30,000 pot hours of effort within a total area delineated by seven blocks distributed amongst seven island groups. For the purposes of this conservation measure, these blocks shall be numbered A to G. In Annex 52-03/C, the blocks are illustrated (Figure 1). For each string, pot hours shall be calculated by taking the total number of pots on the string and multiplying that number by the soak time (in hours) for that string. Soak time shall be defined for each string as the time between start of setting and start of hauling;

(ii) Vessels shall not fish outside the area delineated by the seven blocks prior to completing the experimental harvesting regime;

(iii) Vessels shall not expend more than 4 500 pot hours in any single island group;

(iv) If a vessel returns to port before it has expended 30 000 pot hours in the experimental harvesting regime, the remaining pot hours shall be expended before it can be considered that the vessel has completed the experimental harvesting regime;

(v) After completing 30 000 pot hours of experimental fishing, it shall be considered that vessels have completed the experimental harvesting regime and they shall be permitted to commence fishing in a normal fashion.

2. Data collected during the experimental harvest regime up to 30 June 2009 shall be submitted to CCAMLR by 31 August 2009.

3. Vessels that complete the experimental harvest regime shall not be required to conduct experimental fishing in future seasons.

4. Fishing vessels shall participate in the experimental harvest regime independently (i.e. vessels may not cooperate to complete phases of the experiment).

5. Crabs taken by any vessel for research purposes will be considered as part of any catch limits in force for each species taken, and shall be reported to CCAMLR as part of the annual STATLANT returns.

6. All vessels participating in the experimental harvest regime shall carry at least one scientific observer, appointed in accordance with the CCAMLR Scheme of International Scientific Observation, on board during all fishing activities.

Conservation Measure 61-01 (2008)

Limits on the exploratory fishery for Martialia hyadesi in Statistical Subarea 48.3 in the 2008/09 season

(Species: squid; Area: 48.3; Season: 2008/09; Gear: jig)

The Commission hereby adopts the following conservation measure in accordance with Conservation Measures 21-02 and 31-01:

Access 1. Fishing for Martialia hyadesi in Statistical Subarea 48.3 shall be limited to the exploratory jig fishery by notifying countries. The fishery shall be conducted by vessels using jigs only.

Catch limit 2. The total catch of Martialia hyadesi in Statistical Subarea 48.3 in the 2008/09 season shall not exceed a precautionary catch limit of 2 500 tonnes.

Season 3. For the purpose of the exploratory jig fishery for Martialia hyadesi in Statistical Subarea 48.3, the 2008/09 season is defined as the period from 1 December 2008 to 30 November 2009, or until the catch limit is reached, whichever is sooner.

Observers 4. Each vessel participating in this fishery shall have at least one scientific observer appointed in accordance with the CCAMLR Scheme of International Scientific Observation, and where possible one additional scientific observer, on board throughout all fishing activities within the fishing period.

Data: Catch/Effort 5. For the purpose of implementing this conservation measure in the 2008/09 season, the following shall apply:

(i) The Ten-day Catch and Effort Reporting System set out in Conservation Measure 23-02;

(ii) The Monthly Fine-scale Catch and Effort Reporting System set out in Conservation Measure 23-04. Fine-scale data shall be submitted on a haul-by-haul basis.

6. For the purpose of Conservation Measures 23-02 and 23-04, the target species is Martialia hyadesi and by-catch species are defined as any species other than Martialia hyadesi.

Data: Biological 7. Fine-scale biological data, as required under Conservation Measure 23-05, shall be collected and recorded. Such data shall be reported in accordance with the CCAMLR Scheme of International Scientific Observation.

Research 8. Each vessel participating in this exploratory fishery shall collect data in accordance with the Data Collection Plan described in Annex 61-01/A. Data collected pursuant to the plan for the period up to 31 August 2009 shall be reported to CCAMLR by 30 September 2009.

Environmental protection 9. Conservation Measure 26-01 applies.

ANNEX 61-01/a is unchanged

Resolution 27/XXVII

Use of a specific tariff classification for Antarctic krill (applies to krill in all areas in all seasons but only for trawl gear)

The Commission,

Recognising the importance of krill within the Antarctic ecosystem,

Mindful of the continuing increase in krill notifications received by the CCAMLR Secretariat and the potential for krill catch rates in the CAMLR Convention Area to also increase,

Noting the increased demand for krill products on the final destination markets,

Reaffirming the importance of continuing the orderly development of the Antarctic krill fishery to ensure that the expanding fishery remains consistent with the objectives of the Convention,

urges the Contracting Parties,

To introduce into their domestic law, and use accordingly, an appropriate tariff classification in order to improve knowledge of the volume and trade of Antarctic krill.

Resolution 28/XXVII

Ballast water exchange in the Convention Area (applies to all species in all areas in all seasons for all gear)

The Commission,

Affirming that CCAMLR was established to conserve the marine living resources of the Antarctic marine ecosystem,

Aware of the potential for invasive marine organisms to be transported into or moved between biologically distinct regions within the Convention Area by ships in their ballast water,

Recalling the requirements of Annex II to the Protocol on Environmental Protection to the Antarctic Treaty regarding conservation of Antarctic fauna and flora and in particular of the precautions taken to prevent the introduction of non-native species,

Conscious that the International Convention for the Control and Management of Ships' Ballast Waters and Sediments, 2004 (IMO Ballast Water Management Convention), has yet to enter into force, but noting in particular its Article 13, which provides that in order to further the objectives of the Convention, Parties with common interests to protect the environment * * * in a given geographical area * * * shall endeavourn * * * to enhance regional cooperation, including through the conclusion of regional agreements consistent with the Ballast Water Management Convention,

Recalling also Resolution 3(2006) adopted by the Antarctic Treaty Consultative Meeting, and Resolution MEPC.163(56) adopted by the International Maritime Organisation, which adopted Guidelines for Ballast Water Exchange in the Antarctic Treaty Area,

Desiring to extend the application of the above mentioned guidelines to the whole of the CAMLR Convention Area,

1. Urges all Contracting Parties and non-Contracting Parties cooperating with CCAMLR to take particular measures to apply the existing IMO Guidelines for Ballast Water Exchange in the Antarctic Treaty Area, and also the Guidelines for Ballast Water Exchange in the CAMLR Convention Area north of 60° S, as set out in the annex to this resolution, as an interim measure to all ships engaged in harvesting and associated activities in the CAMLR Convention Area, before the Ballast Water Management Convention comes into force.

2. Furthermore, urges all Contracting Parties and non-Contracting Parties cooperating with CCAMLR to take action to develop effective treatment for ballast water.

Annex

Guidelines for Ballast Water Exchange in the CAMLR Convention Area North of 60° S ¹

1. The application of these Guidelines should apply to those vessels covered by Article 3 of the IMO's International Convention for the Control and Management of Ships' Ballast Water and Sediments (the Ballast Water Management Convention), taking into account the exceptions in Regulation A-3 of the Convention, which are engaged in harvesting and associated activities in the CAMLR Convention Area (as set out in Article II.3 of the Convention). These Guidelines do not replace the requirements of the Ballast Water Management Convention, but supplement the interim Ballast Water Regional Management Plan for Antarctica under Article 13(3), which has been adopted in ATCM Resolution 3 (2006) and IMO Resolution MEPC.163(56).

2. If the safety of the ship is in any way jeopardised by a ballast exchange, it shall not take place. Additionally these guidelines shall not apply to the uptake or discharge of ballast water and sediments for ensuring the safety of the ship in emergency situations or saving life at sea in the CAMLR Convention Area.

3. A Ballast Water Management Plan should be prepared for each vessel with ballast tanks entering the Convention Area, specifically taking into account the problems of ballast water exchange in cold environments and in Antarctic conditions.

4. Each vessel entering the Convention Area should keep a record of ballast water operations.

5. Vessels are strongly encouraged to not discharge any ballast water in the Convention Area.

6. For vessels intending to discharge ballast water within the Convention Area, ballast water should first be exchanged before arrival in the Convention Area (preferably north of either the Antarctic Polar Frontal Zone or 60° S, whichever is the furthest north) and at least 200 n miles from the nearest land in water 200 m deep. (If this is not possible for operational reasons then such exchange should be undertaken in waters 50 n miles from the nearest land in waters of 200 m depth.)

7. Only those tanks that will be discharged in the Convention Area would need to undergo ballast water exchange following the procedure in paragraph 6. Ballast Water Exchange of all tanks is encouraged for all vessels that have the potential/capacity to load cargo in the Convention Area, as Antarctic voyages are renowned for their changes to planned routes and activities.

8. If a vessel has taken on ballast water in the Convention Area and is intending to discharge ballast water in Arctic, sub-Arctic, or sub-Antarctic waters, it is recommended that ballast water should be exchanged north of the Antarctic Polar Frontal Zone, and at least 200 n miles from the nearest land in water at least 200 m deep. (If this is not possible for operational reasons then such exchange should be undertaken in waters 50 n miles from the nearest land in waters of 200 m depth).

9. Release of sediments during the cleaning of ballast tanks should not take place in the Convention Area.

10. For vessels that have spent significant time in the Arctic, ballast water sediment should preferably be discharged and tanks cleaned before entering the Convention Area. If this cannot be done then sediment accumulation in ballast tanks should be monitored and sediment should be disposed of in accordance with the ship's Ballast Water Management Plan. If sediments are disposed of at sea, then they should be disposed of in waters greater than 200 n miles from the shoreline in waters 200 m deep.

11. CCAMLR Members are invited to exchange information on invasive marine species or anything that will change the perceived risk associated with ballast waters.

¹ ATCM Resolution 3(2006) and IMO Resolution MEPC.163(56) set out identical practical guidelines for all vessels operating in the Antarctic Treaty Area (i.e. south of 60° S).

Dated: February 2, 2009.
Samuel D. Rauch III,
Deputy Assistant Administrator for Regulatory Programs, National Marine Fisheries Service.
Dated: February 2, 2009.
Margaret F. Hayes,
Director, Office of Ocean Affairs, Department of State.

[FR Doc. E9-2516 Filed 2-11-09; 8:45 am]

BILLING CODE 3510-22-P